DEPARTMENT OF HEALTH AND HUMAN SERVICES

Centers for Medicare & Medicaid Services

42 CFR Part 484

[CMS-1301-P]

RIN 0938-AN44

Medicare Program; Home Health Prospective Payment System Rate Update for Calendar Year 2006

AGENCY: Centers for Medicare & Medicaid Services (CMS), HHS.

ACTION: Proposed rule.

SUMMARY: This proposed rule would set forth an update to the 60-day national episode rates and the national per-visit amounts under the Medicare prospective payment system for home health agencies. We are also proposing to implement the revised area labor market Metropolitan Statistical Area designations for calendar year 2006.

DATES: To be assured consideration, comments must be received at one of the addresses provided below, no later than 5 p.m. on September 6, 2005.

ADDRESSES: In commenting, please refer to file code CMS-1301-P. Because of staff and resource limitations, we cannot accept comments by facsimile (FAX) transmission.

You may submit comments in one of three ways (no duplicates, please):

1. Electronically. You may submit electronic comments on specific issues in this regulation to http://www.cms.hhs.gov/regulations/ecomments. (Attachments should be in Microsoft Word, WordPerfect, or Excel; however, we prefer Microsoft Word.)

2. By mail. You may mail written comments (one original and two copies) to the following address ONLY: Centers for Medicare & Medicaid Services, Department of Health and Human Services, Attention: CMS-1301-P, P.O. Box 8016, Baltimore, MD 21244-8016.

Please allow sufficient time for mailed comments to be received before the close of the comment period.

3. By hand or courier. If you prefer, you may deliver (by hand or courier) your written comments (one original and two copies) before the close of the comment period to one of the following addresses. If you intend to deliver your comments to the Baltimore address, please call telephone number (410) 786-7195 in advance to schedule your arrival with one of our staff members.

Hubert H. Humphrey Building, Room 445-G, 200 Independence Avenue, SW., Washington, DC 20201; or 7500 Security Boulevard, Baltimore, MD 21244-1850.

(Because access to the interior of the HHH Building is not readily available to persons without Federal Government identification, commenters are encouraged to leave their comments in the CMS drop slots located in the main lobby of the building. A stamp-in clock is available for persons wishing to retain a proof of filing by stamping in and retaining an extra copy of the comments being filed.)

Comments mailed to the addresses indicated as appropriate for hand or courier delivery may be delayed and received after the comment period.

For information on viewing public comments, see the beginning of the SUPPLEMENTARY INFORMATION section.

FOR FURTHER INFORMATION CONTACT: Randy Throndset, (410) 786-0131. Sharon Ventura, (410) 786-1985.

SUPPLEMENTARY INFORMATION: Submitting Comments: We welcome comments from the public on all issues set forth in this rule to assist us in fully considering issues and developing policies. You can assist us by referencing the file code CMS-1301-P and the specific “issue identifier” that precedes the section on which you choose to comment.

Inspection of Public Comments: All comments received before the close of the comment period are available for viewing by the public, including any personally identifiable or confidential business information that is included in a comment. CMS posts all electronic comments received before the close of the comment period on its public Web site as soon as possible after they have been received. Hard copy comments received timely will be available for public inspection as they are received, generally beginning approximately 3 weeks after publication of a document, at the headquarters of the Centers for Medicare & Medicaid Services, 7500 Security Boulevard, Baltimore, Maryland 21244, Monday through Friday of each week from 8:30 a.m. to 4 p.m. To schedule an appointment to view public comments, phone 1-800-743-3951.

I. Background

[If you choose to comment on issues in this section, please include the caption “BACKGROUND” at the beginning of your comments.]

A. Statutory Background

The Balanced Budget Act of 1997 (BBA) (Pub. L. 105-33), enacted on August 5, 1997, significantly changed the way Medicare pays for Medicare home health services. Until the implementation of a home health prospective payment system (HH PPS) on October 1, 2000, home health agencies (HHAs) received payment under a cost-based reimbursement system. Section 4603 of the BBA governed the development of the HH PPS.

Section 4603(a) of the BBA provides the authority for the development of a PPS for all Medicare-covered home health services provided under a plan of care that were paid on a reasonable cost basis by adding section 1895, entitled “Prospective Payment For Home Health Services,” to the Social Security Act (the Act).

Section 1895(b)(1) of the Act requires the Secretary to establish a PPS for all costs of home health services paid under Medicare.

Section 1895(b)(3)(A) of the Act requires that (1) the computation of a standard prospective payment amount include all costs of home health services covered and paid for on a reasonable cost basis and be initially based on the most recent audited cost report data available to the Secretary, and (2) the prospective payment amounts be standardized to eliminate the effects of case-mix and wage levels among HHAs.

Section 1895(b)(3)(B) of the Act addresses the annual update to the standard prospective payment amounts by the home health applicable increase percentage as specified in the statute.

Section 1895(b)(4) of the Act governs the payment computation. Sections 1895(b)(4)(A)(i) and (b)(4)(A)(ii) of the Act require the standard prospective payment amount to be adjusted for case-mix and geographic differences in wage levels. Section 1895(b)(4)(B) of the Act requires the establishment of an appropriate case-mix adjustment factor that explains a significant amount of the variation in cost among different units of services. Similarly, section 1895(b)(4)(C) of the Act requires the establishment of wage adjustment factors that reflect the relative level of wages and wage-related costs applicable to the furnishing of home health services in a geographic area compared to the national average applicable level. These wage-adjustment factors may be the factors used by the Secretary for the different area wage levels for purposes of section 1886(d)(3)(E) of the Act.

Section 1895(b)(5) of the Act gives the Secretary the option to grant additions or adjustments to the payment amount otherwise made in the case of outliers because of unusual variations in the type or amount of medically necessary care. Total outlier payments in a given fiscal year cannot exceed 5 percent of total payments projected or estimated.

On December 8, 2003, the Congress enacted the Medicare Prescription Drug, Improvement, and Modernization Act (MMA) of 2003 (Pub. L. 108-173). This legislation affected how we make updates to HH payment rates.

Section 701 of the MMA changed the yearly update cycle of the HH PPS rates from that of a fiscal year to a calendar year update cycle for 2004 and any subsequent year. Generally, section 701(a) of the MMA changed the references in the statute to refer to the calendar year for 2004 and any subsequent year. The changes resulted in updates to the HH PPS rates described as “fiscal year” updates for 2002 and 2003 and as “calendar year” updates for 2004 and any subsequent year (section 1895(b)(3)(B)(i) of the Act. Beginning on January 1, 2005, HH PPS will now be updated on a calendar year update cycle.

In addition to changing the update cycle for HH PPS rates, section 701 of the MMA made adjustments to the home health applicable increase percentage for 2004, 2005, and 2006. Specifically, section 701(a)(2)(D) of the MMA left unchanged the home health market basket update for the last calendar year quarter of 2003 and the first calendar year quarter of 2004 (section 1895(b)(3)(B)(ii)(II) of the Act). Furthermore, section 701(b)(4) of the MMA set the home health applicable percentage increase for the last 3 quarters of 2004 as the home health market basket (3.1 percent) minus 0.8 percentage point (section 1895(b)(3)(B)(ii)(III) of the Act). We implemented this provision through Pub. 100-20, One Time Notification, Transmittal 59, issued February 20, 2004. Section 701(b)(4) of the MMA also provided that updates for CY 2005 and CY 2006 will equal the applicable home health market basket percentage increase minus 0.8 percentage point. Lastly, section 701(b)(3) of the MMA revised the statute to provide that HH PPS rates for CY 2007 and any subsequent year will be updated by that year's home health market basket percentage increase (section 1895(b)(3)(B)(ii)(IV) of the Act).

B. Updates

On July 3, 2000, we published a final rule (65 FR 41128) in the Federal Register to implement the HH PPS legislation. That final rule established requirements for the new PPS for HHAs as required by section 4603 of the BBA, and as subsequently amended by section 5101 of the Omnibus Consolidated and Emergency Supplemental Appropriations Act (OCESAA) for Fiscal Year 1999 (Pub. L. 105-277), enacted on October 21, 1998; and by sections 302, 305, and 306 of the Medicare, Medicaid, and SCHIP Balanced Budget Refinement Act (BBRA) of 1999 (Pub. L. 106-113), enacted on November 29, 1999. The requirements include the implementation of a PPS for HHAs, consolidated billing requirements, and a number of other related changes. The PPS described in that rule replaced the retrospective reasonable-cost-based system that was used by Medicare for the payment of home health services under Part A and Part B.

On October 22, 2004, we published a final rule (69 FR 62124), which set forth an update to the 60-day national episode rates and the national per-visit amounts under the Medicare prospective payment system for home health agencies. As part of that final rule, we rebased and revised the home health market basket to ensure it continues to adequately reflect the price changes of efficiently providing home health services. In addition, we revised the fixed dollar loss ratio, which is used in the calculation of outlier payments. That final rule was also the first update of the HH PPS rates on a calendar year update cycle. HH PPS was moved to a calendar year update cycle as a result the MMA.

C. System for Payment of Home Health Services

Generally, Medicare makes payment under the HH PPS on the basis of a national standardized 60-day episode payment, adjusted for case mix and wage index. For episodes with four or fewer visits, Medicare pays on the basis of a national per-visit amount by discipline, referred to as a low utilization payment adjustment (LUPA). Medicare also adjusts the 60-day episode payment for certain intervening events that give rise to a partial episode payment adjustment (PEP adjustment) or a significant change in condition adjustment (SCIC). For certain cases that exceed a specific cost threshold, an outlier adjustment may also be available. For a complete and full description of the HH PPS as required by the BBA and as amended by OCESAA and BBRA, see the July 3, 2000 HH PPS final rule (65 FR 41128).

II. Provisions of the Proposed Regulations

[If you choose to comment on issues in this section, please include the caption “PROVISIONS OF THE PROPOSED REGULATIONS” at the beginning of your comments.]

A. National Standardized 60-Day Episode Rate

Medicare HH PPS has been effective since October 1, 2000. As set forth in the final rule published July 3, 2000 in the Federal Register (65 FR 41128), the unit of payment under Medicare HH PPS is a national standardized 60-day episode rate. As set forth in 42 CFR 484.220, we adjust the national standardized 60-day episode rate by a case mix grouping and a wage index value based on the site of service for the beneficiary. The proposed CY 2006 HH PPS rates use the same case-mix methodology and application of the wage index adjustment to the labor portion of the HH PPS rates as set forth in the July 3, 2000 final rule. In the October 22, 2004 final rule, we rebased and revised the home health market basket, resulting in a labor related share of 76.775 percent and a non-labor portion of 23.225 percent (69 FR 62126). We multiply the national 60-day episode rate by the patient's applicable case-mix weight. We divide the case-mix adjusted amount into a labor and non-labor portion. We multiply the labor portion by the applicable wage index based on the site of service of the beneficiary. As the home health market basket was rebased and revised last year, we are not proposing to rebase it for CY 2006.

As required by section 1895(b)(3)(B) of the Act, we have updated the HH PPS rates annually in a separate Federal Register document. Section 484.225 sets forth the specific percentage update for fiscal years 2001 through 2008. As amended by section 701 of the MMA, § 484.225(f) sets the CY 2006 unadjusted national prospective 60-day episode payment rate equal to the rate from the previous calendar year (CY 2005), increased by the applicable home health market basket minus 0.8 percentage point.

For CY 2006, we are proposing to use again the design and case-mix methodology described in section III.G of the HH PPS July 3, 2000 final rule (65 FR 41192 through 41203). For CY 2006, we are proposing to base the wage index adjustment to the labor portion of the PPS rates on the most recent pre-floor and pre-reclassified hospital wage index as discussed in section II.D of this proposed rule (not including any reclassifications under section 1886(d)(8)(B)) of the Act.

As discussed in the July 3, 2000 HH PPS final rule, for episodes with four or fewer visits, Medicare pays the national per-visit amount by discipline, referred to as a LUPA. We update the national per-visit amounts by discipline annually by the applicable home health market basket percentage. We adjust the national per-visit amount by the appropriate wage index based on the site of service for the beneficiary as set forth in § 484.230. We propose to adjust the labor portion of the updated national per-visit amounts by discipline used to calculate the LUPA by the most recent pre-floor and pre-reclassified hospital wage index, as discussed in section II.D of this proposed rule.

Medicare pays the 60-day case-mix and wage-adjusted episode payment on a split percentage payment approach. The split percentage payment approach includes an initial percentage payment and a final percentage payment as set forth in § 484.205(b)(1) and (b)(2). We may base the initial percentage payment on the submission of a request for anticipated payment and the final percentage payment on the submission of the claim for the episode, as discussed in § 409.43. The claim for the episode that the HHA submits for the final percentage payment determines the total payment amount for the episode and whether we make an applicable adjustment to the 60-day case-mix and wage-adjusted episode payment. The end date of the 60-day episode as reported on the claim determines the rate level at which Medicare will pay the claim for the fiscal period.

We may also adjust the 60-day case-mix and wage-adjusted episode payment based on the information submitted on the claim to reflect the following:

• A low utilization payment provided on a per-visit basis as set forth in § 484.205(c) and § 484.230.

• A partial episode payment adjustment as set forth in § 484.205(d) and § 484.235.

• A significant change in condition adjustment as set forth in § 484.205(e) and § 484.237.

• An outlier payment as set forth in § 484.205(f) and § 484.240.

This proposed rule reflects the proposed updated CY 2006 rates that would be effective January 1, 2006.

B. Proposed CY 2006 Update to the Home Health Market Basket Index

Section 1895(b)(3)(B) of the Act, as amended by section 701 of the MMA, requires for CY 2006 that the standard prospective payment amounts be increased by a factor equal to the applicable home health market basket update minus 0.8 percentage point.

• Proposed CY 2006 Adjustments

In calculating the annual update for the CY 2006 60-day episode rates, we are proposing to first look at the CY 2005 rates as a starting point. The CY 2005 national 60-day episode rate, as published in the Federal Register (69 FR 62124) is $2,264.28.

In order to calculate the CY 2006 national 60-day episode rate, we are proposing to multiply the CY 2005 national 60-day episode rate ($2,264.28) by the proposed estimated home health market basket update of 3.3 percent for CY 2006 minus 0.8 percentage point.

We would increase the CY 2005 60-day episode payment rate by the proposed estimated home health market basket update (3.3 percent) minus 0.8 percentage point ($2,264.28 × 2.5 percent) to yield the proposed updated CY 2006 national 60-day episode rate ($2,320.89) (see Table 1 below).

Table 1.—Proposed National 60-Day Episode Amounts Updated by the Proposed Estimated Home Health Market Basket Update for CY 2006, Minus 0.8 Percentage Point, Before Case-Mix Adjustment, Wage Index Adjustment Based on the Site of Service for the Beneficiary or Applicable Payment Adjustment
Total prospective payment amount per 60-day episode for CY 2005 | Multiply by the proposed estimated home health market basket update (3.3 percent) minus 0.8 percentage point | Proposed CY 2006 updated national 60-day episode rate
$2,264.28 | 1.025 | $2,320.89

National Per-visit Amounts Used to Pay LUPAs and Compute Imputed Costs Used in Outlier Calculations

As discussed previously in this proposed rule, the policies governing the LUPAs and outlier calculations set forth in the July 3, 2000 HH PPS final rule will continue during CY 2006. In calculating the annual update for the CY 2006 national per-visit amounts we use to pay LUPAs and to compute the imputed costs in outlier calculations, we are proposing to look again at the CY 2005 rates as a starting point. We then are proposing to multiply those amounts by the proposed estimated home health market basket update minus 0.8 percentage point for CY 2006 to yield the updated per-visit amounts for each home health discipline for CY 2006 (see Table 2 below).

Table 2.—Proposed National Per-Visit Amounts for LUPAs and Outlier Calculations Updated by the Proposed Estimated Home Health Market Basket Update for CY 2006, Minus 0.8 Percentage Point, Before Wage Index Adjustment Based on the Site of Service for the Beneficiary
Home health discipline type | Final per-visit amount per 60-day episode for CY 2005 for LUPAs | Multiply by the proposed estimated home health market basket (3.3 percent) minus 0.8 percentage point | Proposed per-visit payment amount per discipline for CY 2006 for LUPAs
Home Health Aide | $44.76 | 1.025 | $45.88
Medical Social Services | 158.45 | 1.025 | 162.41
Occupational Therapy | 108.81 | 1.025 | 111.53
Physical Therapy | 108.08 | 1.025 | 110.78
Skilled Nursing | 98.85 | 1.025 | 101.32
Speech-Language Pathology | 117.44 | 1.025 | 120.38

C. Outliers and the Fixed Dollar Loss Ratio

Outlier payments are payments made in addition to regular 60-day case-mix and wage-adjusted episode payments for episodes that incur unusually large costs due to patient home health care needs. Outlier payments are made for episodes for which the estimated cost exceeds a threshold amount. The episode's estimated cost is the sum of the national wage-adjusted per-visit payment amounts for all visits delivered during the episode. The outlier threshold for each case-mix group, PEP adjustment, or total SCIC adjustment is defined as the 60-day episode payment amount, PEP adjustment, or total SCIC adjustment for that group plus a fixed dollar loss amount. Both components of the outlier threshold are wage-adjusted.

The wage-adjusted fixed dollar loss (FDL) amount represents the amount of loss that an agency must bear before an episode becomes eligible for outlier payments. The FDL is computed by multiplying the wage-adjusted 60-day episode payment amount by the fixed dollar loss ratio, which is a proportion expressed in terms of the national standardized episode payment amount. The outlier payment is defined to be a proportion of the wage-adjusted estimated costs beyond the wage-adjusted threshold. The proportion of additional costs paid as outlier payments is referred to as the loss-sharing ratio.

Section 1895(b)(5) of the Act requires that estimated total outlier payments are no more than 5 percent of total estimated HH PPS payments. In response to the concerns about potential financial losses that might result from unusually expensive cases expressed in comments to the October 28, 1999 proposed rule (64 FR 58133), the July 2000 final rule set the target for estimated outlier payments at the 5 percent level. The fixed dollar loss ratio and the loss-sharing ratio were then selected so that estimated total outlier payments would meet the 5 percent target.

For a given level of outlier payments, there is a trade-off between the values selected for the fixed dollar loss ratio and the loss-sharing ratio. A high fixed dollar loss ratio reduces the number of episodes that can receive outlier payments, but makes it possible to select a higher loss-sharing ratio and, therefore, increase outlier payments for outlier episodes. Alternatively, a lower fixed dollar loss ratio means that more episodes can qualify for outlier payments, but outlier payments per episode must be lower. As a result of public comments on the October 28, 1999 proposed rule, in our July 2000 final rule, we made the decision to attempt to cover a relatively high proportion of the costs of outlier cases for the most expensive episodes that would qualify for outlier payments within the 5 percent constraint.

In the July 2000 final rule, we chose a value of 0.80 for the loss-sharing ratio, which preserves incentives for agencies to attempt to provide care efficiently for outlier cases. A loss-sharing ratio of 0.80 was also consistent with the loss-sharing ratios used in other Medicare PPS outlier policies. Furthermore, we estimated the value of the fixed dollar loss ratio that would yield estimated total outlier payments that were 5 percent of total home health PPS payments. The resulting value for the fixed dollar loss ratio, for the July 2000 final rule, was 1.13.

Our CY 2005 update to the HH PPS rates (69 FR 62124) changed the fixed dollar loss ratio from the original 1.13 to 0.70 to allow more home health episodes to qualify for outlier payments and to better meet the estimated 5 percent target of outlier payments to total HH PPS payments. We stated in that CY 2005 update that we planned to continue to monitor the outlier expenditures on a yearly basis and to make adjustments as necessary (69 FR 62129). To do so, we planned on using the best Medicare data available at the time of publication. For the CY 2005 update, we used CY 2003 home health claims data. At this time, we do not have sufficient data to propose any update to the FDL ratio for the CY 2006 update to the HH PPS rates. However, depending on the availability of more recent data at the time of publication of the HH PPS rate update for CY 2006 final rule, we may, if necessary, implement an update to the FDL ratio for the CY 2006 update to the HH PPS rates. If so, we plan on using the same methodology performed in updating to the current FDL ratio described in the June 2, 2004 proposed rule using any more recent available data.

D. Hospital Wage Index

1. Revised OMB Definition for Geographical Statistical Areas

Sections 1895(b)(4)(A)(ii) and (b)(4)(C) of the Act require the Secretary to establish area wage adjustment factors that reflect the relative level of wages and wage-related costs applicable to the furnishing of home health services and to provide appropriate adjustments to the episode payment amounts under HH PPS to account for area wage differences. We apply the appropriate wage index value to the labor portion (76.775 percent; see (60 FR 62126)) of the HH PPS rates based on the geographic area in which the beneficiary received home health services as discussed in section II. A of this proposed rule. Generally, we determine each HHA's labor market area based on definitions of Metropolitan Statistical Areas (MSAs) issued by the Office of Management and Budget (OMB).

We acknowledged in our October 22, 2004 final rule that, on June 6, 2003, the OMB issued an OMB Bulletin (No. 03-04) announcing revised definitions for Metropolitan Statistical Areas (MSAs), new definitions for Micropolitan Statistical Areas and Combined Statistical Areas, and guidance on using the statistical definitions. A copy of the Bulletin may be obtained at the following Internet address: http://www.whitehouse.gov/omb/bulletins/b03-04.html. At that time, we did not propose to apply these new definitions known as Core-Based Statistical Areas (CBSAs). After further analysis, we are proposing to use the OMB-revised definitions to adjust the proposed CY 2006 HH PPS payment rates. The Hospital Inpatient PPS (IPPS) is applying these revised definitions as discussed in the August 11, 2004 IPPS final rule (68 FR 49207).

a. Background. As discussed previously and set forth in the July 3, 2000 final rule, the statute provides that the wage adjustment factors may be the factors used by the Secretary for purposes of section 1886(d)(3)(E) of the Act for hospital wage adjustment factors. Again, as discussed in the July 3, 2000 final rule, we are proposing to use the pre-floor and pre-reclassified hospital wage index data to adjust the labor portion of the HH PPS rates based on the geographic area in which the beneficiary receives the home health services. We believe the use of the pre-floor and pre-reclassified hospital wage index data results in the appropriate adjustment to the labor portion of the costs as required by statute. For this proposed CY 2006 update to the home health payment rates, we propose to continue to use the most recent pre-floor and pre-reclassified hospital wage index available at the time of publication. See Addenda A and B of this proposed rule, respectively, for the proposed rural and urban hospital wage indices using the new MSA designations. For HH PPS rates addressed in this proposed rule, we are using preliminary 2006 pre-floor and pre-reclassified hospital wage index data. We will incorporate updated hospital wage index data for the 2006 pre-floor and pre-reclassified hospital wage index to be used in the final rule for the CY 2006 HH PPS update (not including any reclassifications under section 1886(d)(8)(B) of the Act).

As implemented under the HH PPS in the July 3, 2000 HH PPS final rule, each HHA's labor market is determined based on definitions of MSAs issued by OMB. In general, an urban area is defined as an MSA or New England County Metropolitan Area (NECMA) as defined by OMB. Under § 412.62(f)(1)(iii), a rural area is defined as any area outside of the urban area. The urban and rural area geographic classifications are defined in § 412.62(f)(1)(ii) and (f)(1)(iii), respectively, and have been used under HH PPS since it was implemented.

Under the HH PPS, the wage index value used is based upon the location of the beneficiary's home. As has been our longstanding practice, any area not included in an MSA (urban area) is considered to be nonurban (§ 412.64(b)(1)(ii)(C)) and receives the statewide rural wage index value (see, for example (65 FR 41173)).

Currently, the MSA definitions are used under other prospective payment systems such as the inpatient rehabilitation facility PPS (IRF PPS), the inpatient psychiatric facility PPS (IPF PPS), the skilled nursing facility PPS (SNF PPS), and Medicare payment for hospice care. In the August 11, 2004 IPPS final rule (69 FR 49206 through 49034), revised labor market area definitions were adopted under § 412.64(b), which were effective October 1, 2004 for acute care hospitals. The new standards, CBSAs, were announced by OMB in late 2000 and are discussed in greater detail below.

As indicated above, we are proposing to implement the designations and definitions published by OMB. Details can be found in the June 6, 2003 OMB Bulletin (No. 03-04). In this proposed rule, we will address the new OMB definitions and their application to the home health wage index used by HH PPS. We are also proposing to revise § 484.202 (Definitions) to reflect those new designations and definitions. As we use the hospital inpatient wage data as the basis for determining the wage index used by HH PPS, we are generally adopting the same approach as taken by the hospital inpatient prospective payment system (IPPS). The changes in the hospital wage index based on the new OMB definitions are discussed in the inpatient prospective payment system (IPPS) proposed rule published in the Federal Register on May 18, 2004 (69 FR 28196) as well as in the IPPS final rule published on August 11, 2004 (69 FR 48916).

b. Current Labor Market Areas Based on MSAs. As noted above, we currently define labor market areas based on the definitions of Metropolitan Statistical Areas (MSAs), Primary MSAs (PMSAs), and New England County Metropolitan Areas (NECMAs) issued by the OMB. The OMB also designates Consolidated MSAs (CMSAs). A CMSA is a metropolitan area with a population of one million or more, comprising two or more PMSAs (identified by their separate economic and social character). For the purposes of the wage index, we use the PMSAs rather than the CMSAs because they allow a more precise breakdown of labor costs. If a metropolitan area is not designated as part of a PMSA, we use the applicable MSA. These different designations use counties as the building blocks upon which they are based. Hospitals are assigned to either an MSA, PMSA, or NECMA based on whether the county in which the hospital is located is part of that area. All of the counties in a State outside a designated MSA, PMSA, or NECMA are designated rural. For the purposes of calculating the wage index, we combine all of the counties in a State outside a designated MSA, PMSA, or NECMA together to calculate the statewide rural wage index for each state.

c. Core-Based Statistical Areas. The OMB reviews its Metropolitan Area (MA) definitions preceding each decennial census. As discussed in the August 11, 2004 IPPS final rule (69 FR 49207), in the Fall of 1998, the OMB chartered the Metropolitan Area Standards Review Committee to examine the MA standards and develop recommendations for possible changes to those standards. Three notices related to the review of the standards, providing an opportunity for public comment on the recommendations of the Committee, were published in the Federal Register on the following dates: December 21, 1998 (63 FR 70526); October 20, 1999 (64 FR 56628); and August 22, 2000 (65 FR 51060).

In the December 27, 2000 Federal Register (65 FR 82228 through 82238), OMB announced its new standards. In that notice, the OMB defines a Core-Based Statistical Area (CBSA), beginning in 2003, as “a geographic entity associated with at least one core of 10,000 or more population, plus adjacent territory that has a high degree of social and economic integration with the core as measured by commuting ties.” The standards designate and define two categories of CBSAs: Metropolitan Statistical Areas (MSAs) and Micropolitan Statistical Areas (65 FR 82235).

According to the OMB, MSAs are based on urbanized areas of 50,000 or more population, and Micropolitan Statistical Areas (referred to in further discussion as Micropolitan Areas) are based on urban clusters of at least 10,000 population but less than 50,000 population. Counties that do not fall within CBSAs (either MSAs or Micropolitan Areas) are deemed “Outside CBSAs.” In the past, the OMB defined MSAs around areas with a minimum core population of 50,000, and smaller areas were “Outside MSAs.”

On June 6, 2003, OMB announced the new CBSAs, comprised of MSAs and the new Micropolitan Areas based on Census 2000 data. (A copy of the announcement may be obtained at the following Internet address: http://www.whitehouse.gov/omb/bulletins/fy04/b04-03.html.) The new CBSA designations recognize 49 new (urban) MSAs and 565 new Micropolitan Areas, and revise the composition of many of the existing (urban) MSAs. There are 1,090 counties in MSAs under these new CBSA designations compared with 848 counties in the previous MSAs. Of these 1,090 counties, 737 are in the same MSA as they were before the changes, 65 are in different MSAs, and 288 were not previously designated to any MSA. There are 674 counties in Micropolitan Areas. Of these, 41 were previously in an MSA, while 633 were not previously designated to an MSA. There are five counties that previously were designated to a MSA but are no longer designated to either an MSA or a new Micropolitan Area: Carter County, KY; St. James Parish, LA; Kane County, UT; Culpepper County, VA; and King George County, VA. For a more detailed discussion of the new CBSAs, refer to the August 11, 2004 IPPS final rule (67 FR 49026 through 49034).

d. Proposed Revision to the HH PPS Labor Market Areas. In its June 6, 2003 announcement, OMB cautioned that these new definitions “should not be used to develop and implement Federal, State, and local nonstatistical programs and policies without full consideration of the effects of using these definitions for such purposes. These areas should not serve as a general-purpose geographic framework for nonstatistical activities, and they may or may not be suitable for use in program funding formulas.”

In the HH PPS update for CY 2005 proposed rule (69 FR 31260, June 2, 2004), we noted that the recently published IPPS proposed rule for FY 2005 had discussed some of the issues associated with using these new definitions, and had invited public comment on them. Accordingly, we decided to defer proposing any new labor market definitions in the home health context at that time, in order to allow the public sufficient time and opportunity to consider and provide comments on this issue. In that HH PPS proposed rule, we also invited all interested parties to provide input on this issue in the specific context of the HH PPS. We believe that sufficient time has now elapsed for interested parties to consider and react to the new OMB definitions and, accordingly, we are now proposing to make the changes discussed below.

We have continued to use MSAs to define labor market areas for purposes of the wage index. For the HH PPS, the statute states that the Secretary shall establish area wage adjustment factors that reflect the relative level of wages and wage-related costs applicable to the furnishing of home health services in a geographic area compared to the national average applicable level. We believe MSAs are a reasonable and appropriate proxy for developing geographic areas for purposes of adjusting for wage differences in HH PPS and for many of the same reasons stated in the various IPPS rules over the years where this issue has been exhaustively examined. We also note that MSAs have been used to define labor market areas for purposes of the wage index for many of the other Medicare payment systems (for example, IRF PPS, SNF PPS, hospice, and IPF PPS).

First, historically, Medicare prospective payment systems have used MA definitions developed by OMB. For example, in discussing the adoption of the MSA designation for the IPPS area labor adjustment, the IPPS proposed rule for FY 1985 (49 FR 27426, July 3, 1984) stated:

[i]n administering a national payment system, we must have a national classification system built on clear, objective standards. Otherwise the program becomes increasingly difficult to administer because the distinction between rural and urban hospitals is blurred. We believe that the MSA system is the only one that currently meets the requirements for use as a classification system in a national payment program. The MSA classification system is a statistical standard developed for use by Federal agencies in the production, analysis, and publication of data on metropolitan areas. The standards have been developed with the aim of producing definitions that will be as consistent as possible for all MSAs nationwide.

In addition, in numerous instances, the Congress has recognized that the areas developed by OMB may be used for differentiating among geographic areas for Medicare payment purposes. For example, in the IPPS statutory sections, the Congress defines an “urban area” as “an area within a Metropolitan Statistical Area (as defined by the Office of Management and Budget) or within such similar area as the Secretary has recognized.” Section 1886(d)(2)(D) of the Act. Similarly, in the sections of the statute governing the guidelines to be used by the Medicare Geographic Classification Review Board for purposes of reclassification, the Congress directed the Secretary to create guidelines for “determining whether the county in which the hospital is located should be treated as being a part of a particular [MSA].” Section 1886(d)(10)(A), (D)(i)(II) of the Act. Thus, the Congress has accepted and ratified the use of MSAs as an inherently rational manner of dividing labor-market areas for purposes of Medicare payments.

The process used by OMB to develop the MSAs creates geographic areas upon characteristics that we believe also generally reflect the characteristics of unified labor market areas. For example, the CBSAs reflect a core population plus an adjacent territory that reflects a high degree of social and economic integration. This integration is measured by commuting ties, thus demonstrating that these areas may draw workers from the same general areas. In addition, the most recent CBSAs reflect the most up-to-date information. OMB reviews its MA definitions preceding each decennial census to reflect recent population changes and the CBSAs are based on the Census 2000 data. Finally, in the context of the IPPS, we have reviewed alternative methods for determining geographic areas for purposes of the wage index, and in each case, have decided to retain the OMB designations rather than replace these designations with alternatives.

Because we believe that we have broad authority to create labor market areas, and because we also believe that OMB's latest MA designations accurately reflect the local economies and wage levels of the areas in which hospitals are currently located, we are proposing to adopt the revised labor market area designations based on OMB's CBSA designations.

Furthermore, when we implemented the wage index adjustment at § 484.210 under the HH PPS in the July 3, 2000 HH PPS final rule (65 FR 41213), we stated that an appropriate wage index was to be used to adjust for area wage differences. We also explained that in the adjustment to the national prospective 60-day episode payment rate, we have to account for the geographic differences in wage levels using an appropriate wage index based on the site of service of the beneficiary (65 FR 41213). Because we believe that OMB's CBSA designations based on Census 2000 data reflect the most recent available geographic classifications (MA definitions), as noted above we are proposing to revise the labor market area definitions used under the HH PPS. Specifically, we are proposing to revise the HH PPS labor market definitions based on OMB's new CBSA designations (as discussed in greater detail below), effective for HH PPS services occurring on or after January 1, 2006.

We note that OMB's new CBSA designations are the same labor market area definitions implemented under the IPPS at § 412.64(b), which were effective for those hospitals beginning October 1, 2004, as discussed in the August 11, 2004 IPPS final rule (69 FR 49026 through 49034). The similarity between the IPPS and the HH PPS includes the adoption in the initial implementation of the HH PPS of the same labor market area definitions under the HH PPS that existed under the IPPS at that time, as well as the use of acute care hospitals' wage data in calculating the HH PPS wage index. Therefore, we believe that proposing to revise the HH PPS labor market area definitions based on OMB's CBSA designations is consistent with our historical practice of generally modeling HH PPS wage index policy after IPPS wage index policy.

Below, we discuss the composition of the proposed HH PPS labor market areas based on OMB's new CBSA designations.

(1) New England County Metropolitan Areas. NECMAs are currently used to define labor market areas in New England, because they are county-based designations rather than the 1990 MSA definitions for New England, which used minor civil divisions such as cities and towns. Under the new CBSA definition, OMB has now defined the MSAs and Micropolitan Areas in New England on the basis of counties. OMB also established New England City and Town Areas, which are similar to the previous New England MSAs. Therefore, to maintain consistency among all labor market areas and to maintain these areas on the basis of counties, under the HH PPS, we are proposing to use the county-based areas for all MSAs in the nation, including those in New England. Census 2000 has now defined the New England area based on counties, creating a city- and town-based system as an alternative. We believe that adopting county-based labor market areas for the entire country, except those in New England, would lead to inconsistencies in our designations. Adopting county-based labor market areas for the entire country provides consistency and stability in Medicare program payment because all the labor market areas throughout the country including New England, would be defined using the same system (that is, counties) rather than different systems in different areas of the county, thus minimizing programmatic complexity.

In addition, we have consistently employed a county-based system for New England for precisely that reason: to maintain consistency with the labor market definitions used throughout the country. We note that this is consistent with the implementation of the CBSA designations under the IPPS for New England (see August 11, 2004 (69 FR 49028)). Accordingly, under the HH PPS we are proposing to use the New England MSAs as determined under the proposed new CBSA-based labor market area definitions in defining the proposed revised HH PPS labor market areas.

(2) Metropolitan Divisions. Under OMB's new CBSA designations, a Metropolitan Division is a county or group of counties within a CBSA that contains a core population of at least 2.5 million, representing an employment center, plus adjacent counties associated with the main county or counties through commuting lines. A county qualifies as a main county if 65 percent or more of its employed residents work within the county and the ratio of the number of jobs located in the county to the number of employed residents is at least 0.75. A county qualifies as a secondary county if 50 percent or more, but less than 65 percent, of its employed residents work within the county and the ratio of the number of jobs located in the county to the number of employed residents is at least 0.75. After all the main and secondary counties are identified and grouped, each additional county that already has qualified for inclusion in the MSA falls within the Metropolitan Division associated with the main/secondary county or counties with which the county at issue has the highest employment interchange measure. Counties in a Metropolitan Division must be contiguous (65 FR 82236). Metropolitan Divisions have been implemented under IPPS (69 FR 49029).

As noted above, in the past, OMB designated CMSAs as Metropolitan Areas with a population of one million or more and comprised of two or more PMSAs. Under the HH PPS, we currently use the PMSAs rather than CMSAs to define labor market areas because they comprise a smaller geographic area with potentially varying labor costs due to different local economies. We believe that CMSAs may be too large an area to accurately reflect the local labor costs of all of the individual hospitals included in that relatively “large” area. Similarly, we believe that Metropolitan Divisions under the CBSA designations may be too large an area to accurately reflect the local labor costs of all of the individual hospitals included in that relatively “large” area. Further, Metropolitan Divisions represent the closest approximation to PMSAs and, therefore, would most accurately maintain our current structuring of the HH PPS labor market areas. Therefore, as implemented under the IPPS (69 FR 49029), we are proposing to use the Metropolitan Divisions where applicable (as described below) under the proposed new CBSA-based labor market area definitions.

In addition to being comparable to the organization of the labor market areas under current MSA designations, we believe that proposing to use Metropolitan Divisions where applicable (as described below) under the HH PPS would result in a more accurate adjustment for the variation in local labor market areas. Specifically, if we recognize the relatively “larger” CBSA that comprises two or more Metropolitan Divisions as an independent labor market area for purposes of the wage index, it would be too large and would include the data from too many hospitals to compute a wage index that would accurately reflect the various local labor costs of all of the individual hospitals included in that relatively “large” CBSA. By proposing to recognize Metropolitan Divisions where applicable (as described below) under the proposed new CBSA-based labor market area definitions under the HH PPS, we believe that the local labor costs would be more accurately reflected, thereby resulting in a wage index adjustment that better reflects the variation in the local labor costs of the local economies served by HHAs in those relatively “smaller” areas.

Under CBSA definitions, there are 11 MSAs containing Metropolitan Divisions: Boston; Chicago; Dallas; Detroit; Los Angeles; Miami; New York; Philadelphia; San Francisco; Seattle; and Washington, D.C. Although these MSAs were also CMSAs under the prior definitions, in some cases their areas have been significantly altered.

Under the current HH PPS MSA designations, Boston was a single NECMA. Under the proposed CBSA-based labor market area designations, it would be comprised of 4 Metropolitan Divisions. Los Angeles would go from 4 PMSAs under the current HH PPS MSA designations to 2 Metropolitan Divisions under the proposed CBSA-based labor market area designations. The New York CMSA would go from 15 PMSAs under the current HH PPS MSA designations to only 4 Metropolitan Divisions under the proposed CBSA-based labor market area designations. Five PMSAs in Connecticut under the current HH PPS MSA designations would become separate MSAs under the proposed CBSA-based labor market area designations. The number of PMSAs in New Jersey, under the current HH PPS MSA designations would go from 5 to 2, with the consolidation of 2 New Jersey PMSAs (Bergen-Passaic and Jersey City) into the New York-Wayne-White Plains, NY-NJ Division, under the proposed CBSA-based labor market area designations. In San Francisco, under the proposed CBSA-based labor market area designations, there are only 2 Divisions. Currently, there are 6 PMSAs, some of which are now separate MSAs under the current HH PPS labor market area designations.

Under the current HH PPS labor market area designations, Cincinnati, Cleveland, Denver, Houston, Milwaukee, Portland, Sacramento, and San Juan are all designated as CMSAs, but would no longer be designated as CMSAs under the proposed CBSA-based labor market area designations. As noted previously, the population threshold to be designated a CMSA under the current HH PPS labor market area designations is one million. In most of these cases, counties currently in a PMSA would become a separate, independent MSA under the proposed CBSA-based labor market area designations, leaving only the MSA for the core area under the proposed CBSA-based labor market area designations.

(3) Micropolitan Areas. Under OMB's new CBSA designations, Micropolitan Areas are essentially a third area definition comprised primarily of what are currently designated as rural areas, but also include some or all of areas that are currently designated as an urban MSA. As discussed in the August 11, 2004 IPPS final rule (69 FR 49029-49032), how these areas are treated would have significant impact on the calculation and application of the hospital wage index. Specifically, whether or not Micropolitan Areas are included as part of the respective statewide rural wage indices would affect the value of the statewide rural wage index of any State that contains a Micropolitan area. A hospital's classification as urban or rural affects which hospitals' wage data are included in the statewide rural wage index. As discussed in section II.D.1.b of this proposed rule, all counties in a State outside a designated urban area are combined to calculate the statewide rural wage index for each State.

Micropolitan Areas included as part of the statewide rural labor market area would result in an increase to the statewide rural wage index because hospitals located in those Micropolitan Areas typically have higher labor costs than other rural hospitals in the State. Alternatively, as discussed in greater detail below, if Micropolitan Areas were recognized as independent labor market areas, because there would be so few hospitals in those areas to complete a wage index, the wage indices for those areas would become relatively unstable as they would change considerably from year to year.

Currently, we use MSAs to define urban labor market areas and group all the hospitals in counties within each State that are not assigned to an MSA into a statewide rural labor market area. Therefore, we used the terms “urban” and “rural” wage indices in the past for ease of reference. However, the introduction of Micropolitan Areas by OMB potentially complicates this terminology because these areas include many hospitals that are currently included in the statewide rural labor market areas. Thus, the term “rural” is now used to describe hospitals in counties that are not assigned to either MSA or Micropolitan areas.

We are proposing to treat Micropolitan Areas as rural labor market areas under the HH PPS for the reasons outlined below. That is, counties that are assigned to a Micropolitan area under the CBSA designations would be treated the same as other “rural” counties that are not assigned to either an MSA (Metropolitan Area) or a Micropolitan Area. Therefore, in determining the applicable HH PPS wage index (based on IPPS hospital wage index data, as discussed in greater detail below in section II.D. of this preamble), we propose that the wage index for an HHA servicing a home health beneficiary in a Micropolitan Area under the OMB's CBSA designations would be classified as “rural” and would be assigned the statewide rural wage index for that State.

In the August 11, 2004 IPPS final rule, (69 FR 49029 through 49032), we discussed the impact of treating Micropolitan areas as part of the statewide rural labor market area instead of treating Micropolitan Areas as independent labor market areas for hospitals paid under IPPS. As discussed in greater detail in that same final rule, Micropolitan Areas encompass smaller populations than MSAs and tend to include fewer hospitals per Micropolitan Area.

As Micropolitan Areas tend to include fewer hospitals, recognizing Micropolitan Areas as independent labor market areas would generally increase the potential for dramatic shifts in those areas' wage indices from one year to the next because a single hospital (or group of hospitals) could have a disproportionate effect on the wage index of the area. Dramatic shifts in an area's wage index from year to year are problematic because they result in the instability of payment levels from year to year, which makes fiscal planning difficult. Therefore, in order to minimize the potential instability in payment levels from year to year, we believe it would be appropriate to treat Micropolitan Areas as part of the statewide rural labor market area under HH PPS.

Consistent with the treatment of these areas under the IPPS, we are proposing that Micropolitan Areas be considered a part of the statewide rural labor market area. Accordingly, we are proposing that the HH PPS statewide rural wage index would be determined using acute-care IPPS hospital wage data from hospitals located in non-MSA areas and that the statewide rural wage index would be assigned to home health episodes of care for beneficiaries being served in those areas.

We are proposing to adopt OMB's new labor market designations for CY 2006, effective January 1, 2006. In adopting the CBSA designations, we identified some geographic areas where there were no hospitals, and thus no hospital wage index data on which to base the calculation of the CY 2006 HH PPS proposed wage index. In addressing this situation, we are proposing approaches that we believe serve as proxies for hospital wage data and will provide an appropriate standard that accounts for area wage differences.

The first situation involves rural locations in Massachusetts and Puerto Rico. Under the proposed labor market areas, there are no rural hospitals in those locations. Because there is no reasonable proxy for more recent rural data within those areas, we are proposing to use last year's wage index value for rural Massachusetts and rural Puerto Rico.

The second situation has to do with the urban areas of Hinesville, GA (CBSA 25980) and Mansfield, OH (CBSA 31900). Under the proposed new labor market areas, there are no urban hospitals within those areas. We propose to use all of the urban areas within the State to serve as a reasonable proxy for the urban areas without specific hospital wage index data in determining the HH PPS wage index. Therefore, in this proposed rule, we calculated the urban wage index value for purposes of the wage index for these areas without urban hospital data as the average wage index for all urban areas within the State. We could not apply a similar averaging in rural areas because in the rural areas noted above, there is no rural hospital data available for averaging on a state-wide basis. We solicit comments on these approaches to calculating the wage index values for areas without hospitals for CY 2006 and subsequent years.

(4) Implementation of the Proposed Revised Labor Market Designation. When the revised labor market areas based on OMB's new CBSA designations were adopted under the IPPS beginning on October 1, 2004, a transition to the new designations was established due to the scope and magnitude of the change, in order to mitigate the resulting adverse impact on certain hospitals. As discussed in the August 11, 2004 IPPS final rule (69 FR 49032), during FY 2005, a blend of wage indices is calculated for those acute care IPPS hospitals experiencing a drop in their wage indices because of the adoption of the new labor market areas. Also, as described in that same final rule (69 FR 49032), under the IPPS, hospitals that previously had been located in an urban MSA but became rural under the new CBSA definitions are assigned the wage index value of the urban area to which they belonged previously, for 3 years (FYs 2005 through 2007).

Unlike IPPS and some of the other payment systems where each entity uses a single MSA, HHAs may use various wage indices to compute their payments based upon the location of the beneficiary. Therefore, we do not believe that in the aggregate, HHAs would be impacted negatively by the new CBSA designations. While we understand that there are CBSAs that decrease based upon the new definitions, there are those that would be positively affected. For example, many counties that have been included in the rural definitions under the MSA designations are now designated as urban areas under the CBSA and would generally receive an increase in their wage index. We believe that adjustments made to CBSAs because of negative impact would necessitate adjustments to CBSAs that are positively impacted. Variability and changes in wage indices both positively and negatively have occurred under the MSA designations and occur as a result of geographic differences. As a result, we propose to adopt the CBSA definitions and resulting wage indices without transitions. The impact of CBSA designations is discussed in section V.B of this proposed rule. In estimating the impact of our proposal, we computed the projected expenditures for FY 2006 using geographic areas based upon existing MSAs as well as for areas using the new CBSA designations. Our impact analysis used the proposed CY 2006 payment rates and all of the CY 2003 claims files. In the final rule, we will use the best available home health data for CY 2004 in determining the potential impact of any change to the MSA designations. We also note that, in the past, the OMB has announced MSA changes on an annual basis due to population changes, and we have not proposed to transition these changes. Therefore, we do not propose transitioning the implementation of the new MSA designations.

We also note that section 505 of the MMA established new section 1886(d)(13) of the Act. The new section 1886(d)(13) requires that the Secretary establish a process to make adjustments to the hospital wage index based on commuting patterns of hospital employees. We believe that this requirement for an “out-commuting” or “out-migration” adjustment applies specifically to the Hospital Inpatient Prospective Payment System. Therefore, we will not be establishing such an adjustment for HH PPS.

As stated previously, we believe that OMB's latest labor market designations more accurately reflect the local economics and wage levels of the areas in which hospitals are currently located. We believe that OMB's CBSA designations based on Census 2000 data reflect the most recent available geographic classifications (MA definitions) and as a result reflect the relative hospital wage levels in the geographic area. As stated previously, since HHAs compete for the same staff as hospitals in any geographic area, we believe the hospital wage index used by HH PPS reflects the wages that are paid by HHAs.

To reflect our proposal to use the new OMB labor market areas for purposes of the HH PPS wage index, we are proposing to add, in § 484.202 (Definitions), the following definitions for rural and urban:

Rural area means, with respect to home health episodes ending on or after January 1, 2006, an area defined in § 412.64(b)(1)(ii)(C).

Urban area means, with respect to home health episodes ending on or after January 1, 2006, an area defined in § 412.64(b)(1)(ii)(A) and (B).

To facilitate an understanding of the proposed policies related to the proposed changes in the wage index as discussed in section V.B of this proposed rule, in addendum C, we are providing a listing of each Social Security Administration State and county location code, State and county name, existing MSA-based labor market area designation, MSA-based wage index value, CBSA-based labor market area, and the proposed CBSA-based wage index value.

III. Collection of Information Requirements

This document does not impose information collection and recordkeeping requirements. Consequently, it need not be reviewed by the Office of Management and Budget under the authority of the Paperwork Reduction Act of 1995 (44 U.S.C. 35).

IV. Response to Comments

Because of the large number of public comments we normally receive on Federal Register documents, we are not able to acknowledge or respond to them individually. We will consider all comments we receive by the date and time specified in the DATES section of this preamble, and, when we proceed with a subsequent document, we will respond to the comments in the preamble to that document.

V. Regulatory Impact Analysis

[If you choose to comment on issues in this section, please include the caption “REGULATORY IMPACT” at the beginning of your comments.]

A. Overall Impact

We have examined the impacts of this rule as required by Executive Order 12866 (September 1993, Regulatory Planning and Review), the Regulatory Flexibility Act (RFA) (September 19, 1980, Pub. L. 96-354), section 1102(b) of the Social Security Act, the Unfunded Mandates Reform Act of 1995 (Pub. L. 104-4), and Executive Order 13132.

Executive Order 12866 (as amended by Executive Order 13258, which merely reassigns responsibility of duties) directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year). The update set forth in this proposed rule would apply to Medicare payments under HH PPS in CY 2006. Accordingly, the following analysis describes the impact in CY 2006 only. We estimate that there would be an additional $330 million in CY 2006 expenditures attributable to the CY 2006 proposed estimated home health market basket update (3.3 percent) minus 0.8 percentage point, for a CY 2006 update of 2.5 percent.

The RFA requires agencies to analyze options for regulatory relief of small businesses. For purposes of the RFA, small entities include small businesses, nonprofit organizations, and government agencies. Most hospitals and most other providers and suppliers are small entities, either by nonprofit status or by having revenues of $6 million to $29 million in any 1 year. For purposes of the RFA, approximately 75 percent of HHAs are considered small businesses according to the Small Business Administration's size standards with total revenues of $11.5 million or less in any 1 year. Individuals and States are not included in the definition of a small entity. As stated above, this proposed rule would provide an update to all HHAs for CY 2006 as required by statute. This proposed rule would have a significant positive effect upon small entities.

In addition, section 1102(b) of the Act requires us to prepare a regulatory impact analysis if a rule may have a significant impact on the operations of a substantial number of small rural hospitals. This analysis must conform to the provisions of section 603 of the RFA. For purposes of section 1102(b) of the Act, we define a small rural hospital as a hospital that is located outside of a Metropolitan Statistical Area and has fewer than 100 beds. We have determined that this proposed rule would not have a significant economic impact on the operations of a substantial number of small rural hospitals.

Section 202 of the Unfunded Mandates Reform Act of 1995 also requires that agencies assess anticipated costs and benefits before issuing any rule that may result in expenditure in any 1 year by State, local, or tribal governments, in the aggregate, or by the private sector, of $110 million. We believe this proposed rule would not mandate expenditures in that amount.

Executive Order 13132 establishes certain requirements that an agency must meet when it promulgates a proposed rule (and subsequent final rule) that imposes substantial direct requirement costs on State and local governments, preempts State law, or otherwise has Federalism implications. We have reviewed this rule under the threshold criteria of Executive Order 13132, Federalism. We have determined that this proposed rule would not have substantial direct effects on the rights, roles, and responsibilities of States.

B. Anticipated Effects

This proposed rule would update the HH PPS rates contained in the CY 2005 final rule (69 FR 62124, October 22, 2004). The impact analysis of this proposed rule presents the projected effects of the proposed change from MSA to CBSA designations in determining the wage index used to calculate the HH PPS rates for CY 2006. We estimate the effects by estimating payments while holding all other payment variables constant. We use the best data available, but we do not attempt to predict behavioral responses to these changes, and we do not make adjustments for future changes in such variables as days or case-mix.

This analysis incorporates the latest estimates of growth in service use and payments under the Medicare home health benefit, based on the latest available Medicare claims from 2003. We note that certain events may combine to limit the scope or accuracy of our impact analysis, because such an analysis is future-oriented and, thus, susceptible to forecasting errors due to other changes in the forecasted impact time period. Some examples of such possible events are newly-legislated general Medicare program funding changes by the Congress, or changes specifically related to HHAs. In addition, changes to the Medicare program may continue to be made as a result of the BBA, the BBRA, the BIPA, the MMA, or new statutory provisions. Although these changes may not be specific to the HH PPS, the nature of the Medicare program is such that the changes may interact, and the complexity of the interaction of these changes could make it difficult to predict accurately the full scope of the impact upon HHAs.

Our discussions for this proposed rule will focus on the impact of changes in the wage index, most notably the adoption of the CBSA designations. The impacts are shown in Table 3 below. The breakdown of the various impacts displayed in the table follows.

The rows display the estimated effect of the proposed changes on different categories. The first row of figures represents the estimated effects on all facilities. The next 2 rows show the effect on urban and rural facilities. This is followed, in the next 4 rows, by impacts on urban and rural facilities based on whether they are a hospital-based or freestanding facility. The next 20 rows show the effect on urban and rural facilities based on the census region in which they are located.

The first column shows the breakdown of all HHAs by urban or rural status, hospital-based or freestanding status, and census region.

The second column in the table shows the number of facilities in the impact database. A facility is considered urban if it is located in an MSA and, conversely, rural if it is not located in an MSA.

The third column of the table shows the effect of the proposed annual update to the wage index. This represents the effect of using the most recent wage data available to determine the proposed estimated home health market basket update. The total impact of this change is zero percent; however, there are distributional effects of the change.

The fourth column of the table reflects the impact of using the new OMB geographic designations based on CBSAs, compared to using the MSA designations. Specifically, the effect of using the CBSA-designated wage index values versus MSA-designated wage index values in determining payment for facilities in rural areas is, on average, an increase of 0.7 percent. On the other hand, facilities in an urban area do slightly worse, showing an average decrease of 0.1 percent. Rural HHAs, by region, generally do better using the CBSA-determined wage index (ranging from an increase of 0.1 percent to 2.2 percent), except for facilities in the Middle Atlantic and the Mountain regions where payments are estimated to decrease by 0.5 percent. The impact on urban HHAs, by region, is generally moderate using the CBSA determined wage index (ranging from no impact to a −0.8 percent decrease), except for facilities in the Middle Atlantic region, whose payments are estimated to increase slightly by 0.3 percent. By type of facility, the impact on rural facilities using the CBSA-determined wage index is positive, with payments to freestanding facilities estimated to increase by 0.8 percent and payments to hospital-based facilities estimated to increase by 0.7 percent. Conversely, hospital-based urban facilities are estimated to experience no impact while freestanding urban facilities are estimated to see a decrease in payments by 0.2 percent.

The fifth column of the table shows the effect of all of the changes on the CY 2006 payments. The update of 2.5 percentage points (market basket increase of 3.3 percent minus 0.8 percentage point, as mandated by the MMA) is constant for all providers and, though not shown individually, is included in this column. It is projected that total aggregate payments would increase by 2.5 percent; assuming facilities do not change their care delivery and billing practices in response.

As can be seen from this table, the combined effects of all of the changes would vary by specific types of providers and by location. For example, HHAs in rural New England show the largest estimated increase in payment at 5.7 percent, while HHAs in the urban West North Central and East North Central regions show the smallest increase in payments at 1.5 percent. Rural HHAs do somewhat better than urban HHAs, seeing an estimated increase in payments of 3.5 percent and 2.3 percent, respectively. Amongst the different type of facility categories, freestanding rural HHAs do best, with an estimated increase in payments of 3.7 percent. Hospital-based rural HHAs are next with an estimated increase in payments of 3.3 percent with hospital-based urban and freestanding HHAs with estimated increases of 2.4 percent and 2.2 percent, respectively.

Table 3.—Projected Impact of CY 2006 Update to the HH PPS Final Column Includes Update of 2.5 Percent Urban/Rural Defined as MSA/Non-MSA
| Number of facilities | Updated wage data | MSA to CBSA | Total CY 2006 change
Total | 6,890 | 0.0 | 0.0 | 2.5
Urban | 4,602 | −0.1 | −0.1 | 2.3
Rural | 2,288 | 0.3 | 0.7 | 3.5
Hospital based urban | 1,796 | −0.1 | 0.0 | 2.4
Freestanding urban | 2,806 | −0.1 | −0.2 | 2.2
Hospital based rural | 1,367 | 0.1 | 0.7 | 3.3
Freestanding rural | 921 | 0.4 | 0.8 | 3.7
Urban by region |  |  |  |
New England | 246 | −0.6 | −0.3 | 1.6
Middle Atlantic | 420 | 0.3 | 0.3 | 3.1
South Atlantic | 751 | −0.5 | 0.0 | 2.0
East North Central | 770 | −0.6 | −0.4 | 1.5
East South Central | 205 | 0.3 | −0.3 | 2.5
West North Central | 259 | −0.9 | −0.1 | 1.5
West South Central | 1,092 | 0.0 | −0.4 | 2.1
Mountain | 241 | −0.5 | 0.0 | 2.0
Pacific | 581 | 1.1 | 0.0 | 3.6
Outlying | 37 | 0.9 | −0.8 | 2.6
Rural by region |  |  |  |
New England | 46 | 3.0 | 0.1 | 5.7
Middle Atlantic | 77 | −0.1 | −0.5 | 1.9
South Atlantic | 283 | −0.5 | 0.4 | 2.4
East North Central | 303 | 0.5 | 0.4 | 3.4
East South Central | 232 | 0.4 | 0.8 | 3.7
West North Central | 524 | −0.2 | 0.3 | 2.6
West South Central | 495 | 0.2 | 2.2 | 5.0
Mountain | 200 | 0.8 | −0.5 | 2.8
Pacific | 113 | 1.9 | 0.0 | 4.4
Outlying | 15 | −8.2 | 10.0 | 3.5

C. Conclusion

In accordance with the provisions of Executive Order 12866, this regulation was reviewed by the Office of Management and Budget.

List of Subjects in 42 CFR Part 484

Health facilities, Health professions, Medicare, Reporting and recordkeeping requirements.

For the reasons set forth in the preamble, the Centers for Medicare & Medicaid Services proposes to amend 42 CFR chapter IV as set forth below:

PART 484—HOME HEALTH SERVICES

1. The authority citation for part 484 continues to read as follows:

Authority: Secs. 1102 and 1871 of the Social Security Act (42 U.S.C. 1302 and 1395(hh)).

Subpart E—Prospective Payment System for Home Health Agencies

2. In § 484.202, the definitions for “Rural area” and “Urban area” are added in alphabetical order to read as follows:

§ 484.202 Definitions.

* * * * *

Rural area means, with respect to home health episodes ending on or after January 1, 2006, an area defined in § 412.64(b)(1)(ii)(C) of this chapter.

Urban area means, with respect to home health episodes ending on or after January 1, 2006, an area defined in § 412.64(b)(1)(ii)(A) and (B) of this chapter.

(Catalog of Federal Domestic Assistance Program No. 93.773, Medicare—Hospital Insurance; and Program No. 93.774, Medicare—Supplementary Medical Insurance Program)

Dated: May 12, 2005.
Mark B. McClellan,
Administrator, Centers for Medicare & Medicaid Services.
Approved: June 21, 2005.
Michael O. Leavitt,
Secretary.

Note: The following addenda will not be published in the Code of Federal Regulations.

Addendum A.—Proposed CY 2006 Wage Index for Rural Areas by CBSA; Applicable Pre-Floor and Pre-Reclassified Hospital Wage Index
CBSA code | Nonurban area | Wage index
01 | Alabama | 0.7477
02 | Alaska | 1.1990
03 | Arizona | 0.8777
04 | Arkansas | 0.7451
05 | California | 1.0857
06 | Colorado | 0.9389
07 | Connecticut | 1.1794
08 | Delaware | 0.9606
10 | Florida | 0.8598
11 | Georgia | 0.7666
12 | Hawaii | 1.0562
13 | Idaho | 0.8045
14 | Illinois | 0.8279
15 | Indiana | 0.8630
16 | Iowa | 0.8502
17 | Kansas | 0.7987
18 | Kentucky | 0.7774
19 | Louisiana | 0.7418
20 | Maine | 0.8852
21 | Maryland | 0.9095
22 | Massachusetts ¹ | 1.0216
23 | Michigan | 0.8870
24 | Minnesota | 0.9183
25 | Mississippi | 0.7671
26 | Missouri | 0.7909
27 | Montana | 0.8833
28 | Nebraska | 0.8665
29 | Nevada | 0.9074
30 | New Hampshire | 1.0677
31 | New Jersey ¹ |
32 | New Mexico | 0.8644
33 | New York | 0.8157
34 | North Carolina | 0.8567
35 | North Dakota | 0.7268
36 | Ohio | 0.8786
37 | Oklahoma | 0.7589
38 | Oregon | 0.9830
39 | Pennsylvania | 0.8302
40 | Puerto Rico ¹ | 0.4047
41 | Rhode Island ¹ |
42 | South Carolina | 0.8641
43 | South Dakota | 0.8484
44 | Tennessee | 0.7888
45 | Texas | 0.8007
46 | Utah | 0.8126
47 | Vermont | 0.9840
48 | Virgin Islands | 0.7026
49 | Virginia | 0.8012
50 | Washington | 1.0458
51 | West Virginia | 0.7725
52 | Wisconsin | 0.9480
53 | Wyoming | 0.9214
65 | Guam | 0.9611
¹ All counties within the State are classified as urban, with the exception of Massachusetts and Puerto Rico. Massachusetts and Puerto Rico have areas designated as rural, however, no short-term, acute care hospitals are located in the area(s) for FY 2006. Because more recent data is not available for those areas, we are proposing to use last year's wage index value.

Addendum B.—Proposed CY 2006 Wage Index for Urban Areas by CBSA; Applicable Pre-Floor and Pre-Reclassified Hospital Wage Index
CBSA code | Urban area (constituent counties) | Wage index
10180 | Abilene, TX | 0.7904
| Callahan County, TX
| Jones County, TX
| Taylor County, TX
10380 | Aguadilla-Isabela-San Sebastián, PR | 0.4743
| Aguada Municipio, PR
| Aguadilla Municipio, PR
| Añasco Municipio, PR
| Isabela Municipio, PR
| Lares Municipio, PR
| Moca Municipio, PR
| Rincón Municipio, PR
| San Sebastián Municipio, PR
10420 | Akron, OH | 0.8991
| Portage County, OH
| Summit County, OH
10500 | Albany, GA | 0.8636
| Baker County, GA
| Dougherty County, GA
| Lee County, GA
| Terrell County, GA
| Worth County, GA
10580 | Albany-Schenectady-Troy, NY | 0.8545
| Albany County, NY
| Rensselaer County, NY
| Saratoga County, NY
| Schenectady County, NY
| Schoharie County, NY
10740 | Albuquerque, NM | 0.9693
| Bernalillo County, NM
| Sandoval County, NM
| Torrance County, NM
| Valencia County, NM
10780 | Alexandria, LA | 0.8041
| Grant Parish, LA
| Rapides Parish, LA
10900 | Allentown-Bethlehem-Easton, PA-NJ | 0.9828
| Warren County, NJ
| Carbon County, PA
| Lehigh County, PA
| Northampton County, PA
11020 | Altoona, PA | 0.8953
| Blair County, PA
11100 | Amarillo, TX | 0.9166
| Armstrong County, TX
| Carson County, TX
| Potter County, TX
| Randall County, TX
11180 | Ames, IA | 0.9545
| Story County, IA
11260 | Anchorage, AK | 1.2110
| Anchorage Municipality, AK
| Matanuska-Susitna Borough, AK
11300 | Anderson, IN | 0.8595
| Madison County, IN
11340 | Anderson, SC | 0.8897
| Anderson County, SC
11460 | Ann Arbor, MI | 1.0870
| Washtenaw County, MI
11500 | Anniston-Oxford, AL | 0.7659
| Calhoun County, AL
11540 | Appleton, WI | 0.9298
| Calumet County, WI
| Outagamie County, WI
11700 | Asheville, NC | 0.9294
| Buncombe County, NC
| Haywood County, NC
| Henderson County, NC
| Madison County, NC
12020 | Athens-Clarke County, GA | 0.9843
| Clarke County, GA
| Madison County, GA
| Oconee County, GA
| Oglethorpe County, GA
12060 | Atlanta-Sandy Springs-Marietta, GA | 0.9648
| Barrow County, GA
| Bartow County, GA
| Butts County, GA
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City, NJ | 1.1633
| Atlantic County, NJ
12220 | Auburn-Opelika, AL | 0.8108
| Lee County, AL
12260 | Augusta-Richmond County, GA-SC | 0.9565
| Burke County, GA
| Columbia County, GA
| McDuffie County, GA
| Richmond County, GA
| Aiken County, SC
| Edgefield County, SC
12420 | Austin-Round Rock, TX | 0.9450
| Bastrop County, TX
| Caldwell County, TX
| Hays County, TX
| Travis County, TX
| Williamson County, TX
12540 | Bakersfield, CA | 1.0344
| Kern County, CA
12580 | Baltimore-Towson, MD | 0.9907
| Anne Arundel County, MD
| Baltimore County, MD
| Carroll County, MD
| Harford County, MD
| Howard County, MD
| Queen Anne's County, MD
| Baltimore City, MD
12620 | Bangor, ME | 1.0003
| Penobscot County, ME
12700 | Barnstable Town, MA | 1.2527
| Barnstable County, MA
12940 | Baton Rouge, LA | 0.8601
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI | 0.9510
| Calhoun County, MI
13020 | Bay City, MI | 0.9352
| Bay County, MI
13140 | Beaumont-Port Arthur, TX | 0.8421
| Hardin County, TX
| Jefferson County, TX
| Orange County, TX
13380 | Bellingham, WA | 1.1743
| Whatcom County, WA
13460 | Bend, OR | 1.0796
| Deschutes County, OR
13644 | Bethesda-Frederick-Gaithersburg, MD | 1.1495
| Frederick County, MD
| Montgomery County, MD
13740 | Billings, MT | 0.8843
| Carbon County, MT
| Yellowstone County, MT
13780 | Binghamton, NY | 0.8571
| Broome County, NY
| Tioga County, NY
13820 | Birmingham-Hoover, AL | 0.8979
| Bibb County, AL
| Blount County, AL
| Chilton County, AL
| Jefferson County, AL
| St. Clair County, AL
| Shelby County, AL
| Walker County, AL
13900 | Bismarck, ND | 0.7519
| Burleigh County, ND
| Morton County, ND
13980 | Blacksburg-Christiansburg-Radford, VA | 0.7962
| Giles County, VA
| Montgomery County, VA
| Pulaski County, VA
| Radford City, VA
14020 | Bloomington, IN | 0.8456
| Greene County, IN
| Monroe County, IN
| Owen County, IN
14060 | Bloomington-Normal, IL | 0.9084
| McLean County, IL
14260 | Boise City-Nampa, ID | 0.9061
| Ada County, ID
| Boise County, ID
| Canyon County, ID
| Gem County, ID
| Owyhee County, ID
14484 | Boston-Quincy, MA | 1.1543
| Norfolk County, MA
| Plymouth County, MA
| Suffolk County, MA
14500 | Boulder, CO | 0.9744
| Boulder County, CO
14540 | Bowling Green, KY | 0.8220
| Edmonson County, KY
| Warren County, KY
14740 | Bremerton-Silverdale, WA | 1.0686
| Kitsap County, WA
14860 | Bridgeport-Stamford-Norwalk, CT | 1.2598
| Fairfield County, CT
15180 | Brownsville-Harlingen, TX | 0.9822
| Cameron County, TX
15260 | Brunswick, GA | 0.9320
| Brantley County, GA
| Glynn County, GA
| McIntosh County, GA
15380 | Buffalo-Niagara Falls, NY | 0.8889
| Erie County, NY
| Niagara County, NY
15500 | Burlington, NC | 0.8914
| Alamance County, NC
15540 | Burlington-South Burlington, VT | 0.9446
| Chittenden County, VT
| Franklin County, VT
| Grand Isle County, VT
15764 | Cambridge-Newton-Framingham, MA | 1.1084
| Middlesex County, MA
15804 | Camden, NJ | 1.0528
| Burlington County, NJ
| Camden County, NJ
| Gloucester County, NJ
15940 | Canton-Massillon, OH | 0.8944
| Carroll County, OH
| Stark County, OH
15980 | Cape Coral-Fort Myers, FL | 0.9366
| Lee County, FL
16180 | Carson City, NV | 1.0244
| Carson City, NV
16220 | Casper, WY | 0.9035
| Natrona County, WY
16300 | Cedar Rapids, IA | 0.8617
| Benton County, IA
| Jones County, IA
| Linn County, IA
16580 | Champaign-Urbana, IL | 0.9604
| Champaign County, IL
| Ford County, IL
| Piatt County, IL
16620 | Charleston, WV | 0.8428
| Boone County, WV
| Clay County, WV
| Kanawha County, WV
| Lincoln County, WV
| Putnam County, WV
16700 | Charleston-North Charleston, SC | 0.9438
| Berkeley County, SC
| Charleston County, SC
| Dorchester County, SC
16740 | Charlotte-Gastonia-Concord, NCSC | 0.9760
| Anson County, NC
| Cabarrus County, NC
| Gaston County, NC
| Mecklenburg County, NC
| Union County, NC
| York County, SC
16820 | Charlottesville, VA | 1.0234
| Albemarle County, VA
| Fluvanna County, VA
| Greene County, VA
| Nelson County, VA
| Charlottesville City, VA
16860 | Chattanooga, TN-GA | 0.9098
| Catoosa County, GA
| Dade County, GA
| Walker County, GA
| Hamilton County, TN
| Marion County, TN
| Sequatchie County, TN
16940 | Cheyenne, WY | 0.8784
| Laramie County, WY
16974 | Chicago-Naperville-Joliet, IL | 1.0848
| Cook County, IL
| DeKalb County, IL
| DuPage County, IL
| Grundy County, IL
| Kane County, IL
| Kendall County, IL
| McHenry County, IL
| Will County, IL
17020 | Chico, CA | 1.0522
| Butte County, CA
17140 | Cincinnati-Middletown, OH-KY-IN | 0.9623
| Dearborn County, IN
| Franklin County, IN
| Ohio County, IN
| Boone County, KY
| Bracken County, KY
| Campbell County, KY
| Gallatin County, KY
| Grant County, KY
| Kenton County, KY
| Pendleton County, KY
| Brown County, OH
| Butler County, OH
| Clermont County, OH
| Hamilton County, OH
| Warren County, OH
17300 | Clarksville, TN-KY | 0.8292
| Christian County, KY
| Trigg County, KY
| Montgomery County, TN
| Stewart County, TN
17420 | Cleveland, TN | 0.8141
| Bradley County, TN
| Polk County, TN
17460 | Cleveland-Elyria-Mentor, OH | 0.9204
| Cuyahoga County, OH
| Geauga County, OH
| Lake County, OH
| Lorain County, OH
| Medina County, OH
17660 | Coeur d'Alene, ID | 0.9657
| Kootenai County, ID
17780 | College Station-Bryan, TX | 0.8909
| Brazos County, TX
| Burleson County, TX
| Robertson County, TX
17820 | Colorado Springs, CO | 0.9478
| El Paso County, CO
| Teller County, CO
17860 | Columbia, MO | 0.8354
| Boone County, MO
| Howard County, MO
17900 | Columbia, SC | 0.9047
| Calhoun County, SC
| Fairfield County, SC
| Kershaw County, SC
| Lexington County, SC
| Richland County, SC
| Saluda County, SC
17980 | Columbus, GA-AL | 0.8568
| Russell County, AL
| Chattahoochee County, GA
| Harris County, GA
| Marion County, GA
| Muscogee County, GA
18020 | Columbus, IN | 0.9598
| Bartholomew County, IN
18140 | Columbus, OH | 0.9850
| Delaware County, OH
| Fairfield County, OH
| Franklin County, OH
| Licking County, OH
| Madison County, OH
| Morrow County, OH
| Pickaway County, OH
| Union County, OH
18580 | Corpus Christi, TX | 0.8559
| Aransas County, TX
| Nueces County, TX
| San Patricio County, TX
18700 | Corvallis, OR | 1.0739
| Benton County, OR
19060 | Cumberland, MD-WV | 0.9326
| Allegany County, MD
| Mineral County, WV
19124 | Dallas-Plano-Irving, TX | 1.0233
| Collin County, TX
| Dallas County, TX
| Delta County, TX
| Denton County, TX
| Ellis County, TX
| Hunt County, TX
| Kaufman County, TX
| Rockwall County, TX
19140 | Dalton, GA | 0.9044
| Murray County, GA
| Whitfield County, GA
19180 | Danville, IL | 0.9037
| Vermilion County, IL
19260 | Danville, VA | 0.8497
| Pittsylvania County, VA
| Danville City, VA
19340 | Davenport-Moline-Rock Island, IA-IL | 0.8731
| Henry County, IL
| Mercer County, IL
| Rock Island County, IL
| Scott County, IA
19380 | Dayton, OH | 0.9073
| Greene County, OH
| Miami County, OH
| Montgomery County, OH
| Preble County, OH
19460 | Decatur, AL | 0.8478
| Lawrence County, AL
| Morgan County, AL
19500 | Decatur, IL | 0.8076
| Macon County, IL
19660 | Deltona-Daytona Beach-Ormond Beach, FL | 0.9308
| Volusia County, FL
19740 | Denver-Aurora, CO | 1.0733
| Adams County, CO
| Arapahoe County, CO
| Broomfield County, CO
| Clear Creek County, CO
| Denver County, CO
| Douglas County, CO
| Elbert County, CO
| Gilpin County, CO
| Jefferson County, CO
| Park County, CO
19780 | Des Moines, IA | 0.9651
| Dallas County, IA
| Guthrie County, IA
| Madison County, IA
| Polk County, IA
| Warren County, IA
19804 | Detroit-Livonia-Dearborn, MI | 1.0441
| Wayne County, MI
20020 | Dothan, AL | 0.7707
| Geneva County, AL
| Henry County, AL
| Houston County, AL
20100 | Dover, DE | 0.9779
| Kent County, DE
20220 | Dubuque, IA | 0.9135
| Dubuque County, IA
20260 | Duluth, MN-WI | 1.0209
| Carlton County, MN
| St. Louis County, MN
| Douglas County, WI
20500 | Durham, NC | 1.0303
| Chatham County, NC
| Durham County, NC
| Orange County, NC
| Person County, NC
20740 | Eau Claire, WI | 0.9210
| Chippewa County, WI
| Eau Claire County, WI
20764 | Edison, NJ | 1.1260
| Middlesex County, NJ
| Monmouth County, NJ
| Ocean County, NJ
| Somerset County, NJ
20940 | El Centro, CA | 0.8915
| Imperial County, CA
21060 | Elizabethtown, KY | 0.8810
| Hardin County, KY
| Larue County, KY
21140 | Elkhart-Goshen, IN | 0.9637
| Elkhart County, IN
21300 | Elmira, NY | 0.8259
| Chemung County, NY
21340 | El Paso, TX | 0.8924
| El Paso County, TX
21500 | Erie, PA | 0.8746
| Erie County, PA
21604 | Essex County, MA | 1.0533
| Essex County, MA
21660 | Eugene-Springfield, OR | 1.0829
| Lane County, OR
21780 | Evansville, IN-KY | 0.8721
| Gibson County, IN
| Posey County, IN
| Vanderburgh County, IN
| Warrick County, IN
| Henderson County, KY
| Webster County, KY
21820 | Fairbanks, AK | 1.1419
| Fairbanks North Star Borough, AK
21940 | Fajardo, PR | 0.4157
| Ceiba Municipio, PR
| Fajardo Municipio, PR
| Luquillo Municipio, PR
22020 | Fargo, ND-MN | 0.8495
| Cass County, ND
| Clay County, MN
22140 | Farmington, NM | 0.8518
| San Juan County, NM
22180 | Fayetteville, NC | 0.9426
| Cumberland County, NC
| Hoke County, NC
22220 | Fayetteville-Springdale-Rogers, AR-MO | 0.8563
| Benton County, AR
| Madison County, AR
| Washington County, AR
| McDonald County, MO
22380 | Flagstaff, AZ | 1.2105
| Coconino County, AZ
22420 | Flint, MI | 1.0663
| Genesee County, MI
22500 | Florence, SC | 0.8964
| Darlington County, SC
| Florence County, SC
22520 | Florence-Muscle Shoals, AL | 0.8280
| Colbert County, AL
| Lauderdale County, AL
22540 | Fond du Lac, WI | 0.9650
| Fond du Lac County, WI
22660 | Fort Collins-Loveland, CO | 1.0132
| Larimer County, CO
22744 | Fort Lauderdale-Pompano Beach-Deerfield Beach, FL | 1.0442
| Broward County, FL
22900 | Fort Smith, AROK | 0.8214
| Crawford County, AR
| Franklin County, AR
| Sebastian County, AR
| Le Flore County, OK
| Sequoyah County, OK
23020 | Fort Walton Beach-Crestview-Destin, FL | 0.8881
| Okaloosa County, FL
23060 | Fort Wayne, IN | 0.9803
| Allen County, IN
| Wells County, IN
| Whitley County, IN
23104 | Fort Worth-Arlington, TX | 0.9510
| Johnson County, TX
| Parker County, TX
| Tarrant County, TX
| Wise County, TX
23420 | Fresno, CA | 1.0541
| Fresno County, CA
23460 | Gadsden, AL | 0.7946
| Etowah County, AL
23540 | Gainesville, FL | 0.9474
| Alachua County, FL
| Gilchrist County, FL
23580 | Gainesville, GA | 0.8883
| Hall County, GA
23844 | Gary, IN | 0.9369
| Jasper County, IN
| Lake County, IN
| Newton County, IN
| Porter County, IN
24020 | Glens Falls, NY | 0.8567
| Warren County, NY
| Washington County, NY
24140 | Goldsboro, NC | 0.8784
| Wayne County, NC
24220 | Grand Forks, ND-MN | 1.1516
| Polk County, MN
| Grand Forks County, ND
24300 | Grand Junction, CO | 0.9560
| Mesa County, CO
24340 | Grand Rapids-Wyoming, MI | 0.9400
| Barry County, MI
| Ionia County, MI
| Kent County, MI
| Newaygo County, MI
24500 | Great Falls, MT | 0.9061
| Cascade County, MT
24540 | Greeley, CO | 0.9580
| Weld County, CO
24580 | Green Bay, WI | 0.9452
| Brown County, WI
| Kewaunee County, WI
| Oconto County, WI
24660 | Greensboro-High Point, NC | 0.9113
| Guilford County, NC
| Randolph County, NC
| Rockingham County, NC
24780 | Greenville, NC | 0.9434
| Greene County, NC
| Pitt County, NC
24860 | Greenville, SC | 1.0165
| Greenville County, SC
| Laurens County, SC
| Pickens County, SC
25020 | Guayama, PR | 0.3184
| Arroyo Municipio, PR
| Guayama Municipio, PR
| Patillas Municipio, PR
25060 | Gulfport-Biloxi, MS | 0.8938
| Hancock County, MS
| Harrison County, MS
| Stone County, MS
25180 | Hagerstown-Martinsburg, MD-WV | 0.9499
| Washington County, MD
| Berkeley County, WV
| Morgan County, WV
25260 | Hanford-Corcoran, CA | 1.0046
| Kings County, CA
25420 | Harrisburg-Carlisle, PA | 0.9322
| Cumberland County, PA
| Dauphin County, PA
| Perry County, PA
25500 | Harrisonburg, VA | 0.9098
| Rockingham County, VA
| Harrisonburg City, VA
25540 | Hartford-West Hartford-East Hartford, CT | 1.1084
| Hartford County, CT
| Litchfield County, CT
| Middlesex County, CT
| Tolland County, CT
25620 | Hattiesburg, MS | 0.7609
| Forrest County, MS
| Lamar County, MS
| Perry County, MS
25860 | Hickory-Lenoir-Morganton, NC | 0.8922
| Alexander County, NC
| Burke County, NC
| Caldwell County, NC
| Catawba County, NC
25980 ² | Hinesville-Fort Stewart, GA | 0.9178
| Liberty County, GA
| Long County, GA
26100 | Holland-Grand Haven, MI | 0.9064
| Ottawa County, MI
26180 | Honolulu, HI | 1.1208
| Honolulu County, HI
26300 | Hot Springs, AR | 0.9053
| Garland County, AR
26380 | Houma-Bayou Cane-Thibodaux, LA | 0.7902
| Lafourche Parish, LA
| Terrebonne Parish, LA
26420 | Houston-Baytown-Sugar Land, TX | 1.0005
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH | 0.9486
| Boyd County, KY
| Greenup County, KY
| Lawrence County, OH
| Cabell County, WV
| Wayne County, WV
26620 | Huntsville, AL | 0.9149
| Limestone County, AL
| Madison County, AL
26820 | Idaho Falls, ID | 0.9429
| Bonneville County, ID
| Jefferson County, ID
26900 | Indianapolis, IN | 0.9930
| Boone County, IN
| Brown County, IN
| Hamilton County, IN
| Hancock County, IN
| Hendricks County, IN
| Johnson County, IN
| Marion County, IN
| Morgan County, IN
| Putnam County, IN
| Shelby County, IN
26980 | Iowa City, IA | 0.9756
| Johnson County, IA
| Washington County, IA
27060 | Ithaca, NY | 0.9803
| Tompkins County, NY
27100 | Jackson, MI | 0.9313
| Jackson County, MI
27140 | Jackson, MS | 0.8319
| Copiah County, MS
| Hinds County, MS
| Madison County, MS
| Rankin County, MS
| Simpson County, MS
27180 | Jackson, TN | 0.8973
| Chester County, TN
| Madison County, TN
27260 | Jacksonville, FL | 0.9299
| Baker County, FL
| Clay County, FL
| Duval County, FL
| Nassau County, FL
| St. Johns County, FL
27340 | Jacksonville, NC | 0.8244
| Onslow County, NC
27500 | Janesville, WI | 0.9547
| Rock County, WI
27620 | Jefferson City, MO | 0.8396
| Callaway County, MO
| Cole County, MO
| Moniteau County, MO
| Osage County, MO
27740 | Johnson City, TN | 0.7945
| Carter County, TN
| Unicoi County, TN
| Washington County, TN
27780 | Johnstown, PA | 0.8362
| Cambria County, PA
27860 | Jonesboro, AR | 0.7919
| Craighead County, AR
| Poinsett County, AR
27900 | Joplin, MO | 0.8590
| Jasper County, MO
| Newton County, MO
28020 | Kalamazoo-Portage, MI | 1.0391
| Kalamazoo County, MI
| Van Buren County, MI
28100 | Kankakee-Bradley, IL | 1.0974
| Kankakee County, IL
28140 | Kansas City, MO-KS | 0.9467
| Franklin County, KS
| Johnson County, KS
| Leavenworth County, KS
| Linn County, KS
| Miami County, KS
| Wyandotte County, KS
| Bates County, MO
| Caldwell County, MO
| Cass County, MO
| Clay County, MO
| Clinton County, MO
| Jackson County, MO
| Lafayette County, MO
| Platte County, MO
| Ray County, MO
28420 | Kennewick-Richland-Pasco, WA | 1.0630
| Benton County, WA
| Franklin County, WA
28660 | Killeen-Temple-Fort Hood, TX | 0.8535
| Bell County, TX
| Coryell County, TX
| Lampasas County, TX
28700 | Kingsport-Bristol-Bristol, TN-VA | 0.8062
| Hawkins County, TN
| Sullivan County, TN
| Bristol City, VA
| Scott County, VA
| Washington County, VA
28740 | Kingston, NY | 0.9257
| Ulster County, NY
28940 | Knoxville, TN | 0.8454
| Anderson County, TN
| Blount County, TN
| Knox County, TN
| Loudon County, TN
| Union County, TN
29020 | Kokomo, IN | 0.9517
| Howard County, IN
| Tipton County, IN
29100 | La Crosse, WI-MN | 0.9573
| Houston County, MN
| La Crosse County, WI
29140 | Lafayette, IN | 0.8745
| Benton County, IN
| Carroll County, IN
| Tippecanoe County, IN
29180 | Lafayette, LA | 0.8436
| Lafayette Parish, LA
| St. Martin Parish, LA
29340 | Lake Charles, LA | 0.7841
| Calcasieu Parish, LA
| Cameron Parish, LA
29404 | Lake County-Kenosha County, IL-WI | 1.0440
| Lake County, IL
| Kenosha County, WI
29460 | Lakeland, FL | 0.8921
| Polk County, FL
29540 | Lancaster, PA | 0.9704
| Lancaster County, PA
29620 | Lansing-East Lansing, MI | 0.9792
| Clinton County, MI
| Eaton County, MI
| Ingham County, MI
29700 | Laredo, TX | 0.8076
| Webb County, TX
29740 | Las Cruces, NM | 0.8475
| Dona Ana County, NM
29820 | Las Vegas-Paradise, NV | 1.1449
| Clark County, NV
29940 | Lawrence, KS | 0.8546
| Douglas County, KS
30020 | Lawton, OK | 0.7880
| Comanche County, OK
30140 | Lebanon, PA | 0.8468
| Lebanon County, PA
30300 | Lewiston, ID-WA | 0.9896
| Nez Perce County, ID
| Asotin County, WA
30340 | Lewiston-Auburn, ME | 0.9341
| Androscoggin County, ME
30460 | Lexington-Fayette, KY | 0.9084
| Bourbon County, KY
| Clark County, KY
| Fayette County, KY
| Jessamine County, KY
| Scott County, KY
| Woodford County, KY
30620 | Lima, OH | 0.9234
| Allen County, OH
30700 | Lincoln, NE | 1.0225
| Lancaster County, NE
| Seward County, NE
30780 | Little Rock-North Little Rock, AR | 0.8756
| Faulkner County, AR
| Grant County, AR
| Lonoke County, AR
| Perry County, AR
| Pulaski County, AR
| Saline County, AR
30860 | Logan, UT-ID | 0.9173
| Franklin County, ID
| Cache County, UT
30980 | Longview, TX | 0.8739
| Gregg County, TX
| Rusk County, TX
| Upshur County, TX
31020 | Longview, WA | 0.9523
| Cowlitz County, WA
31084 | Los AngelesLong Beach-Glendale, CA | 1.1752
| Los Angeles County, CA
31140 | Louisville, KY-IN | 0.9261
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX | 0.8792
| Crosby County, TX
| Lubbock County, TX
31340 | Lynchburg, VA | 0.8700
| Amherst County, VA
| Appomattox County, VA
| Bedford County, VA
| Campbell County, VA
| Bedford City, VA
| Lynchburg City, VA
31420 | Macon, GA | 0.9453
| Bibb County, GA
| Crawford County, GA
| Jones County, GA
| Monroe County, GA
| Twiggs County, GA
31460 | Madera, CA | 0.8721
| Madera County, CA
31540 | Madison, WI | 1.0635
| Columbia County, WI
| Dane County, WI
| Iowa County, WI
31700 | Manchester-Nashua, NH | 1.0335
| Hillsborough County, NH
| Merrimack County, NH
31900 ² | Mansfield, OH | 0.8887
| Richland County, OH
32420 | Mayagüez, PR | 0.4017
| Hormigueros Municipio, PR
| Mayagüez Municipio, PR
32580 | McAllen-Edinburg-Pharr, TX | 0.8943
| Hidalgo County, TX
32780 | Medford, OR | 1.0235
| Jackson County, OR
32820 | Memphis, TN-MS-AR | 0.9341
| Crittenden County, AR
| DeSoto County, MS
| Marshall County, MS
| Tate County, MS
| Tunica County, MS
| Fayette County, TN
| Shelby County, TN
| Tipton County, TN
32900 | Merced, CA | 1.1120
| Merced County, CA
33124 | Miami-Miami Beach-Kendall, FL | 0.9759
| Miami-Dade County, FL
33140 | Michigan CityLa Porte, IN | 0.9409
| LaPorte County, IN
33260 | Midland, TX | 0.9523
| Midland County, TX
33340 | Milwaukee-Waukesha-West Allis, WI | 1.0106
| Milwaukee County, WI
| Ozaukee County, WI
| Washington County, WI
| Waukesha County, WI
33460 | Minneapolis-St. Paul-Bloomington, MN-WI | 1.1078
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT | 0.9482
| Missoula County, MT
33660 | Mobile, AL | 0.7895
| Mobile County, AL
33700 | Modesto, CA | 1.1804
| Stanislaus County, CA
33740 | Monroe, LA | 0.8040
| Ouachita Parish, LA
| Union Parish, LA
33780 | Monroe, MI | 0.9478
| Monroe County, MI
33860 | Montgomery, AL | 0.8588
| Autauga County, AL
| Elmore County, AL
| Lowndes County, AL
| Montgomery County, AL
34060 | Morgantown, WV | 0.8428
| Monongalia County, WV
| Preston County, WV
34100 | Morristown, TN | 0.8753
| Grainger County, TN
| Hamblen County, TN
| Jefferson County, TN
34580 | Mount Vernon-Anacortes, WA | 1.0465
| Skagit County, WA
34620 | Muncie, IN | 0.8939
| Delaware County, IN
34740 | Muskegon-Norton Shores, MI | 0.9673
| Muskegon County, MI
34820 | Myrtle Beach-Conway-North Myrtle Beach, SC | 0.8873
| Horry County, SC
34900 | Napa, CA | 1.2656
| Napa County, CA
34940 | Naples-Marco Island, FL | 1.0140
| Collier County, FL
34980 | Nashville-Davidson-Murfreesboro, TN | 0.9769
| Cannon County, TN
| Cheatham County, TN
| Davidson County, TN
| Dickson County, TN
| Hickman County, TN
| Macon County, TN
| Robertson County, TN
| Rutherford County, TN
| Smith County, TN
| Sumner County, TN
| Trousdale County, TN
| Williamson County, TN
| Wilson County, TN
35004 | Nassau-Suffolk, NY | 1.2760
| Nassau County, NY
| Suffolk County, NY
35084 | Newark-Union, NJ-PA | 1.2195
| Essex County, NJ
| Hunterdon County, NJ
| Morris County, NJ
| Sussex County, NJ
| Union County, NJ
| Pike County, PA
35300 | New Haven-Milford, CT | 1.1702
| New Haven County, CT
35380 | New Orleans-Metairie-Kenner, LA | 0.9005
| Jefferson Parish, LA
| Orleans Parish, LA
| Plaquemines Parish, LA
| St. Bernard Parish, LA
| St. Charles Parish, LA
| St. John the Baptist Parish, LA
| St. Tammany Parish, LA
35644 | New York-Wayne-White Plains, NY-NJ | 1.3185
| Bergen County, NJ
| Hudson County, NJ
| Passaic County, NJ
| Bronx County, NY
| Kings County, NY
| New York County, NY
| Putnam County, NY
| Queens County, NY
| Richmond County, NY
| Rockland County, NY
| Westchester County, NY
35660 | Niles-Benton Harbor, MI | 0.8888
| Berrien County, MI
35980 | Norwich-New London, CT | 1.1356
| New London County, CT
36084 | Oakland-Fremont-Hayward, CA | 1.5346
| Alameda County, CA
| Contra Costa County, CA
36100 | Ocala, FL | 0.8934
| Marion County, FL
36140 | Ocean City, NJ | 1.1022
| Cape May County, NJ
36220 | Odessa, TX | 0.9894
| Ector County, TX
36260 | Ogden-Clearfield, UT | 0.9038
| Davis County, UT
| Morgan County, UT
| Weber County, UT
36420 | Oklahoma City, OK | 0.9040
| Canadian County, OK
| Cleveland County, OK
| Grady County, OK
| Lincoln County, OK
| Logan County, OK
| McClain County, OK
| Oklahoma County, OK
36500 | Olympia, WA | 1.0938
| Thurston County, WA
36540 | Omaha-Council Bluffs, NE-IA | 0.9569
| Harrison County, IA
| Mills County, IA
| Pottawattamie County, IA
| Cass County, NE
| Douglas County, NE
| Sarpy County, NE
| Saunders County, NE
| Washington County, NE
36740 | Orlando, FL | 0.9459
| Lake County, FL
| Orange County, FL
| Osceola County, FL
| Seminole County, FL
36780 | Oshkosh-Neenah, WI | 0.9192
| Winnebago County, WI
36980 | Owensboro, KY | 0.8789
| Daviess County, KY
| Hancock County, KY
| McLean County, KY
37100 | Oxnard-Thousand Oaks-Ventura, CA | 1.1613
| Ventura County, CA
37340 | Palm Bay-Melbourne-Titusville, FL | 0.9835
| Brevard County, FL
37460 | Panama City-Lynn Haven, FL | 0.7989
| Bay County, FL
37620 | Parkersburg-Marietta, WV-OH | 0.8278
| Washington County, OH
| Pleasants County, WV
| Wirt County, WV
| Wood County, WV
37700 | Pascagoula, MS | 0.8165
| George County, MS
| Jackson County, MS
37860 | Pensacola-Ferry Pass-Brent, FL | 0.8104
| Escambia County, FL
| Santa Rosa County, FL
37900 | Peoria, IL | 0.8868
| Marshall County, IL
| Peoria County, IL
| Stark County, IL
| Tazewell County, IL
| Woodford County, IL
37964 | Philadelphia, PA | 1.1040
| Bucks County, PA
| Chester County, PA
| Delaware County, PA
| Montgomery County, PA
| Philadelphia County, PA
38060 | Phoenix-Mesa-Scottsdale, AZ | 1.0138
| Maricopa County, AZ
| Pinal County, AZ
38220 | Pine Bluff, AR | 0.8689
| Cleveland County, AR
| Jefferson County, AR
| Lincoln County, AR
38300 | Pittsburgh, PA | 0.8853
| Allegheny County, PA
| Armstrong County, PA
| Beaver County, PA
| Butler County, PA
| Fayette County, PA
| Washington County, PA
| Westmoreland County, PA
38340 | Pittsfield, MA | 1.0191
| Berkshire County, MA
38540 | Pocatello, ID | 0.9360
| Bannock County, ID
| Power County, ID
38660 | Ponce, PR | 0.5177
| Juana Díaz Municipio, PR
| Ponce Municipio, PR
| Villalba Municipio, PR
38860 | Portland-South Portland-Biddeford, ME | 1.0392
| Cumberland County, ME
| Sagadahoc County, ME
| York County, ME
38900 | Portland-Vancouver-Beaverton, OR-WA | 1.1260
| Clackamas County, OR
| Columbia County, OR
| Multnomah County, OR
| Washington County, OR
| Yamhill County, OR
| Clark County, WA
| Skamania County, WA
38940 | Port St. Lucie-Fort Pierce, FL | 1.0133
| Martin County, FL
| St. Lucie County, FL
39100 | Poughkeepsie-Newburgh-Middletown, NY | 1.0766
| Dutchess County, NY
| Orange County, NY
39140 | Prescott, AZ | 0.9879
| Yavapai County, AZ
39300 | Providence-New Bedford-Fall River, RI-MA | 1.0966
| Bristol County, MA
| Bristol County, RI
| Kent County, RI
| Newport County, RI
| Providence County, RI
| Washington County, RI
39340 | Provo-Orem, UT | 0.9510
| Juab County, UT
| Utah County, UT
39380 | Pueblo, CO | 0.8632
| Pueblo County, CO
39460 | Punta Gorda, FL | 0.9264
| Charlotte County, FL
39540 | Racine, WI | 0.9006
| Racine County, WI
39580 | Raleigh-Cary, NC | 0.9733
| Franklin County, NC
| Johnston County, NC
| Wake County, NC
39660 | Rapid City, SD | 0.9021
| Meade County, SD
| Pennington County, SD
39740 | Reading, PA | 0.9696
| Berks County, PA
39820 | Redding, CA | 1.2215
| Shasta County, CA
39900 | Reno-Sparks, NV | 1.0993
| Storey County, NV
| Washoe County, NV
40060 | Richmond, VA | 0.9338
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | Riverside-San Bernardino-Ontario, CA | 1.1022
| Riverside County, CA
| San Bernardino County, CA
40220 | Roanoke, VA | 0.8383
| Botetourt County, VA
| Craig County, VA
| Franklin County, VA
| Roanoke County, VA
| Roanoke City, VA
| Salem City, VA
40340 | Rochester, MN | 1.1142
| Dodge County, MN
| Olmsted County, MN
| Wabasha County, MN
40380 | Rochester, NY | 0.9115
| Livingston County, NY
| Monroe County, NY
| Ontario County, NY
| Orleans County, NY
| Wayne County, NY
40420 | Rockford, IL | 0.9994
| Boone County, IL
| Winnebago County, IL
40484 | Rockingham County-Strafford County, NH | 1.0385
| Rockingham County, NH
| Strafford County, NH
40580 | Rocky Mount, NC | 0.8924
| Edgecombe County, NC
| Nash County, NC
40660 | Rome, GA | 0.9424
| Floyd County, GA
40900 | Sacramento-Arden-Arcade-Roseville, CA | 1.2973
| El Dorado County, CA
| Placer County, CA
| Sacramento County, CA
| Yolo County, CA
40980 | Saginaw-Saginaw Township North, MI | 0.9420
| Saginaw County, MI
41060 | St. Cloud, MN | 0.9975
| Benton County, MN
| Stearns County, MN
41100 | St. George, UT | 0.9402
| Washington County, UT
41140 | St. Joseph, MO-KS | 0.9529
| Doniphan County, KS
| Andrew County, MO
| Buchanan County, MO
| DeKalb County, MO
41180 | St. Louis, MO-IL | 0.8949
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| Warren County, MO
| Washington County, MO
| St. Louis City, MO
41420 | Salem, OR | 1.0452
| Marion County, OR
| Polk County, OR
41500 | Salinas, CA | 1.4142
| Monterey County, CA
41540 | Salisbury, MD | 0.9073
| Somerset County, MD
| Wicomico County, MD
41620 | Salt Lake City, UT | 0.9433
| Salt Lake County, UT
| Summit County, UT
| Tooele County, UT
41660 | San Angelo, TX | 0.8280
| Irion County, TX
| Tom Green County, TX
41700 | San Antonio, TX | 0.8989
| Atascosa County, TX
| Bandera County, TX
| Bexar County, TX
| Comal County, TX
| Guadalupe County, TX
| Kendall County, TX
| Medina County, TX
| Wilson County, TX
41740 | San Diego-Carlsbad-San Marcos, CA | 1.1424
| San Diego County, CA
41780 | Sandusky, OH | 0.9025
| Erie County, OH
41884 | San Francisco-San Mateo-Redwood City, CA | 1.4990
| Marin County, CA
| San Francisco County, CA
| San Mateo County, CA
41900 | San Germán-Cabo Rojo, PR | 0.4655
| Cabo Rojo Municipio, PR
| Lajas Municipio, PR
| Sabana Grande Municipio, PR
| San Germán Municipio, PR
41940 | San Jose-Sunnyvale-Santa Clara, CA | 1.5125
| San Benito County, CA
| Santa Clara County, CA
41980 | San Juan-Caguas-Guaynabo, PR | 0.4686
| Aguas Buenas Municipio, PR
| Aibonito Municipio, PR
| Arecibo Municipio, PR
| Barceloneta Municipio, PR
| Barranquitas Municipio, PR
| Bayamón Municipio, PR
| Caguas Municipio, PR
| Camuy Municipio, PR
| Canóvanas Municipio, PR
| Carolina Municipio, PR
| Cataño Municipio, PR
| Cayey Municipio, PR
| Ciales Municipio, PR
| Cidra Municipio, PR
| Comerío Municipio, PR
| Corozal Municipio, PR
| Dorado Municipio, PR
| Florida Municipio, PR
| Guaynabo Municipio, PR
| Gurabo Municipio, PR
| Hatillo Municipio, PR
| Humacao Municipio, PR
| Juncos Municipio, PR
| Las Piedras Municipio, PR
| Loíza Municipio, PR
| Manatí Municipio, PR
| Maunabo Municipio, PR
| Morovis Municipio, PR
| Naguabo Municipio, PR
| Naranjito Municipio, PR
| Orocovis Municipio, PR
| Quebradillas Municipio, PR
| Río Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | San Luis Obispo-Paso Robles, CA | 1.1360
| San Luis Obispo County, CA
42044 | Santa Ana-Anaheim-Irvine, CA | 1.1576
| Orange County, CA
42060 | Santa Barbara-Santa Maria-Goleta, CA | 1.1538
| Santa Barbara County, CA
42100 | Santa Cruz-Watsonville, CA | 1.5182
| Santa Cruz County, CA
42140 | Santa Fe, NM | 1.0931
| Santa Fe County, NM
42220 | Santa Rosa-Petaluma, CA | 1.3506
| Sonoma County, CA
42260 | Sarasota-Bradenton-Venice, FL | 0.9555
| Manatee County, FL
| Sarasota County, FL
42340 | Savannah, GA | 0.9480
| Bryan County, GA
| Chatham County, GA
| Effingham County, GA
42540 | Scranton-WilkesBarre, PA | 0.8548
| Lackawanna County, PA
| Luzerne County, PA
| Wyoming County, PA
42644 | Seattle-Bellevue-Everett, WA | 1.1589
| King County, WA
| Snohomish County, WA
43100 | Sheboygan, WI | 0.8920
| Sheboygan County, WI
43300 | Sherman-Denison, TX | 0.9516
| Grayson County, TX
43340 | Shreveport-Bossier City, LA | 0.8769
| Bossier Parish, LA
| Caddo Parish, LA
| De Soto Parish, LA
43580 | Sioux City, IA-NE-SD | 0.9376
| Woodbury County, IA
| Dakota County, NE
| Dixon County, NE
| Union County, SD
43620 | Sioux Falls, SD | 0.9645
| Lincoln County, SD
| McCook County, SD
| Minnehaha County, SD
| Turner County, SD
43780 | South Bend-Mishawaka, IN-MI | 0.9798
| St. Joseph County, IN
| Cass County, MI
43900 | Spartanburg, SC | 0.9181
| Spartanburg County, SC
44060 | Spokane, WA | 1.0916
| Spokane County, WA
44100 | Springfield, IL | 0.8885
| Menard County, IL
| Sangamon County, IL
44140 | Springfield, MA | 1.0259
| Franklin County, MA
| Hampden County, MA
| Hampshire County, MA
44180 | Springfield, MO | 0.8246
| Christian County, MO
| Dallas County, MO
| Greene County, MO
| Polk County, MO
| Webster County, MO
44220 | Springfield, OH | 0.8404
| Clark County, OH
44300 | State College, PA | 0.8364
| Centre County, PA
44700 | Stockton, CA | 1.1311
| San Joaquin County, CA
44940 | Sumter, SC | 0.8386
| Sumter County, SC
45060 | Syracuse, NY | 0.9581
| Madison County, NY
| Onondaga County, NY
| Oswego County, NY
45104 | Tacoma, WA | 1.0753
| Pierce County, WA
45220 | Tallahassee, FL | 0.8697
| Gadsden County, FL
| Jefferson County, FL
| Leon County, FL
| Wakulla County, FL
45300 | Tampa-St. Petersburg-Clearwater, FL | 0.9193
| Hernando County, FL
| Hillsborough County, FL
| Pasco County, FL
| Pinellas County, FL
45460 | Terre Haute, IN | 0.8313
| Clay County, IN
| Sullivan County, IN
| Vermillion County, IN
| Vigo County, IN
45500 | Texarkana, TX-Texarkana, AR | 0.8291
| Miller County, AR
| Bowie County, TX
45780 | Toledo, OH | 0.9584
| Fulton County, OH
| Lucas County, OH
| Ottawa County, OH
| Wood County, OH
45820 | Topeka, KS | 0.8929
| Jackson County, KS
| Jefferson County, KS
| Osage County, KS
| Shawnee County, KS
| Wabaunsee County, KS
45940 | Trenton-Ewing, NJ | 1.0845
| Mercer County, NJ
46060 | Tucson, AZ | 0.8987
| Pima County, AZ
46140 | Tulsa, OK | 0.8286
| Creek County, OK
| Okmulgee County, OK
| Osage County, OK
| Pawnee County, OK
| Rogers County, OK
| Tulsa County, OK
| Wagoner County, OK
46220 | Tuscaloosa, AL | 0.8721
| Greene County, AL
| Hale County, AL
| Tuscaloosa County, AL
46340 | Tyler, TX | 0.9307
| Smith County, TX
46540 | Utica-Rome, NY | 0.8293
| Herkimer County, NY
| Oneida County, NY
46660 | Valdosta, GA | 0.8875
| Brooks County, GA
| Echols County, GA
| Lanier County, GA
| Lowndes County, GA
46700 | Vallejo-Fairfield, CA | 1.4899
| Solano County, CA
46940 | Vero Beach, FL | 0.9444
| Indian River County, FL
47020 | Victoria, TX | 0.8168
| Calhoun County, TX
| Goliad County, TX
| Victoria County, TX
47220 | Vineland-Millville-Bridgeton, NJ | 0.9837
| Cumberland County, NJ
47260 | Virginia Beach-Norfolk Newport News, VA-NC | 0.8808
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | Visalia-Porterville, CA | 1.0074
| Tulare County, CA
47380 | Waco, TX | 0.8527
| McLennan County, TX
47580 | Warner Robins, GA | 0.8654
| Houston County, GA
47644 | Warren-Farmington Hills-Troy, MI | 0.9861
| Lapeer County, MI
| Livingston County, MI
| Macomb County, MI
| Oakland County, MI
| St. Clair County, MI
47894 | Washington-Arlington-Alexandria, DC-VA-MD-WV | 1.0932
| District of Columbia, DC
| Calvert County, MD
| Charles County, MD
| Prince George's County, MD
| Arlington County, VA
| Clarke County, VA
| Fairfax County, VA
| Fauquier County, VA
| Loudoun County, VA
| Prince William County, VA
| Spotsylvania County, VA
| Stafford County, VA
| Warren County, VA
| Alexandria City, VA
| Fairfax City, VA
| Falls Church City, VA
| Fredericksburg City, VA
| Manassas City, VA
| Manassas Park City, VA
| Jefferson County, WV
47940 | Waterloo-Cedar Falls, IA | 0.8566
| Black Hawk County, IA
| Bremer County, IA
| Grundy County, IA
48140 | Wausau, WI | 0.9600
| Marathon County, WI
48260 | Weirton-Steubenville, WV-OH | 0.7827
| Jefferson County, OH
| Brooke County, WV
| Hancock County, WV
48300 | Wenatchee, WA | 1.0080
| Chelan County, WA
| Douglas County, WA
48424 | West Palm Beach-Boca Raton-Boynton Beach, FL | 1.0077
| Palm Beach County, FL
48540 | Wheeling, WV-OH | 0.7168
| Belmont County, OH
| Marshall County, WV
| Ohio County, WV
48620 | Wichita, KS | 0.9141
| Butler County, KS
| Harvey County, KS
| Sedgwick County, KS
| Sumner County, KS
48660 | Wichita Falls, TX | 0.8294
| Archer County, TX
| Clay County, TX
| Wichita County, TX
48700 | Williamsport, PA | 0.8377
| Lycoming County, PA
48864 | Wilmington, DE-MD-NJ | 1.0482
| New Castle County, DE
| Cecil County, MD
| Salem County, NJ
48900 | Wilmington, NC | 0.9592
| Brunswick County, NC
| New Hanover County, NC
| Pender County, NC
49020 | Winchester, VA-WV | 1.0224
| Frederick County, VA
| Winchester City, VA
| Hampshire County, WV
49180 | Winston Salem, NC | 0.8953
| Davie County, NC
| Forsyth County, NC
| Stokes County, NC
| Yadkin County, NC
49340 | Worcester, MA | 1.1039
| Worcester County, MA
49420 | Yakima, WA | 1.0165
| Yakima County, WA
49500 | Yauco, PR | 0.4413
| Guánica Municipio, PR
| Guayanilla Municipio, PR
| Peñuelas Municipio, PR
| Yauco Municipio, PR
49620 | York-Hanover, PA | 0.9420
| York County, PA
49660 | Youngstown-Warren-Boardman, OH-PA | 0.8611
| Mahoning County, OH
| Trumbull County, OH
| Mercer County, PA
49700 | Yuba City, CA | 1.0932
| Sutter County, CA
| Yuba County, CA
49740 | Yuma, AZ | 0.9135
| Yuma County, AZ
²At this time, there are no hospitals in these urban areas on which to base a wage index. Therefore, the urban wage index value is based on the average wage index of all urban areas within the State.

Addendum C.—MSA/CBSA Crosswalk
State/county | County name | MSA | MSA WI | CBSA WI | CBSA
01000 | Autauga County, Alabama | 5240 | 0.8588 | 0.8588 | 33860
01010 | Baldwin County, Alabama | 5160 | 0.7866 | 0.7477 | 99901
01020 | Barbour County, Alabama | 01 | 0.7463 | 0.7477 | 99901
01030 | Bibb County, Alabama | 01 | 0.7463 | 0.8979 | 13820
01040 | Blount County, Alabama | 1000 | 0.9021 | 0.8979 | 13820
01050 | Bullock County, Alabama | 01 | 0.7463 | 0.7477 | 99901
01060 | Butler County, Alabama | 01 | 0.7463 | 0.7477 | 99901
01070 | Calhoun County, Alabama | 0450 | 0.7659 | 0.7659 | 11500
01080 | Chambers County, Alabama | 01 | 0.7463 | 0.7477 | 99901
01090 | Cherokee County, Alabama | 01 | 0.7463 | 0.7477 | 99901
01100 | Chilton County, Alabama | 01 | 0.7463 | 0.8979 | 13820
01110 | Choctaw County, Alabama | 01 | 0.7463 | 0.7477 | 99901
01120 | Clarke County, Alabama | 01 | 0.7463 | 0.7477 | 99901
01130 | Clay County, Alabama | 01 | 0.7463 | 0.7477 | 99901
01140 | Cleburne County, Alabama | 01 | 0.7463 | 0.7477 | 99901
01150 | Coffee County, Alabama | 01 | 0.7463 | 0.7477 | 99901
01160 | Colbert County, Alabama | 2650 | 0.8280 | 0.8280 | 22520
01170 | Conecuh County, Alabama | 01 | 0.7463 | 0.7477 | 99901
01180 | Coosa County, Alabama | 01 | 0.7463 | 0.7477 | 99901
01190 | Covington County, Alabama | 01 | 0.7463 | 0.7477 | 99901
01200 | Crenshaw County, Alabama | 01 | 0.7463 | 0.7477 | 99901
01210 | Cullman County, Alabama | 01 | 0.7463 | 0.7477 | 99901
01220 | Dale County, Alabama | 2180 | 0.7687 | 0.7477 | 99901
01230 | Dallas County, Alabama | 01 | 0.7463 | 0.7477 | 99901
01240 | De Kalb County, Alabama | 01 | 0.7463 | 0.7477 | 99901
01250 | Elmore County, Alabama | 5240 | 0.8588 | 0.8588 | 33860
01260 | Escambia County, Alabama | 01 | 0.7463 | 0.7477 | 99901
01270 | Etowah County, Alabama | 2880 | 0.7946 | 0.7946 | 23460
01280 | Fayette County, Alabama | 01 | 0.7463 | 0.7477 | 99901
01290 | Franklin County, Alabama | 01 | 0.7463 | 0.7477 | 99901
01300 | Geneva County, Alabama | 01 | 0.7463 | 0.7707 | 20020
01310 | Greene County, Alabama | 01 | 0.7463 | 0.8721 | 46220
01320 | Hale County, Alabama | 01 | 0.7463 | 0.8721 | 46220
01330 | Henry County, Alabama | 01 | 0.7463 | 0.7707 | 20020
01340 | Houston County, Alabama | 2180 | 0.7687 | 0.7707 | 20020
01350 | Jackson County, Alabama | 01 | 0.7463 | 0.7477 | 99901
01360 | Jefferson County, Alabama | 1000 | 0.9021 | 0.8979 | 13820
01370 | Lamar County, Alabama | 01 | 0.7463 | 0.7477 | 99901
01380 | Lauderdale County, Alabama | 2650 | 0.8280 | 0.8280 | 22520
01390 | Lawrence County, Alabama | 2030 | 0.8478 | 0.8478 | 19460
01400 | Lee County, Alabama | 0580 | 0.8108 | 0.8108 | 12220
01410 | Limestone County, Alabama | 3440 | 0.9149 | 0.9149 | 26620
01420 | Lowndes County, Alabama | 01 | 0.7463 | 0.8588 | 33860
01430 | Macon County, Alabama | 01 | 0.7463 | 0.7477 | 99901
01440 | Madison County, Alabama | 3440 | 0.9149 | 0.9149 | 26620
01450 | Marengo County, Alabama | 01 | 0.7463 | 0.7477 | 99901
01460 | Marion County, Alabama | 01 | 0.7463 | 0.7477 | 99901
01470 | Marshall County, Alabama | 01 | 0.7463 | 0.7477 | 99901
01480 | Mobile County, Alabama | 5160 | 0.7866 | 0.7895 | 33660
01490 | Monroe County, Alabama | 01 | 0.7463 | 0.7477 | 99901
01500 | Montgomery County, Alabama | 5240 | 0.8588 | 0.8588 | 33860
01510 | Morgan County, Alabama | 2030 | 0.8478 | 0.8478 | 19460
01520 | Perry County, Alabama | 01 | 0.7463 | 0.7477 | 99901
01530 | Pickens County, Alabama | 01 | 0.7463 | 0.7477 | 99901
01540 | Pike County, Alabama | 01 | 0.7463 | 0.7477 | 99901
01550 | Randolph County, Alabama | 01 | 0.7463 | 0.7477 | 99901
01560 | Russell County, Alabama | 1800 | 0.8568 | 0.8568 | 17980
01570 | St Clair County, Alabama | 1000 | 0.9021 | 0.8979 | 13820
01580 | Shelby County, Alabama | 1000 | 0.9021 | 0.9 | 13820
01590 | Sumter County, Alabama | 01 | 0.7463 | 0.7477 | 99901
01600 | Talladega County, Alabama | 01 | 0.7463 | 0.7477 | 99901
01610 | Tallapoosa County, Alabama | 01 | 0.7463 | 0.7477 | 99901
01620 | Tuscaloosa County, Alabama | 8600 | 0.8842 | 0.8721 | 46220
01630 | Walker County, Alabama | 01 | 0.7463 | 0.8979 | 13820
01640 | Washington County, Alabama | 01 | 0.7463 | 0.7477 | 99901
01650 | Wilcox County, Alabama | 01 | 0.7463 | 0.7477 | 99901
01660 | Winston County, Alabama | 01 | 0.7463 | 0.7477 | 99901
02013 | Aleutians County East, Alaska | 02 | 1.1900 | 1.1990 | 99902
02016 | Aleutians County West, Alaska | 02 | 1.1900 | 1.1990 | 99902
02020 | Anchorage County, Alaska | 0380 | 1.2022 | 1.2110 | 11260
02030 | Angoon County, Alaska | 02 | 1.1900 | 1.1990 | 99902
02040 | Barrow-North Slope County, Alaska | 02 | 1.1900 | 1.1990 | 99902
02050 | Bethel County, Alaska | 02 | 1.1900 | 1.1990 | 99902
02060 | Bristol Bay Borough County, Alaska | 02 | 1.1900 | 1.1990 | 99902
02068 | Denali County, Alaska | 02 | 1.1900 | 1.1990 | 99902
02070 | Bristol Bay County, Alaska | 02 | 1.1900 | 1.1990 | 99902
02080 | Cordova-McCarthy County, Alaska | 02 | 1.1900 | 1.1990 | 99902
02090 | Fairbanks County, Alaska | 02 | 1.1900 | 1.1419 | 21820
02100 | Haines County, Alaska | 02 | 1.1900 | 1.1990 | 99902
02110 | Juneau County, Alaska | 02 | 1.1900 | 1.1990 | 99902
02120 | Kenai-Cook Inlet County, Alaska | 02 | 1.1900 | 1.1990 | 99902
02122 | Kenai Peninsula Borough, Alaska | 02 | 1.1900 | 1.1990 | 99902
02130 | Ketchikan County, Alaska | 02 | 1.1900 | 1.1990 | 99902
02140 | Kobuk County, Alaska | 02 | 1.1900 | 1.1990 | 99902
02150 | Kodiak County, Alaska | 02 | 1.1900 | 1.1990 | 99902
02160 | Kuskokwin County, Alaska | 02 | 1.1900 | 1.1990 | 99902
02164 | Lake and Peninsula Borough, Alaska | 02 | 1.1900 | 1.1990 | 99902
02170 | Matanuska County, Alaska | 02 | 1.1900 | 1.2110 | 11260
02180 | Nome County, Alaska | 02 | 1.1900 | 1.1990 | 99902
02185 | North Slope Borough, Alaska | 02 | 1.1900 | 1.1990 | 99902
02188 | Northwest Arctic Borough, Alaska | 02 | 1.1900 | 1.1990 | 99902
02190 | Outer Ketchikan County, Alaska | 02 | 1.1900 | 1.1990 | 99902
02200 | Prince Of Wales County, Alaska | 02 | 1.1900 | 1.1990 | 99902
02201 | Prince of Wales Outer Ketchikan Census Area, Alaska | 02 | 1.1900 | 1.1990 | 99902
02210 | Seward County, Alaska | 02 | 1.1900 | 1.1990 | 99902
02220 | Sitka County, Alaska | 02 | 1.1900 | 1.1990 | 99902
02230 | Skagway-Yakutat County, Alaska | 02 | 1.1900 | 1.1990 | 99902
02231 | Skagway-Yakutat-Angoon Census Area, Alaska | 02 | 1.1900 | 1.1990 | 99902
02232 | Skagway-Hoonah-Angoon Census Area, Alaska | 02 | 1.1900 | 1.1990 | 99902
02240 | Southeast Fairbanks County, Alaska | 02 | 1.1900 | 1.1990 | 99902
02250 | Upper Yukon County, Alaska | 02 | 1.1900 | 1.1990 | 99902
02260 | Valdz-Chitna-Whitier County, Alaska | 02 | 1.1900 | 1.1990 | 99902
02261 | Valdex-Cordove Census Area, Alaska | 02 | 1.1900 | 1.1990 | 99902
02270 | Wade Hampton County, Alaska | 02 | 1.1900 | 1.1990 | 99902
02280 | Wrangel-lPetersburg County, Alaska | 02 | 1.1900 | 1.1990 | 99902
02282 | Yakutat Borough, Alaska | 02 | 1.1900 | 1.1990 | 99902
02290 | Yukon-Koyukuk County, Alaska | 02 | 1.1900 | 1.1990 | 99902
03000 | Apache County, Arizona | 03 | 0.9054 | 0.8777 | 99903
03010 | Cochise County, Arizona | 03 | 0.9054 | 0.8777 | 99903
03020 | Coconino County, Arizona | 2620 | 1.1857 | 1.2105 | 22380
03030 | Gila County, Arizona | 03 | 0.9054 | 0.8777 | 99903
03040 | Graham County, Arizona | 03 | 0.9054 | 0.8777 | 99903
03050 | Greenlee County, Arizona | 03 | 0.9054 | 0.8777 | 99903
03055 | La Paz County, Arizona | 03 | 0.9054 | 0.8777 | 99903
03060 | Maricopa County, Arizona | 6200 | 1.0138 | 1.0138 | 38060
03070 | Mohave County, Arizona | 4120 | 1.1166 | 0.8777 | 99903
03080 | Navajo County, Arizona | 03 | 0.9054 | 0.8777 | 99903
03090 | Pima County, Arizona | 8520 | 0.8987 | 0.8987 | 46060
03100 | Pinal County, Arizona | 6200 | 1.0138 | 1.0138 | 38060
03110 | Santa Cruz County, Arizona | 03 | 0.9054 | 0.8777 | 99903
03120 | Yavapai County, Arizona | 03 | 0.9054 | 0.9879 | 39140
03130 | Yuma County, Arizona | 9360 | 0.9135 | 0.9135 | 49740
04000 | Arkansas County, Arkansas | 04 | 0.7744 | 0.7451 | 99904
04010 | Ashley County, Arkansas | 04 | 0.7744 | 0.7451 | 99904
04020 | Baxter County, Arkansas | 04 | 0.7744 | 0.7451 | 99904
04030 | Benton County, Arkansas | 2580 | 0.8563 | 0.8563 | 22220
04040 | Boone County, Arkansas | 04 | 0.7744 | 0.7451 | 99904
04050 | Bradley County, Arkansas | 04 | 0.7744 | 0.7451 | 99904
04060 | Calhoun County, Arkansas | 04 | 0.7744 | 0.7451 | 99904
04070 | Carroll County, Arkansas | 04 | 0.7744 | 0.7451 | 99904
04080 | Chicot County, Arkansas | 04 | 0.7744 | 0.7451 | 99904
04090 | Clark County, Arkansas | 04 | 0.7744 | 0.7451 | 99904
04100 | Clay County, Arkansas | 04 | 0.7744 | 0.7451 | 99904
04110 | Cleburne County, Arkansas | 04 | 0.7744 | 0.7451 | 99904
04120 | Cleveland County, Arkansas | 04 | 0.7744 | 0.8689 | 38220
04130 | Columbia County, Arkansas | 04 | 0.7744 | 0.7451 | 99904
04140 | Conway County, Arkansas | 04 | 0.7744 | 0.7451 | 99904
04150 | Craighead County, Arkansas | 3700 | 0.7919 | 0.7919 | 27860
04160 | Crawford County, Arkansas | 2720 | 0.8229 | 0.8214 | 22900
04170 | Crittenden County, Arkansas | 4920 | 0.9360 | 0.9341 | 32820
04180 | Cross County, Arkansas | 04 | 0.7744 | 0.7451 | 99904
04190 | Dallas County, Arkansas | 04 | 0.7744 | 0.7451 | 99904
04200 | Desha County, Arkansas | 04 | 0.7744 | 0.7451 | 99904
04210 | Drew County, Arkansas | 04 | 0.7744 | 0.7451 | 99904
04220 | Faulkner County, Arkansas | 4400 | 0.8756 | 0.8756 | 30780
04230 | Franklin County, Arkansas | 04 | 0.7744 | 0.8214 | 22900
04240 | Fulton County, Arkansas | 04 | 0.7744 | 0.7451 | 99904
04250 | Garland County, Arkansas | 04 | 0.7744 | 0.9053 | 26300
04260 | Grant County, Arkansas | 04 | 0.7744 | 0.8756 | 30780
04270 | Greene County, Arkansas | 04 | 0.7744 | 0.7451 | 99904
04280 | Hempstead County, Arkansas | 04 | 0.7744 | 0.7451 | 99904
04290 | Hot Spring County, Arkansas | 04 | 0.7744 | 0.7451 | 99904
04300 | Howard County, Arkansas | 04 | 0.7744 | 0.7451 | 99904
04310 | Independence County, Arkansas | 04 | 0.7744 | 0.7451 | 99904
04320 | Izard County, Arkansas | 04 | 0.7744 | 0.7451 | 99904
04330 | Jackson County, Arkansas | 04 | 0.7744 | 0.7451 | 99904
04340 | Jefferson County, Arkansas | 6240 | 0.8689 | 0.8689 | 38220
04350 | Johnson County, Arkansas | 04 | 0.7744 | 0.7451 | 99904
04360 | Lafayette County, Arkansas | 04 | 0.7744 | 0.7451 | 99904
04370 | Lawrence County, Arkansas | 04 | 0.7744 | 0.7451 | 99904
04380 | Lee County, Arkansas | 04 | 0.7744 | 0.7451 | 99904
04390 | Lincoln County, Arkansas | 04 | 0.7744 | 0.8689 | 38220
04400 | Little River County, Arkansas | 04 | 0.7744 | 0.7451 | 99904
04410 | Logan County, Arkansas | 04 | 0.7744 | 0.7451 | 99904
04420 | Lonoke County, Arkansas | 4400 | 0.8756 | 0.8756 | 30780
04430 | Madison County, Arkansas | 04 | 0.7744 | 0.8563 | 22220
04440 | Marion County, Arkansas | 04 | 0.7744 | 0.7451 | 99904
04450 | Miller County, Arkansas | 8360 | 0.8291 | 0.8291 | 45500
04460 | Mississippi County, Arkansas | 04 | 0.7744 | 0.7451 | 99904
04470 | Monroe County, Arkansas | 04 | 0.7744 | 0.7451 | 99904
04480 | Montgomery County, Arkansas | 04 | 0.7744 | 0.7451 | 99904
04490 | Nevada County, Arkansas | 04 | 0.7744 | 0.7451 | 99904
04500 | Newton County, Arkansas | 04 | 0.7744 | 0.7451 | 99904
04510 | Ouachita County, Arkansas | 04 | 0.7744 | 0.7451 | 99904
04520 | Perry County, Arkansas | 04 | 0.7744 | 0.8756 | 30780
04530 | Phillips County, Arkansas | 04 | 0.7744 | 0.7451 | 99904
04540 | Pike County, Arkansas | 04 | 0.7744 | 0.7451 | 99904
04550 | Poinsett County, Arkansas | 04 | 0.7744 | 0.7919 | 27860
04560 | Polk County, Arkansas | 04 | 0.7744 | 0.7451 | 99904
04570 | Pope County, Arkansas | 04 | 0.7744 | 0.7451 | 99904
04580 | Prairie County, Arkansas | 04 | 0.7744 | 0.7451 | 99904
04590 | Pulaski County, Arkansas | 4400 | 0.8756 | 0.8756 | 30780
04600 | Randolph County, Arkansas | 04 | 0.7744 | 0.7451 | 99904
04610 | St Francis County, Arkansas | 04 | 0.7744 | 0.7451 | 99904
04620 | Saline County, Arkansas | 4400 | 0.8756 | 0.8756 | 30780
04630 | Scott County, Arkansas | 04 | 0.7744 | 0.7451 | 99904
04640 | Searcy County, Arkansas | 04 | 0.7744 | 0.7451 | 99904
04650 | Sebastian County, Arkansas | 2720 | 0.8229 | 0.8214 | 22900
04660 | Sevier County, Arkansas | 04 | 0.7744 | 0.7451 | 99904
04670 | Sharp County, Arkansas | 04 | 0.7744 | 0.7451 | 99904
04680 | Stone County, Arkansas | 04 | 0.7744 | 0.7451 | 99904
04690 | Union County, Arkansas | 04 | 0.7744 | 0.7451 | 99904
04700 | Van Buren County, Arkansas | 04 | 0.7744 | 0.7451 | 99904
04710 | Washington County, Arkansas | 2580 | 0.8563 | 0.8563 | 22220
04720 | White County, Arkansas | 04 | 0.7744 | 0.7451 | 99904
04730 | Woodruff County, Arkansas | 04 | 0.7744 | 0.7451 | 99904
04740 | Yell County, Arkansas | 04 | 0.7744 | 0.7451 | 99904
05000 | Alameda County, California | 5775 | 1.5346 | 1.5346 | 36084
05010 | Alpine County, California | 05 | 1.0639 | 1.0857 | 99905
05020 | Amador County, California | 05 | 1.0639 | 1.0857 | 99905
05030 | Butte County, California | 1620 | 1.0522 | 1.0522 | 17020
05040 | Calaveras County, California | 05 | 1.0639 | 1.0857 | 99905
05050 | Colusa County, California | 05 | 1.0639 | 1.0857 | 99905
05060 | Contra Costa County, California | 5775 | 1.5346 | 1.5346 | 36084
05070 | Del Norte County, California | 05 | 1.0639 | 1.0857 | 99905
05080 | Eldorado County, California | 6920 | 1.3148 | 1.2973 | 40900
05090 | Fresno County, California | 2840 | 1.0432 | 1.0541 | 23420
05100 | Glenn County, California | 05 | 1.0639 | 1.0857 | 99905
05110 | Humboldt County, California | 05 | 1.0639 | 1.0857 | 99905
05120 | Imperial County, California | 05 | 1.0639 | 0.8915 | 20940
05130 | Inyo County, California | 05 | 1.0639 | 1.0857 | 99905
05140 | Kern County, California | 0680 | 1.0344 | 1.0344 | 12540
05150 | Kings County, California | 05 | 1.0639 | 1.0046 | 25260
05160 | Lake County, California | 05 | 1.0639 | 1.0857 | 99905
05170 | Lassen County, California | 05 | 1.0639 | 1.0857 | 99905
05200 | Los Angeles County, California | 4480 | 1.1752 | 1.1752 | 31084
05210 | Los Angeles County, California | 4480 | 1.1752 | 1.1752 | 31084
05300 | Madera County, California | 2840 | 1.0432 | 0.8721 | 31460
05310 | Marin County, California | 7360 | 1.4990 | 1.4990 | 41884
05320 | Mariposa County, California | 05 | 1.0639 | 1.0857 | 99905
05330 | Mendocino County, California | 05 | 1.0639 | 1.0857 | 99905
05340 | Merced County, California | 4940 | 1.1120 | 1.1120 | 32900
05350 | Modoc County, California | 05 | 1.0639 | 1.0857 | 99905
05360 | Mono County, California | 05 | 1.0639 | 1.0857 | 99905
05370 | Monterey County, California | 7120 | 1.4142 | 1.4142 | 41500
05380 | Napa County, California | 8720 | 1.3966 | 1.2656 | 34900
05390 | Nevada County, California | 05 | 1.0639 | 1.0857 | 99905
05400 | Orange County, California | 5945 | 1.1576 | 1.1576 | 42044
05410 | Placer County, California | 6920 | 1.3148 | 1.2973 | 40900
05420 | Plumas County, California | 05 | 1.0639 | 1.0857 | 99905
05430 | Riverside County, California | 6780 | 1.1022 | 1.1022 | 40140
05440 | Sacramento County, California | 6920 | 1.3148 | 1.2973 | 40900
05450 | San Benito County, California | 05 | 1.0639 | 1.5125 | 41940
05460 | San Bernardino County, California | 6780 | 1.1022 | 1.1022 | 40140
05470 | San Diego County, California | 7320 | 1.1424 | 1.1424 | 41740
05480 | San Francisco County, California | 7360 | 1.4990 | 1.4990 | 41884
05490 | San Joaquin County, California | 8120 | 1.1311 | 1.1311 | 44700
05500 | San Luis Obispo County, California | 7460 | 1.1360 | 1.1360 | 42020
05510 | San Mateo County, California | 7360 | 1.4990 | 1.4990 | 41884
05520 | Santa Barbara County, California | 7480 | 1.1538 | 1.1538 | 42060
05530 | Santa Clara County, California | 7400 | 1.5144 | 1.5125 | 41940
05540 | Santa Cruz County, California | 7485 | 1.5182 | 1.5182 | 42100
05550 | Shasta County, California | 6690 | 1.2215 | 1.2215 | 39820
05560 | Sierra County, California | 05 | 1.0639 | 1.0857 | 99905
05570 | Siskiyou County, California | 05 | 1.0639 | 1.0857 | 99905
05580 | Solano County, California | 8720 | 1.3966 | 1.4899 | 46700
05590 | Sonoma County, California | 7500 | 1.3506 | 1.3506 | 42220
05600 | Stanislaus County, California | 5170 | 1.1804 | 1.1804 | 33700
05610 | Sutter County, California | 9340 | 1.0932 | 1.0932 | 49700
05620 | Tehama County, California | 05 | 1.0639 | 1.0857 | 99905
05630 | Trinity County, California | 05 | 1.0639 | 1.0857 | 99905
05640 | Tulare County, California | 8780 | 1.0074 | 1.0074 | 47300
05650 | Tuolumne County, California | 05 | 1.0639 | 1.0857 | 99905
05660 | Ventura County, California | 8735 | 1.1613 | 1.1613 | 37100
05670 | Yolo County, California | 9270 | 0.9949 | 1.2973 | 40900
05680 | Yuba County, California | 9340 | 1.0932 | 1.0932 | 49700
06000 | Adams County, Colorado | 2080 | 1.0733 | 1.0733 | 19740
06010 | Alamosa County, Colorado | 06 | 0.9389 | 0.9389 | 99906
06020 | Arapahoe County, Colorado | 2080 | 1.0733 | 1.0733 | 19740
06030 | Archuleta County, Colorado | 06 | 0.9389 | 0.9389 | 99906
06040 | Baca County, Colorado | 06 | 0.9389 | 0.9389 | 99906
06050 | Bent County, Colorado | 06 | 0.9389 | 0.9389 | 99906
06060 | Boulder County, Colorado | 1125 | 0.9744 | 0.9744 | 14500
06070 | Chaffee County, Colorado | 06 | 0.9389 | 0.9389 | 99906
06080 | Cheyenne County, Colorado | 06 | 0.9389 | 0.9389 | 99906
06090 | Clear Creek County, Colorado | 06 | 0.9389 | 1.0733 | 19740
06100 | Conejos County, Colorado | 06 | 0.9389 | 0.9389 | 99906
06110 | Costilla County, Colorado | 06 | 0.9389 | 0.9389 | 99906
06120 | Crowley County, Colorado | 06 | 0.9389 | 0.9389 | 99906
06130 | Custer County, Colorado | 06 | 0.9389 | 0.9389 | 99906
06140 | Delta County, Colorado | 06 | 0.9389 | 0.9389 | 99906
06150 | Denver County, Colorado | 2080 | 1.0733 | 1.0733 | 19740
06160 | Dolores County, Colorado | 06 | 0.9389 | 0.9389 | 99906
06170 | Douglas County, Colorado | 2080 | 1.0733 | 1.0733 | 19740
06180 | Eagle County, Colorado | 06 | 0.9389 | 0.9389 | 99906
06190 | Elbert County, Colorado | 06 | 0.9389 | 1.0733 | 19740
06200 | El Paso County, Colorado | 1720 | 0.9478 | 0.9478 | 17820
06210 | Fremont County, Colorado | 06 | 0.9389 | 0.9389 | 99906
06220 | Garfield County, Colorado | 06 | 0.9389 | 0.9389 | 99906
06230 | Gilpin County, Colorado | 06 | 0.9389 | 1.0733 | 19740
06240 | Grand County, Colorado | 06 | 0.9389 | 0.9389 | 99906
06250 | Gunnison County, Colorado | 06 | 0.9389 | 0.9389 | 99906
06260 | Hinsdale County, Colorado | 06 | 0.9389 | 0.9389 | 99906
06270 | Huerfano County, Colorado | 06 | 0.9389 | 0.9389 | 99906
06280 | Jackson County, Colorado | 06 | 0.9389 | 0.9389 | 99906
06290 | Jefferson County, Colorado | 2080 | 1.0733 | 1.0733 | 19740
06300 | Kiowa County, Colorado | 06 | 0.9389 | 0.9389 | 99906
06310 | Kit Carson County, Colorado | 06 | 0.9389 | 0.9389 | 99906
06320 | Lake County, Colorado | 06 | 0.9389 | 0.9389 | 99906
06330 | La Plata County, Colorado | 06 | 0.9389 | 0.9389 | 99906
06340 | Larimer County, Colorado | 2670 | 1.0132 | 1.0132 | 22660
06350 | Las Animas County, Colorado | 06 | 0.9389 | 0.9389 | 99906
06360 | Lincoln County, Colorado | 06 | 0.9389 | 0.9389 | 99906
06370 | Logan County, Colorado | 06 | 0.9389 | 0.9389 | 99906
06380 | Mesa County, Colorado | 2995 | 0.9560 | 0.9560 | 24300
06390 | Mineral County, Colorado | 06 | 0.9389 | 0.9389 | 99906
06400 | Moffat County, Colorado | 06 | 0.9389 | 0.9389 | 99906
06410 | Montezuma County, Colorado | 06 | 0.9389 | 0.9389 | 99906
06420 | Montrose County, Colorado | 06 | 0.9389 | 0.9389 | 99906
06430 | Morgan County, Colorado | 06 | 0.9389 | 0.9389 | 99906
06440 | Otero County, Colorado | 06 | 0.9389 | 0.9389 | 99906
06450 | Ouray County, Colorado | 06 | 0.9389 | 0.9389 | 99906
06460 | Park County, Colorado | 06 | 0.9389 | 1.0733 | 19740
06470 | Phillips County, Colorado | 06 | 0.9389 | 0.9389 | 99906
06480 | Pitkin County, Colorado | 06 | 0.9389 | 0.9389 | 99906
06490 | Prowers County, Colorado | 06 | 0.9389 | 0.9389 | 99906
06500 | Pueblo County, Colorado | 6560 | 0.8632 | 0.8632 | 39380
06510 | Rio Blanco County, Colorado | 06 | 0.9389 | 0.9389 | 99906
06520 | Rio Grande County, Colorado | 06 | 0.9389 | 0.9389 | 99906
06530 | Routt County, Colorado | 06 | 0.9389 | 0.9389 | 99906
06540 | Saguache County, Colorado | 06 | 0.9389 | 0.9389 | 99906
06550 | San Juan County, Colorado | 06 | 0.9389 | 0.9389 | 99906
06560 | San Miguel County, Colorado | 06 | 0.9389 | 0.9389 | 99906
06570 | Sedgwick County, Colorado | 06 | 0.9389 | 0.9389 | 99906
06580 | Summit County, Colorado | 06 | 0.9389 | 0.9389 | 99906
06590 | Teller County, Colorado | 06 | 0.9389 | 0.9478 | 17820
06600 | Washington County, Colorado | 06 | 0.9389 | 0.9389 | 99906
06610 | Weld County, Colorado | 3060 | 0.9580 | 0.9580 | 24540
06620 | Yuma County, Colorado | 06 | 0.9389 | 0.9389 | 99906
06630 | Broomfield County, Colorado | 2080 | 1.0733 | 1.0733 | 19740
07000 | Fairfield County, Connecticut | 5483 | 1.2096 | 1.2598 | 14860
07010 | Hartford County, Connecticut | 3283 | 1.1084 | 1.1084 | 25540
07020 | Litchfield County, Connecticut | 3283 | 1.1084 | 1.1084 | 25540
07030 | Middlesex County, Connecticut | 3283 | 1.1084 | 1.1084 | 25540
07040 | New Haven County, Connecticut | 5483 | 1.2096 | 1.1702 | 35300
07050 | New London County, Connecticut | 5523 | 1.1356 | 1.1356 | 35980
07060 | Tolland County, Connecticut | 3283 | 1.1084 | 1.1084 | 25540
07070 | Windham County, Connecticut | 07 | 1.1794 | 1.1794 | 99907
08000 | Kent County, Delaware | 2190 | 0.9779 | 0.9779 | 20100
08010 | New Castle County, Delaware | 9160 | 1.0537 | 1.0482 | 48864
08020 | Sussex County, Delaware | 08 | 0.9606 | 0.9606 | 99908
09000 | Washington Dc County, Of Col Dist | 8840 | 1.0983 | 1.0932 | 47894
10000 | Alachua County, Florida | 2900 | 0.9474 | 0.9474 | 23540
10010 | Baker County, Florida | 10 | 0.8698 | 0.9299 | 27260
10020 | Bay County, Florida | 6015 | 0.7989 | 0.7989 | 37460
10030 | Bradford County, Florida | 10 | 0.8698 | 0.8598 | 99910
10040 | Brevard County, Florida | 4900 | 0.9835 | 0.9835 | 37340
10050 | Broward County, Florida | 2680 | 1.0442 | 1.0442 | 22744
10060 | Calhoun County, Florida | 10 | 0.8698 | 0.8598 | 99910
10070 | Charlotte County, Florida | 6580 | 0.9264 | 0.9264 | 39460
10080 | Citrus County, Florida | 10 | 0.8698 | 0.8598 | 99910
10090 | Clay County, Florida | 3600 | 0.9308 | 0.9299 | 27260
10100 | Collier County, Florida | 5345 | 1.0140 | 1.0140 | 34940
10110 | Columbia County, Florida | 10 | 0.8698 | 0.8598 | 99910
10120 | Dade County, Florida | 5000 | 0.9759 | 0.9759 | 33124
10130 | De Soto County, Florida | 10 | 0.8698 | 0.8598 | 99910
10140 | Dixie County, Florida | 10 | 0.8698 | 0.8598 | 99910
10150 | Duval County, Florida | 3600 | 0.9308 | 0.9299 | 27260
10160 | Escambia County, Florida | 6080 | 0.8104 | 0.8104 | 37860
10170 | Flagler County, Florida | 2020 | 0.9334 | 0.8598 | 99910
10180 | Franklin County, Florida | 10 | 0.8698 | 0.8598 | 99910
10190 | Gadsden County, Florida | 8240 | 0.8697 | 0.8697 | 45220
10200 | Gilchrist County, Florida | 10 | 0.8698 | 0.9474 | 23540
10210 | Glades County, Florida | 10 | 0.8698 | 0.8598 | 99910
10220 | Gulf County, Florida | 10 | 0.8698 | 0.8598 | 99910
10230 | Hamilton County, Florida | 10 | 0.8698 | 0.8598 | 99910
10240 | Hardee County, Florida | 10 | 0.8698 | 0.8598 | 99910
10250 | Hendry County, Florida | 10 | 0.8698 | 0.8598 | 99910
10260 | Hernando County, Florida | 8280 | 0.9193 | 0.9193 | 45300
10270 | Highlands County, Florida | 10 | 0.8698 | 0.8598 | 99910
10280 | Hillsborough County, Florida | 8280 | 0.9193 | 0.9193 | 45300
10290 | Holmes County, Florida | 10 | 0.8698 | 0.8598 | 99910
10300 | Indian River County, Florida | 10 | 0.8698 | 0.9444 | 46940
10310 | Jackson County, Florida | 10 | 0.8698 | 0.8598 | 99910
10320 | Jefferson County, Florida | 10 | 0.8698 | 0.8697 | 45220
10330 | Lafayette County, Florida | 10 | 0.8698 | 0.8598 | 99910
10340 | Lake County, Florida | 5960 | 0.9459 | 0.9459 | 36740
10350 | Lee County, Florida | 2700 | 0.9366 | 0.9366 | 15980
10360 | Leon County, Florida | 8240 | 0.8697 | 0.8697 | 45220
10370 | Levy County, Florida | 10 | 0.8698 | 0.8598 | 99910
10380 | Liberty County, Florida | 10 | 0.8698 | 0.8598 | 99910
10390 | Madison County, Florida | 10 | 0.8698 | 0.8598 | 99910
10400 | Manatee County, Florida | 7510 | 0.9555 | 0.9555 | 42260
10410 | Marion County, Florida | 5790 | 0.8934 | 0.8934 | 36100
10420 | Martin County, Florida | 2710 | 1.0133 | 1.0133 | 38940
10430 | Monroe County, Florida | 10 | 0.8698 | 0.8598 | 99910
10440 | Nassau County, Florida | 3600 | 0.9308 | 0.9299 | 27260
10450 | Okaloosa County, Florida | 2750 | 0.8881 | 0.8881 | 23020
10460 | Okeechobee County, Florida | 10 | 0.8698 | 0.8598 | 99910
10470 | Orange County, Florida | 5960 | 0.9459 | 0.9459 | 36740
10480 | Osceola County, Florida | 5960 | 0.9459 | 0.9459 | 36740
10490 | Palm Beach County, Florida | 8960 | 1.0077 | 1.0077 | 48424
10500 | Pasco County, Florida | 8280 | 0.9193 | 0.9193 | 45300
10510 | Pinellas County, Florida | 8280 | 0.9193 | 0.9193 | 45300
10520 | Polk County, Florida | 3980 | 0.8921 | 0.8921 | 29460
10530 | Putnam County, Florida | 10 | 0.8698 | 0.8598 | 99910
10540 | Johns County, Florida | 3600 | 0.9308 | 0.9299 | 27260
10550 | St Lucie County, Florida | 2710 | 1.0133 | 1.0133 | 38940
10560 | Santa Rosa County, Florida | 6080 | 0.8104 | 0.8104 | 37860
10570 | Sarasota County, Florida | 7510 | 0.9555 | 0.9555 | 42260
10580 | Seminole County, Florida | 5960 | 0.9459 | 0.9459 | 36740
10590 | Sumter County, Florida | 10 | 0.8698 | 0.8598 | 99910
10600 | Suwannee County, Florida | 10 | 0.8698 | 0.8598 | 99910
10610 | Taylor County, Florida | 10 | 0.8698 | 0.8598 | 99910
10620 | Union County, Florida | 10 | 0.8698 | 0.8598 | 99910
10630 | Volusia County, Florida | 2020 | 0.9334 | 0.9308 | 19660
10640 | Wakulla County, Florida | 10 | 0.8698 | 0.8697 | 45220
10650 | Walton County, Florida | 10 | 0.8698 | 0.8598 | 99910
10660 | Washington County, Florida | 10 | 0.8698 | 0.8598 | 99910
11000 | Appling County, Georgia | 11 | 0.8165 | 0.7666 | 99911
11010 | Atkinson County, Georgia | 11 | 0.8165 | 0.7666 | 99911
11011 | Bacon County, Georgia | 11 | 0.8165 | 0.7666 | 99911
11020 | Baker County, Georgia | 11 | 0.8165 | 0.8636 | 10500
11030 | Baldwin County, Georgia | 11 | 0.8165 | 0.7666 | 99911
11040 | Banks County, Georgia | 11 | 0.8165 | 0.7666 | 99911
11050 | Barrow County, Georgia | 0520 | 0.9648 | 0.9648 | 12060
11060 | Bartow County, Georgia | 0520 | 0.9648 | 0.9648 | 12060
11070 | Ben Hill County, Georgia | 11 | 0.8165 | 0.7666 | 99911
11080 | Berrien County, Georgia | 11 | 0.8165 | 0.7666 | 99911
11090 | Bibb County, Georgia | 4680 | 0.9286 | 0.9453 | 31420
11100 | Bleckley County, Georgia | 11 | 0.8165 | 0.7666 | 99911
11110 | Brantley County, Georgia | 11 | 0.8165 | 0.9320 | 15260
11120 | Brooks County, Georgia | 11 | 0.8165 | 0.8875 | 46660
11130 | Bryan County, Georgia | 7520 | 0.9480 | 0.9480 | 42340
11140 | Bulloch County, Georgia | 11 | 0.8165 | 0.7666 | 99911
11150 | Burke County, Georgia | 11 | 0.8165 | 0.9565 | 12260
11160 | Butts County, Georgia | 11 | 0.8165 | 0.9648 | 12060
11161 | Calhoun County, Georgia | 11 | 0.8165 | 0.7666 | 99911
11170 | Camden County, Georgia | 11 | 0.8165 | 0.7666 | 99911
11180 | Candler County, Georgia | 11 | 0.8165 | 0.7666 | 99911
11190 | Carroll County, Georgia | 0520 | 0.9648 | 0.9648 | 12060
11200 | Catoosa County, Georgia | 1560 | 0.9098 | 0.9098 | 16860
11210 | Charlton County, Georgia | 11 | 0.8165 | 0.7666 | 99911
11220 | Chatham County, Georgia | 7520 | 0.9480 | 0.9480 | 42340
11230 | Chattahoochee County, Georgia | 1800 | 0.8568 | 0.8568 | 17980
11240 | Chattooga County, Georgia | 11 | 0.8165 | 0.7666 | 99911
11250 | Cherokee County, Georgia | 0520 | 0.9648 | 0.9648 | 12060
11260 | Clarke County, Georgia | 0500 | 0.9843 | 0.9843 | 12020
11270 | Clay County, Georgia | 11 | 0.8165 | 0.7666 | 99911
11280 | Clayton County, Georgia | 0520 | 0.9648 | 0.9648 | 12060
11281 | Clinch County, Georgia | 11 | 0.8165 | 0.7666 | 99911
11290 | Cobb County, Georgia | 0520 | 0.9648 | 0.9648 | 12060
11291 | Coffee County, Georgia | 11 | 0.8165 | 0.7666 | 99911
11300 | Colquitt County, Georgia | 11 | 0.8165 | 0.7666 | 99911
11310 | Columbia County, Georgia | 0600 | 0.9619 | 0.9565 | 12260
11311 | Cook County, Georgia | 11 | 0.8165 | 0.7666 | 99911
11320 | Coweta County, Georgia | 0520 | 0.9648 | 0.9648 | 12060
11330 | Crawford County, Georgia | 11 | 0.8165 | 0.9453 | 31420
11340 | Crisp County, Georgia | 11 | 0.8165 | 0.7666 | 99911
11341 | Dade County, Georgia | 1560 | 0.9098 | 0.9098 | 16860
11350 | Dawson County, Georgia | 11 | 0.8165 | 0.9648 | 12060
11360 | Decatur County, Georgia | 11 | 0.8165 | 0.7666 | 99911
11370 | De Kalb County, Georgia | 0520 | 0.9648 | 0.9648 | 12060
11380 | Dodge County, Georgia | 11 | 0.8165 | 0.7666 | 99911
11381 | Dooly County, Georgia | 11 | 0.8165 | 0.7666 | 99911
11390 | Dougherty County, Georgia | 0120 | 0.8636 | 0.8636 | 10500
11400 | Douglas County, Georgia | 0520 | 0.9648 | 0.9648 | 12060
11410 | Early County, Georgia | 11 | 0.8165 | 0.7666 | 99911
11420 | Echols County, Georgia | 11 | 0.8165 | 0.8875 | 46660
11421 | Effingham County, Georgia | 7520 | 0.9480 | 0.9480 | 42340
11430 | Elbert County, Georgia | 11 | 0.8165 | 0.7666 | 99911
11440 | Emanuel County, Georgia | 11 | 0.8165 | 0.7666 | 99911
11441 | Evans County, Georgia | 11 | 0.8165 | 0.7666 | 99911
11450 | Fannin County, Georgia | 11 | 0.8165 | 0.7666 | 99911
11451 | Fayette County, Georgia | 0520 | 0.9648 | 0.9648 | 12060
11460 | Floyd County, Georgia | 11 | 0.8165 | 0.9424 | 40660
11461 | Forsyth County, Georgia | 0520 | 0.9648 | 0.9648 | 12060
11462 | Franklin County, Georgia | 11 | 0.8165 | 0.7666 | 99911
11470 | Fulton County, Georgia | 0520 | 0.9648 | 0.9648 | 12060
11471 | Gilmer County, Georgia | 11 | 0.8165 | 0.7666 | 99911
11480 | Glascock County, Georgia | 11 | 0.8165 | 0.7666 | 99911
11490 | Glynn County, Georgia | 11 | 0.8165 | 0.9320 | 15260
11500 | Gordon County, Georgia | 11 | 0.8165 | 0.7666 | 99911
11510 | Grady County, Georgia | 11 | 0.8165 | 0.7666 | 99911
11520 | Greene County, Georgia | 11 | 0.8165 | 0.7666 | 99911
11530 | Gwinnett County, Georgia | 0520 | 0.9648 | 0.9648 | 12060
11540 | Habersham County, Georgia | 11 | 0.8165 | 0.7666 | 99911
11550 | Hall County, Georgia | 11 | 0.8165 | 0.8883 | 23580
11560 | Hancock County, Georgia | 11 | 0.8165 | 0.7666 | 99911
11570 | Haralson County, Georgia | 11 | 0.8165 | 0.9648 | 12060
11580 | Harris County, Georgia | 1800 | 0.8568 | 0.8568 | 17980
11581 | Hart County, Georgia | 11 | 0.8165 | 0.7666 | 99911
11590 | Heard County, Georgia | 11 | 0.8165 | 0.9648 | 12060
11591 | Henry County, Georgia | 0520 | 0.9648 | 0.9648 | 12060
11600 | Houston County, Georgia | 4680 | 0.9286 | 0.8654 | 47580
11601 | Irwin County, Georgia | 11 | 0.8165 | 0.7666 | 99911
11610 | Jackson County, Georgia | 11 | 0.8165 | 0.7666 | 99911
11611 | Jasper County, Georgia | 11 | 0.8165 | 0.9648 | 12060
11612 | Jeff Davis County, Georgia | 11 | 0.8165 | 0.7666 | 99911
11620 | Jefferson County, Georgia | 11 | 0.8165 | 0.7666 | 99911
11630 | Jenkins County, Georgia | 11 | 0.8165 | 0.7666 | 99911
11640 | Johnson County, Georgia | 11 | 0.8165 | 0.7666 | 99911
11650 | Jones County, Georgia | 4680 | 0.9286 | 0.9453 | 31420
11651 | Lamar County, Georgia | 11 | 0.8165 | 0.9648 | 12060
11652 | Lanier County, Georgia | 11 | 0.8165 | 0.8875 | 46660
11660 | Laurens County, Georgia | 11 | 0.8165 | 0.7666 | 99911
11670 | Lee County, Georgia | 0120 | 0.8636 | 0.8636 | 10500
11680 | Liberty County, Georgia | 11 | 0.8165 | 0.9178 | 25980
11690 | Lincoln County, Georgia | 11 | 0.8165 | 0.7666 | 99911
11691 | Long County, Georgia | 11 | 0.8165 | 0.9178 | 25980
11700 | Lowndes County, Georgia | 11 | 0.8165 | 0.8875 | 46660
11701 | Lumpkin County, Georgia | 11 | 0.8165 | 0.7666 | 99911
11702 | Mc Duffie County, Georgia | 0600 | 0.9619 | 0.9565 | 12260
11703 | Mc Intosh County, Georgia | 11 | 0.8165 | 0.9320 | 15260
11710 | Macon County, Georgia | 11 | 0.8165 | 0.7666 | 99911
11720 | Madison County, Georgia | 0500 | 0.9843 | 0.9843 | 12020
11730 | Marion County, Georgia | 11 | 0.8165 | 0.8568 | 17980
11740 | Meriwether County, Georgia | 11 | 0.8165 | 0.9648 | 12060
11741 | Miller County, Georgia | 11 | 0.8165 | 0.7666 | 99911
11750 | Mitchell County, Georgia | 11 | 0.8165 | 0.7666 | 99911
11760 | Monroe County, Georgia | 11 | 0.8165 | 0.9453 | 31420
11770 | Montgomery County, Georgia | 11 | 0.8165 | 0.7666 | 99911
11771 | Morgan County, Georgia | 11 | 0.8165 | 0.7666 | 99911
11772 | Murray County, Georgia | 11 | 0.8165 | 0.9044 | 19140
11780 | Muscogee County, Georgia | 1800 | 0.8568 | 0.8568 | 17980
11790 | Newton County, Georgia | 0520 | 0.9648 | 0.9648 | 12060
11800 | Oconee County, Georgia | 0500 | 0.9843 | 0.9843 | 12020
11801 | Oglethorpe County, Georgia | 11 | 0.8165 | 0.9843 | 12020
11810 | Paulding County, Georgia | 0520 | 0.9648 | 0.9648 | 12060
11811 | Peach County, Georgia | 4680 | 0.9286 | 0.7666 | 99911
11812 | Pickens County, Georgia | 0520 | 0.9648 | 0.9648 | 12060
11820 | Pierce County, Georgia | 11 | 0.8165 | 0.7666 | 99911
11821 | Pike County, Georgia | 11 | 0.8165 | 0.9648 | 12060
11830 | Polk County, Georgia | 11 | 0.8165 | 0.7666 | 99911
11831 | Pulaski County, Georgia | 11 | 0.8165 | 0.7666 | 99911
11832 | Putnam County, Georgia | 11 | 0.8165 | 0.7666 | 99911
11833 | Quitman County, Georgia | 11 | 0.8165 | 0.7666 | 99911
11834 | Rabun County, Georgia | 11 | 0.8165 | 0.7666 | 99911
11835 | Randolph County, Georgia | 11 | 0.8165 | 0.7666 | 99911
11840 | Richmond County, Georgia | 0600 | 0.9619 | 0.9565 | 12260
11841 | Rockdale County, Georgia | 0520 | 0.9648 | 0.9648 | 12060
11842 | Schley County, Georgia | 11 | 0.8165 | 0.7666 | 99911
11850 | Screven County, Georgia | 11 | 0.8165 | 0.7666 | 99911
11851 | Seminole County, Georgia | 11 | 0.8165 | 0.7666 | 99911
11860 | Spalding County, Georgia | 0520 | 0.9648 | 0.9648 | 12060
11861 | Stephens County, Georgia | 11 | 0.8165 | 0.7666 | 99911
11862 | Stewart County, Georgia | 11 | 0.8165 | 0.7666 | 99911
11870 | Sumter County, Georgia | 11 | 0.8165 | 0.7666 | 99911
11880 | Talbot County, Georgia | 11 | 0.8165 | 0.7666 | 99911
11881 | Taliaferro County, Georgia | 11 | 0.8165 | 0.7666 | 99911
11882 | Tattnall County, Georgia | 11 | 0.8165 | 0.7666 | 99911
11883 | Taylor County, Georgia | 11 | 0.8165 | 0.7666 | 99911
11884 | Telfair County, Georgia | 11 | 0.8165 | 0.7666 | 99911
11885 | Terrell County, Georgia | 11 | 0.8165 | 0.8636 | 10500
11890 | Thomas County, Georgia | 11 | 0.8165 | 0.7666 | 99911
11900 | Tift County, Georgia | 11 | 0.8165 | 0.7666 | 99911
11901 | Toombs County, Georgia | 11 | 0.8165 | 0.7666 | 99911
11902 | Towns County, Georgia | 11 | 0.8165 | 0.7666 | 99911
11903 | Treutlen County, Georgia | 11 | 0.8165 | 0.7666 | 99911
11910 | Troup County, Georgia | 11 | 0.8165 | 0.7666 | 99911
11911 | Turner County, Georgia | 11 | 0.8165 | 0.7666 | 99911
11912 | Twiggs County, Georgia | 4680 | 0.9286 | 0.9453 | 31420
11913 | Union County, Georgia | 11 | 0.8165 | 0.7666 | 99911
11920 | Upson County, Georgia | 11 | 0.8165 | 0.7666 | 99911
11921 | Walker County, Georgia | 1560 | 0.9098 | 0.9098 | 16860
11930 | Walton County, Georgia | 0520 | 0.9648 | 0.9648 | 12060
11940 | Ware County, Georgia | 11 | 0.8165 | 0.7666 | 99911
11941 | Warren County, Georgia | 11 | 0.8165 | 0.7666 | 99911
11950 | Washington County, Georgia | 11 | 0.8165 | 0.7666 | 99911
11960 | Wayne County, Georgia | 11 | 0.8165 | 0.7666 | 99911
11961 | Webster County, Georgia | 11 | 0.8165 | 0.7666 | 99911
11962 | Wheeler County, Georgia | 11 | 0.8165 | 0.7666 | 99911
11963 | White County, Georgia | 11 | 0.8165 | 0.7666 | 99911
11970 | Whitfield County, Georgia | 11 | 0.8165 | 0.9044 | 19140
11971 | Wilcox County, Georgia | 11 | 0.8165 | 0.7666 | 99911
11972 | Wilkes County, Georgia | 11 | 0.8165 | 0.7666 | 99911
11973 | Wilkinson County, Georgia | 11 | 0.8165 | 0.7666 | 99911
11980 | Worth County, Georgia | 11 | 0.8165 | 0.8636 | 10500
12005 | Kalawao County, Hawaii | 12 | 1.0562 | 1.0562 | 99912
12010 | Hawaii County, Hawaii | 12 | 1.0562 | 1.0562 | 99912
12020 | Honolulu County, Hawaii | 3320 | 1.1208 | 1.1208 | 26180
12040 | Kauai County, Hawaii | 12 | 1.0562 | 1.0562 | 99912
12050 | Maui County, Hawaii | 12 | 1.0562 | 1.0562 | 99912
13000 | Ada County, Idaho | 1080 | 0.9061 | 0.9061 | 14260
13010 | Adams County, Idaho | 13 | 0.9106 | 0.8045 | 99913
13020 | Bannock County, Idaho | 6340 | 0.9360 | 0.9360 | 38540
13030 | Bear Lake County, Idaho | 13 | 0.9106 | 0.8045 | 99913
13040 | Benewah County, Idaho | 13 | 0.9106 | 0.8045 | 99913
13050 | Bingham County, Idaho | 13 | 0.9106 | 0.8045 | 99913
13060 | Blaine County, Idaho | 13 | 0.9106 | 0.8045 | 99913
13070 | Boise County, Idaho | 13 | 0.9106 | 0.9061 | 14260
13080 | Bonner County, Idaho | 13 | 0.9106 | 0.8045 | 99913
13090 | Bonneville County, Idaho | 13 | 0.9106 | 0.9429 | 26820
13100 | Boundary County, Idaho | 13 | 0.9106 | 0.8045 | 99913
13110 | Butte County, Idaho | 13 | 0.9106 | 0.8045 | 99913
13120 | Camas County, Idaho | 13 | 0.9106 | 0.8045 | 99913
13130 | Canyon County, Idaho | 1080 | 0.9061 | 0.9061 | 14260
13140 | Caribou County, Idaho | 13 | 0.9106 | 0.8045 | 99913
13150 | Cassia County, Idaho | 13 | 0.9106 | 0.8045 | 99913
13160 | Clark County, Idaho | 13 | 0.9106 | 0.8045 | 99913
13170 | Clearwater County, Idaho | 13 | 0.9106 | 0.8045 | 99913
13180 | Custer County, Idaho | 13 | 0.9106 | 0.8045 | 99913
13190 | Elmore County, Idaho | 13 | 0.9106 | 0.8045 | 99913
13200 | Franklin County, Idaho | 13 | 0.9106 | 0.9173 | 30860
13210 | Fremont County, Idaho | 13 | 0.9106 | 0.8045 | 99913
13220 | Gem County, Idaho | 13 | 0.9106 | 0.9061 | 14260
13230 | Gooding County, Idaho | 13 | 0.9106 | 0.8045 | 99913
13240 | Idaho County, Idaho | 13 | 0.9106 | 0.8045 | 99913
13250 | Jefferson County, Idaho | 13 | 0.9106 | 0.9429 | 26820
13260 | Jerome County, Idaho | 13 | 0.9106 | 0.8045 | 99913
13270 | Kootenai County, Idaho | 13 | 0.9106 | 0.9657 | 17660
13280 | Latah County, Idaho | 13 | 0.9106 | 0.8045 | 99913
13290 | Lemhi County, Idaho | 13 | 0.9106 | 0.8045 | 99913
13300 | Lewis County, Idaho | 13 | 0.9106 | 0.8045 | 99913
13310 | Lincoln County, Idaho | 13 | 0.9106 | 0.8045 | 99913
13320 | Madison County, Idaho | 13 | 0.9106 | 0.8045 | 99913
13330 | Minidoka County, Idaho | 13 | 0.9106 | 0.8045 | 99913
13340 | Nez Perce County, Idaho | 13 | 0.9106 | 0.9896 | 30300
13350 | Oneida County, Idaho | 13 | 0.9106 | 0.8045 | 99913
13360 | Owyhee County, Idaho | 13 | 0.9106 | 0.9061 | 14260
13370 | Payette County, Idaho | 13 | 0.9106 | 0.8045 | 99913
13380 | Power County, Idaho | 13 | 0.9106 | 0.9360 | 38540
13390 | Shoshone County, Idaho | 13 | 0.9106 | 0.8045 | 99913
13400 | Teton County, Idaho | 13 | 0.9106 | 0.8045 | 99913
13410 | Twin Falls County, Idaho | 13 | 0.9106 | 0.8045 | 99913
13420 | Valley County, Idaho | 13 | 0.9106 | 0.8045 | 99913
13430 | Washington County, Idaho | 13 | 0.9106 | 0.8045 | 99913
14000 | Adams County, Illinois | 14 | 0.8309 | 0.8279 | 99914
14010 | Alexander County, Illinois | 14 | 0.8309 | 0.8279 | 99914
14020 | Bond County, Illinois | 14 | 0.8309 | 0.8949 | 41180
14030 | Boone County, Illinois | 6880 | 0.9994 | 0.9994 | 40420
14040 | Brown County, Illinois | 14 | 0.8309 | 0.8279 | 99914
14050 | Bureau County, Illinois | 14 | 0.8309 | 0.8279 | 99914
14060 | Calhoun County, Illinois | 14 | 0.8309 | 0.8949 | 41180
14070 | Carroll County, Illinois | 14 | 0.8309 | 0.8279 | 99914
14080 | Cass County, Illinois | 14 | 0.8309 | 0.8279 | 99914
14090 | Champaign County, Illinois | 1400 | 0.9604 | 0.9604 | 16580
14100 | Christian County, Illinois | 14 | 0.8309 | 0.8279 | 99914
14110 | Clark County, Illinois | 14 | 0.8309 | 0.8279 | 99914
14120 | Clay County, Illinois | 14 | 0.8309 | 0.8279 | 99914
14130 | Clinton County, Illinois | 7040 | 0.8957 | 0.8949 | 41180
14140 | Coles County, Illinois | 14 | 0.8309 | 0.8279 | 99914
14141 | Cook County, Illinois | 1600 | 1.0838 | 1.0848 | 16974
14150 | Crawford County, Illinois | 14 | 0.8309 | 0.8279 | 99914
14160 | Cumberland County, Illinois | 14 | 0.8309 | 0.8279 | 99914
14170 | De Kalb County, Illinois | 1600 | 1.0838 | 1.0848 | 16974
14180 | De Witt County, Illinois | 14 | 0.8309 | 0.8279 | 99914
14190 | Douglas County, Illinois | 14 | 0.8309 | 0.8279 | 99914
14250 | Du Page County, Illinois | 1600 | 1.0838 | 1.0848 | 16974
14310 | Edgar County, Illinois | 14 | 0.8309 | 0.8279 | 99914
14320 | Edwards County, Illinois | 14 | 0.8309 | 0.8279 | 99914
14330 | Effingham County, Illinois | 14 | 0.8309 | 0.8279 | 99914
14340 | Fayette County, Illinois | 14 | 0.8309 | 0.8279 | 99914
14350 | Ford County, Illinois | 14 | 0.8309 | 0.9604 | 16580
14360 | Franklin County, Illinois | 14 | 0.8309 | 0.8279 | 99914
14370 | Fulton County, Illinois | 14 | 0.8309 | 0.8279 | 99914
14380 | Gallatin County, Illinois | 14 | 0.8309 | 0.8279 | 99914
14390 | Greene County, Illinois | 14 | 0.8309 | 0.8279 | 99914
14400 | Grundy County, Illinois | 1600 | 1.0838 | 1.0848 | 16974
14410 | Hamilton County, Illinois | 14 | 0.8309 | 0.8279 | 99914
14420 | Hancock County, Illinois | 14 | 0.8309 | 0.8279 | 99914
14421 | Hardin County, Illinois | 14 | 0.8309 | 0.8279 | 99914
14440 | Henderson County, Illinois | 14 | 0.8309 | 0.8279 | 99914
14450 | Henry County, Illinois | 1960 | 0.8731 | 0.8731 | 19340
14460 | Iroquois County, Illinois | 14 | 0.8309 | 0.8279 | 99914
14470 | Jackson County, Illinois | 14 | 0.8309 | 0.8279 | 99914
14480 | Jasper County, Illinois | 14 | 0.8309 | 0.8279 | 99914
14490 | Jefferson County, Illinois | 14 | 0.8309 | 0.8279 | 99914
14500 | Jersey County, Illinois | 7040 | 0.8957 | 0.8949 | 41180
14510 | Jo Daviess County, Illinois | 14 | 0.8309 | 0.8279 | 99914
14520 | Johnson County, Illinois | 14 | 0.8309 | 0.8279 | 99914
14530 | Kane County, Illinois | 1600 | 1.0838 | 1.0848 | 16974
14540 | Kankakee County, Illinois | 3740 | 1.0974 | 1.0974 | 28100
14550 | Kendall County, Illinois | 1600 | 1.0838 | 1.0848 | 16974
14560 | Knox County, Illinois | 14 | 0.8309 | 0.8279 | 99914
14570 | Lake County, Illinois | 1600 | 1.0838 | 1.0440 | 29404
14580 | La Salle County, Illinois | 14 | 0.8309 | 0.8279 | 99914
14590 | Lawrence County, Illinois | 14 | 0.8309 | 0.8279 | 99914
14600 | Lee County, Illinois | 14 | 0.8309 | 0.8279 | 99914
14610 | Livingston County, Illinois | 14 | 0.8309 | 0.8279 | 99914
14620 | Logan County, Illinois | 14 | 0.8309 | 0.8279 | 99914
14630 | Mc Donough County, Illinois | 14 | 0.8309 | 0.8279 | 99914
14640 | Mc Henry County, Illinois | 1600 | 1.0838 | 1.0848 | 16974
14650 | Mclean County, Illinois | 1040 | 0.9084 | 0.9084 | 14060
14660 | Macon County, Illinois | 2040 | 0.8076 | 0.8076 | 19500
14670 | Macoupin County, Illinois | 14 | 0.8309 | 0.8949 | 41180
14680 | Madison County, Illinois | 7040 | 0.8957 | 0.8949 | 41180
14690 | Marion County, Illinois | 14 | 0.8309 | 0.8279 | 99914
14700 | Marshall County, Illinois | 14 | 0.8309 | 0.8868 | 37900
14710 | Mason County, Illinois | 14 | 0.8309 | 0.8279 | 99914
14720 | Massac County, Illinois | 14 | 0.8309 | 0.8279 | 99914
14730 | Menard County, Illinois | 7880 | 0.8885 | 0.8885 | 44100
14740 | Mercer County, Illinois | 14 | 0.8309 | 0.8731 | 19340
14750 | Monroe County, Illinois | 7040 | 0.8957 | 0.8949 | 41180
14760 | Montgomery County, Illinois | 14 | 0.8309 | 0.8279 | 99914
14770 | Morgan County, Illinois | 14 | 0.8309 | 0.8279 | 99914
14780 | Moultrie County, Illinois | 14 | 0.8309 | 0.8279 | 99914
14790 | Ogle County, Illinois | 6880 | 0.9994 | 0.8279 | 99914
14800 | Peoria County, Illinois | 6120 | 0.8868 | 0.8868 | 37900
14810 | Perry County, Illinois | 14 | 0.8309 | 0.8279 | 99914
14820 | Piatt County, Illinois | 14 | 0.8309 | 0.9604 | 16580
14830 | Pike County, Illinois | 14 | 0.8309 | 0.8279 | 99914
14831 | Pope County, Illinois | 14 | 0.8309 | 0.8279 | 99914
14850 | Pulaski County, Illinois | 14 | 0.8309 | 0.8279 | 99914
14860 | Putnam County, Illinois | 14 | 0.8309 | 0.8279 | 99914
14870 | Randolph County, Illinois | 14 | 0.8309 | 0.8279 | 99914
14880 | Richland County, Illinois | 14 | 0.8309 | 0.8279 | 99914
14890 | Rock Island County, Illinois | 1960 | 0.8731 | 0.8731 | 19340
14900 | St Clair County, Illinois | 7040 | 0.8957 | 0.8949 | 41180
14910 | Saline County, Illinois | 14 | 0.8309 | 0.8279 | 99914
14920 | Sangamon County, Illinois | 7880 | 0.8885 | 0.8885 | 44100
14921 | Schuyler County, Illinois | 14 | 0.8309 | 0.8279 | 99914
14940 | Scott County, Illinois | 14 | 0.8309 | 0.8279 | 99914
14950 | Shelby County, Illinois | 14 | 0.8309 | 0.8279 | 99914
14960 | Stark County, Illinois | 14 | 0.8309 | 0.8868 | 37900
14970 | Stephenson County, Illinois | 14 | 0.8309 | 0.8279 | 99914
14980 | Tazewell County, Illinois | 6120 | 0.8868 | 0.8868 | 37900
14981 | Union County, Illinois | 14 | 0.8309 | 0.8279 | 99914
14982 | Vermilion County, Illinois | 14 | 0.8309 | 0.9037 | 19180
14983 | Wabash County, Illinois | 14 | 0.8309 | 0.8279 | 99914
14984 | Warren County, Illinois | 14 | 0.8309 | 0.8279 | 99914
14985 | Washington County, Illinois | 14 | 0.8309 | 0.8279 | 99914
14986 | Wayne County, Illinois | 14 | 0.8309 | 0.8279 | 99914
14987 | White County, Illinois | 14 | 0.8309 | 0.8279 | 99914
14988 | Whiteside County, Illinois | 14 | 0.8309 | 0.8279 | 99914
14989 | Will County, Illinois | 1600 | 1.0838 | 1.0848 | 16974
14990 | Williamson County, Illinois | 14 | 0.8309 | 0.8279 | 99914
14991 | Winnebago County, Illinois | 6880 | 0.9994 | 0.9994 | 40420
14992 | Woodford County, Illinois | 6120 | 0.8868 | 0.8868 | 37900
15000 | Adams County, Indiana | 2760 | 0.9716 | 0.8630 | 99915
15010 | Allen County, Indiana | 2760 | 0.9716 | 0.9803 | 23060
15020 | Bartholomew County, Indiana | 15 | 0.8727 | 0.9598 | 18020
15030 | Benton County, Indiana | 15 | 0.8727 | 0.8745 | 29140
15040 | Blackford County, Indiana | 15 | 0.8727 | 0.8630 | 99915
15050 | Boone County, Indiana | 3480 | 0.9875 | 0.9930 | 26900
15060 | Brown County, Indiana | 15 | 0.8727 | 0.9930 | 26900
15070 | Carroll County, Indiana | 15 | 0.8727 | 0.8745 | 29140
15080 | Cass County, Indiana | 15 | 0.8727 | 0.8630 | 99915
15090 | Clark County, Indiana | 4520 | 0.9302 | 0.9261 | 31140
15100 | Clay County, Indiana | 8320 | 0.8345 | 0.8313 | 45460
15110 | Clinton County, Indiana | 3920 | 0.8745 | 0.8630 | 99915
15120 | Crawford County, Indiana | 15 | 0.8727 | 0.8630 | 99915
15130 | Daviess County, Indiana | 15 | 0.8727 | 0.8630 | 99915
15140 | Dearborn County, Indiana | 1640 | 0.9742 | 0.9623 | 17140
15150 | Decatur County, Indiana | 15 | 0.8727 | 0.8630 | 99915
15160 | De Kalb County, Indiana | 2760 | 0.9716 | 0.8630 | 99915
15170 | Delaware County, Indiana | 5280 | 0.8939 | 0.8939 | 34620
15180 | Dubois County, Indiana | 15 | 0.8727 | 0.8630 | 99915
15190 | Elkhart County, Indiana | 2330 | 0.9637 | 0.9637 | 21140
15200 | Fayette County, Indiana | 15 | 0.8727 | 0.8630 | 99915
15210 | Floyd County, Indiana | 4520 | 0.9302 | 0.9261 | 31140
15220 | Fountain County, Indiana | 15 | 0.8727 | 0.8630 | 99915
15230 | Franklin County, Indiana | 15 | 0.8727 | 0.9623 | 17140
15240 | Fulton County, Indiana | 15 | 0.8727 | 0.8630 | 99915
15250 | Gibson County, Indiana | 15 | 0.8727 | 0.8721 | 21780
15260 | Grant County, Indiana | 15 | 0.8727 | 0.8630 | 99915
15270 | Greene County, Indiana | 15 | 0.8727 | 0.8456 | 14020
15280 | Hamilton County, Indiana | 3480 | 0.9875 | 0.9930 | 26900
15290 | Hancock County, Indiana | 3480 | 0.9875 | 0.9930 | 26900
15300 | Harrison County, Indiana | 4520 | 0.9302 | 0.9261 | 31140
15310 | Hendricks County, Indiana | 3480 | 0.9875 | 0.9930 | 26900
15320 | Henry County, Indiana | 15 | 0.8727 | 0.8630 | 99915
15330 | Howard County, Indiana | 3850 | 0.9517 | 0.9517 | 29020
15340 | Huntington County, Indiana | 2760 | 0.9716 | 0.8630 | 99915
15350 | Jackson County, Indiana | 15 | 0.8727 | 0.8630 | 99915
15360 | Jasper County, Indiana | 15 | 0.8727 | 0.9369 | 23844
15370 | Jay County, Indiana | 15 | 0.8727 | 0.8630 | 99915
15380 | Jefferson County, Indiana | 15 | 0.8727 | 0.8630 | 99915
15390 | Jennings County, Indiana | 15 | 0.8727 | 0.8630 | 99915
15400 | Johnson County, Indiana | 3480 | 0.9875 | 0.9930 | 26900
15410 | Knox County, Indiana | 15 | 0.8727 | 0.8630 | 99915
15420 | Kosciusko County, Indiana | 15 | 0.8727 | 0.8630 | 99915
15430 | Lagrange County, Indiana | 15 | 0.8727 | 0.8630 | 99915
15440 | Lake County, Indiana | 2960 | 0.9404 | 0.9369 | 23844
15450 | La Porte County, Indiana | 15 | 0.8727 | 0.9409 | 33140
15460 | Lawrence County, Indiana | 15 | 0.8727 | 0.8630 | 99915
15470 | Madison County, Indiana | 3480 | 0.9875 | 0.8595 | 11300
15480 | Marion County, Indiana | 3480 | 0.9875 | 0.9930 | 26900
15490 | Marshall County, Indiana | 15 | 0.8727 | 0.8630 | 99915
15500 | Martin County, Indiana | 15 | 0.8727 | 0.8630 | 99915
15510 | Miami County, Indiana | 15 | 0.8727 | 0.8630 | 99915
15520 | Monroe County, Indiana | 1020 | 0.8456 | 0.8456 | 14020
15530 | Montgomery County, Indiana | 15 | 0.8727 | 0.8630 | 99915
15540 | Morgan County, Indiana | 3480 | 0.9875 | 0.9930 | 26900
15550 | Newton County, Indiana | 15 | 0.8727 | 0.9369 | 23844
15560 | Noble County, Indiana | 15 | 0.8727 | 0.8630 | 99915
15570 | Ohio County, Indiana | 1640 | 0.9742 | 0.9623 | 17140
15580 | Orange County, Indiana | 15 | 0.8727 | 0.8630 | 99915
15590 | Owen County, Indiana | 15 | 0.8727 | 0.8456 | 14020
15600 | Parke County, Indiana | 15 | 0.8727 | 0.8630 | 99915
15610 | Perry County, Indiana | 15 | 0.8727 | 0.8630 | 99915
15620 | Pike County, Indiana | 15 | 0.8727 | 0.8630 | 99915
15630 | Porter County, Indiana | 2960 | 0.9404 | 0.9369 | 23844
15640 | Posey County, Indiana | 2440 | 0.8721 | 0.8721 | 21780
15650 | Pulaski County, Indiana | 15 | 0.8727 | 0.8630 | 99915
15660 | Putnam County, Indiana | 15 | 0.8727 | 0.9930 | 26900
15670 | Randolph County, Indiana | 15 | 0.8727 | 0.8630 | 99915
15680 | Ripley County, Indiana | 15 | 0.8727 | 0.8630 | 99915
15690 | Rush County, Indiana | 15 | 0.8727 | 0.8630 | 99915
15700 | St Joseph County, Indiana | 7800 | 0.9798 | 0.9798 | 43780
15710 | Scott County, Indiana | 4520 | 0.9302 | 0.8630 | 99915
15720 | Shelby County, Indiana | 3480 | 0.9875 | 0.9930 | 26900
15730 | Spencer County, Indiana | 15 | 0.8727 | 0.8630 | 99915
15740 | Starke County, Indiana | 15 | 0.8727 | 0.8630 | 99915
15750 | Steuben County, Indiana | 15 | 0.8727 | 0.8630 | 99915
15760 | Sullivan County, Indiana | 15 | 0.8727 | 0.8313 | 45460
15770 | Switzerland County, Indiana | 15 | 0.8727 | 0.8630 | 99915
15780 | Tippecanoe County, Indiana | 3920 | 0.8745 | 0.8745 | 29140
15790 | Tipton County, Indiana | 3850 | 0.9517 | 0.9517 | 29020
15800 | Union County, Indiana | 15 | 0.8727 | 0.8630 | 99915
15810 | Vanderburgh County, Indiana | 2440 | 0.8721 | 0.8721 | 21780
15820 | Vermillion County, Indiana | 8320 | 0.8345 | 0.8313 | 45460
15830 | Vigo County, Indiana | 8320 | 0.8345 | 0.8313 | 45460
15840 | Wabash County, Indiana | 15 | 0.8727 | 0.8630 | 99915
15850 | Warren County, Indiana | 15 | 0.8727 | 0.8630 | 99915
15860 | Warrick County, Indiana | 2440 | 0.8721 | 0.8721 | 21780
15870 | Washington County, Indiana | 15 | 0.8727 | 0.9261 | 31140
15880 | Wayne County, Indiana | 15 | 0.8727 | 0.8630 | 99915
15890 | Wells County, Indiana | 2760 | 0.9716 | 0.9803 | 23060
15900 | White County, Indiana | 15 | 0.8727 | 0.8630 | 99915
15910 | Whitley County, Indiana | 2760 | 0.9716 | 0.9803 | 23060
16000 | Adair County, Iowa | 16 | 0.8588 | 0.8502 | 99916
16010 | Adams County, Iowa | 16 | 0.8588 | 0.8502 | 99916
16020 | Allamakee County, Iowa | 16 | 0.8588 | 0.8502 | 99916
16030 | Appanoose County, Iowa | 16 | 0.8588 | 0.8502 | 99916
16040 | Audubon County, Iowa | 16 | 0.8588 | 0.8502 | 99916
16050 | Benton County, Iowa | 16 | 0.8588 | 0.8617 | 16300
16060 | Black Hawk County, Iowa | 8920 | 0.8566 | 0.8566 | 47940
16070 | Boone County, Iowa | 16 | 0.8588 | 0.8502 | 99916
16080 | Bremer County, Iowa | 16 | 0.8588 | 0.8566 | 47940
16090 | Buchanan County, Iowa | 16 | 0.8588 | 0.8502 | 99916
16100 | Buena Vista County, Iowa | 16 | 0.8588 | 0.8502 | 99916
16110 | Butler County, Iowa | 16 | 0.8588 | 0.8502 | 99916
16120 | Calhoun County, Iowa | 16 | 0.8588 | 0.8502 | 99916
16130 | Carroll County, Iowa | 16 | 0.8588 | 0.8502 | 99916
16140 | Cass County, Iowa | 16 | 0.8588 | 0.8502 | 99916
16150 | Cedar County, Iowa | 16 | 0.8588 | 0.8502 | 99916
16160 | Cerro Gordo County, Iowa | 16 | 0.8588 | 0.8502 | 99916
16170 | Cherokee County, Iowa | 16 | 0.8588 | 0.8502 | 99916
16180 | Chickasaw County, Iowa | 16 | 0.8588 | 0.8502 | 99916
16190 | Clarke County, Iowa | 16 | 0.8588 | 0.8502 | 99916
16200 | Clay County, Iowa | 16 | 0.8588 | 0.8502 | 99916
16210 | Clayton County, Iowa | 16 | 0.8588 | 0.8502 | 99916
16220 | Clinton County, Iowa | 16 | 0.8588 | 0.8502 | 99916
16230 | Crawford County, Iowa | 16 | 0.8588 | 0.8502 | 99916
16240 | Dallas County, Iowa | 2120 | 0.9651 | 0.9651 | 19780
16250 | Davis County, Iowa | 16 | 0.8588 | 0.8502 | 99916
16260 | Decatur County, Iowa | 16 | 0.8588 | 0.8502 | 99916
16270 | Delaware County, Iowa | 16 | 0.8588 | 0.8502 | 99916
16280 | Des Moines County, Iowa | 16 | 0.8588 | 0.8502 | 99916
16290 | Dickinson County, Iowa | 16 | 0.8588 | 0.8502 | 99916
16300 | Dubuque County, Iowa | 2200 | 0.9135 | 0.9135 | 20220
16310 | Emmet County, Iowa | 16 | 0.8588 | 0.8502 | 99916
16320 | Fayette County, Iowa | 16 | 0.8588 | 0.8502 | 99916
16330 | Floyd County, Iowa | 16 | 0.8588 | 0.8502 | 99916
16340 | Franklin County, Iowa | 16 | 0.8588 | 0.8502 | 99916
16350 | Fremont County, Iowa | 16 | 0.8588 | 0.8502 | 99916
16360 | Greene County, Iowa | 16 | 0.8588 | 0.8502 | 99916
16370 | Grundy County, Iowa | 16 | 0.8588 | 0.8566 | 47940
16380 | Guthrie County, Iowa | 16 | 0.8588 | 0.9651 | 19780
16390 | Hamilton County, Iowa | 16 | 0.8588 | 0.8502 | 99916
16400 | Hancock County, Iowa | 16 | 0.8588 | 0.8502 | 99916
16410 | Hardin County, Iowa | 16 | 0.8588 | 0.8502 | 99916
16420 | Harrison County, Iowa | 16 | 0.8588 | 0.9569 | 36540
16430 | Henry County, Iowa | 16 | 0.8588 | 0.8502 | 99916
16440 | Howard County, Iowa | 16 | 0.8588 | 0.8502 | 99916
16450 | Humboldt County, Iowa | 16 | 0.8588 | 0.8502 | 99916
16460 | Ida County, Iowa | 16 | 0.8588 | 0.8502 | 99916
16470 | Iowa County, Iowa | 16 | 0.8588 | 0.8502 | 99916
16480 | Jackson County, Iowa | 16 | 0.8588 | 0.8502 | 99916
16490 | Jasper County, Iowa | 16 | 0.8588 | 0.8502 | 99916
16500 | Jefferson County, Iowa | 16 | 0.8588 | 0.8502 | 99916
16510 | Johnson County, Iowa | 3500 | 0.9756 | 0.9756 | 26980
16520 | Jones County, Iowa | 16 | 0.8588 | 0.8617 | 16300
16530 | Keokuk County, Iowa | 16 | 0.8588 | 0.8502 | 99916
16540 | Kossuth County, Iowa | 16 | 0.8588 | 0.8502 | 99916
16550 | Lee County, Iowa | 16 | 0.8588 | 0.8502 | 99916
16560 | Linn County, Iowa | 1360 | 0.8617 | 0.8617 | 16300
16570 | Louisa County, Iowa | 16 | 0.8588 | 0.8502 | 99916
16580 | Lucas County, Iowa | 16 | 0.8588 | 0.8502 | 99916
16590 | Lyon County, Iowa | 16 | 0.8588 | 0.8502 | 99916
16600 | Madison County, Iowa | 16 | 0.8588 | 0.9651 | 19780
16610 | Mahaska County, Iowa | 16 | 0.8588 | 0.8502 | 99916
16620 | Marion County, Iowa | 16 | 0.8588 | 0.8502 | 99916
16630 | Marshall County, Iowa | 16 | 0.8588 | 0.8502 | 99916
16640 | Mills County, Iowa | 16 | 0.8588 | 0.9569 | 36540
16650 | Mitchell County, Iowa | 16 | 0.8588 | 0.8502 | 99916
16660 | Monona County, Iowa | 16 | 0.8588 | 0.8502 | 99916
16670 | Monroe County, Iowa | 16 | 0.8588 | 0.8502 | 99916
16680 | Montgomery County, Iowa | 16 | 0.8588 | 0.8502 | 99916
16690 | Muscatine County, Iowa | 16 | 0.8588 | 0.8502 | 99916
16700 | O Brien County, Iowa | 16 | 0.8588 | 0.8502 | 99916
16710 | Osceola County, Iowa | 16 | 0.8588 | 0.8502 | 99916
16720 | Page County, Iowa | 16 | 0.8588 | 0.8502 | 99916
16730 | Palo Alto County, Iowa | 16 | 0.8588 | 0.8502 | 99916
16740 | Plymouth County, Iowa | 16 | 0.8588 | 0.8502 | 99916
16750 | Pocahontas County, Iowa | 16 | 0.8588 | 0.8502 | 99916
16760 | Polk County, Iowa | 2120 | 0.9651 | 0.9651 | 19780
16770 | Pottawattamie County, Iowa | 5920 | 0.9569 | 0.9569 | 36540
16780 | Poweshiek County, Iowa | 16 | 0.8588 | 0.8502 | 99916
16790 | Ringgold County, Iowa | 16 | 0.8588 | 0.8502 | 99916
16800 | Sac County, Iowa | 16 | 0.8588 | 0.8502 | 99916
16810 | Scott County, Iowa | 1960 | 0.8731 | 0.8731 | 19340
16820 | Shelby County, Iowa | 16 | 0.8588 | 0.8502 | 99916
16830 | Sioux County, Iowa | 16 | 0.8588 | 0.8502 | 99916
16840 | Story County, Iowa | 16 | 0.8588 | 0.9545 | 11180
16850 | Tama County, Iowa | 16 | 0.8588 | 0.8502 | 99916
16860 | Taylor County, Iowa | 16 | 0.8588 | 0.8502 | 99916
16870 | Union County, Iowa | 16 | 0.8588 | 0.8502 | 99916
16880 | Van Buren County, Iowa | 16 | 0.8588 | 0.8502 | 99916
16890 | Wapello County, Iowa | 16 | 0.8588 | 0.8502 | 99916
16900 | Warren County, Iowa | 2120 | 0.9651 | 0.9651 | 19780
16910 | Washington County, Iowa | 16 | 0.8588 | 0.9756 | 26980
16920 | Wayne County, Iowa | 16 | 0.8588 | 0.8502 | 99916
16930 | Webster County, Iowa | 16 | 0.8588 | 0.8502 | 99916
16940 | Winnebago County, Iowa | 16 | 0.8588 | 0.8502 | 99916
16950 | Winneshiek County, Iowa | 16 | 0.8588 | 0.8502 | 99916
16960 | Woodbury County, Iowa | 7720 | 0.9411 | 0.9376 | 43580
16970 | Worth County, Iowa | 16 | 0.8588 | 0.8502 | 99916
16980 | Wright County, Iowa | 16 | 0.8588 | 0.8502 | 99916
17000 | Allen County, Kansas | 17 | 0.7994 | 0.7987 | 99917
17010 | Anderson County, Kansas | 17 | 0.7994 | 0.7987 | 99917
17020 | Atchison County, Kansas | 17 | 0.7994 | 0.7987 | 99917
17030 | Barber County, Kansas | 17 | 0.7994 | 0.7987 | 99917
17040 | Barton County, Kansas | 17 | 0.7994 | 0.7987 | 99917
17050 | Bourbon County, Kansas | 17 | 0.7994 | 0.7987 | 99917
17060 | Brown County, Kansas | 17 | 0.7994 | 0.7987 | 99917
17070 | Butler County, Kansas | 9040 | 0.9163 | 0.9141 | 48620
17080 | Chase County, Kansas | 17 | 0.7994 | 0.7987 | 99917
17090 | Chautauqua County, Kansas | 17 | 0.7994 | 0.7987 | 99917
17100 | Cherokee County, Kansas | 17 | 0.7994 | 0.7987 | 99917
17110 | Cheyenne County, Kansas | 17 | 0.7994 | 0.7987 | 99917
17120 | Clark County, Kansas | 17 | 0.7994 | 0.7987 | 99917
17130 | Clay County, Kansas | 17 | 0.7994 | 0.7987 | 99917
17140 | Cloud County, Kansas | 17 | 0.7994 | 0.7987 | 99917
17150 | Coffey County, Kansas | 17 | 0.7994 | 0.7987 | 99917
17160 | Comanche County, Kansas | 17 | 0.7994 | 0.7987 | 99917
17170 | Cowley County, Kansas | 17 | 0.7994 | 0.7987 | 99917
17180 | Crawford County, Kansas | 17 | 0.7994 | 0.7987 | 99917
17190 | Decatur County, Kansas | 17 | 0.7994 | 0.7987 | 99917
17200 | Dickinson County, Kansas | 17 | 0.7994 | 0.7987 | 99917
17210 | Doniphan County, Kansas | 17 | 0.7994 | 0.9529 | 41140
17220 | Douglas County, Kansas | 4150 | 0.8546 | 0.8546 | 29940
17230 | Edwards County, Kansas | 17 | 0.7994 | 0.7987 | 99917
17240 | Elk County, Kansas | 17 | 0.7994 | 0.7987 | 99917
17250 | Ellis County, Kansas | 17 | 0.7994 | 0.7987 | 99917
17260 | Ellsworth County, Kansas | 17 | 0.7994 | 0.7987 | 99917
17270 | Finney County, Kansas | 17 | 0.7994 | 0.7987 | 99917
17280 | Ford County, Kansas | 17 | 0.7994 | 0.7987 | 99917
17290 | Franklin County, Kansas | 17 | 0.7994 | 0.9467 | 28140
17300 | Geary County, Kansas | 17 | 0.7994 | 0.7987 | 99917
17310 | Gove County, Kansas | 17 | 0.7994 | 0.7987 | 99917
17320 | Graham County, Kansas | 17 | 0.7994 | 0.7987 | 99917
17330 | Grant County, Kansas | 17 | 0.7994 | 0.7987 | 99917
17340 | Gray County, Kansas | 17 | 0.7994 | 0.7987 | 99917
17350 | Greeley County, Kansas | 17 | 0.7994 | 0.7987 | 99917
17360 | Greenwood County, Kansas | 17 | 0.7994 | 0.7987 | 99917
17370 | Hamilton County, Kansas | 17 | 0.7994 | 0.7987 | 99917
17380 | Harper County, Kansas | 17 | 0.7994 | 0.7987 | 99917
17390 | Harvey County, Kansas | 9040 | 0.9163 | 0.9141 | 48620
17391 | Haskell County, Kansas | 17 | 0.7994 | 0.7987 | 99917
17410 | Hodgeman County, Kansas | 17 | 0.7994 | 0.7987 | 99917
17420 | Jackson County, Kansas | 17 | 0.7994 | 0.8929 | 45820
17430 | Jefferson County, Kansas | 17 | 0.7994 | 0.8929 | 45820
17440 | Jewell County, Kansas | 17 | 0.7994 | 0.7987 | 99917
17450 | Johnson County, Kansas | 3760 | 0.9481 | 0.9467 | 28140
17451 | Kearny County, Kansas | 17 | 0.7994 | 0.7987 | 99917
17470 | Kingman County, Kansas | 17 | 0.7994 | 0.7987 | 99917
17480 | Kiowa County, Kansas | 17 | 0.7994 | 0.7987 | 99917
17490 | Labette County, Kansas | 17 | 0.7994 | 0.7987 | 99917
17500 | Lane County, Kansas | 17 | 0.7994 | 0.7987 | 99917
17510 | Leavenworth County, Kansas | 3760 | 0.9481 | 0.9467 | 28140
17520 | Lincoln County, Kansas | 17 | 0.7994 | 0.7987 | 99917
17530 | Linn County, Kansas | 17 | 0.7994 | 0.9467 | 28140
17540 | Logan County, Kansas | 17 | 0.7994 | 0.7987 | 99917
17550 | Lyon County, Kansas | 17 | 0.7994 | 0.7987 | 99917
17560 | Mc Pherson County, Kansas | 17 | 0.7994 | 0.7987 | 99917
17570 | Marion County, Kansas | 17 | 0.7994 | 0.7987 | 99917
17580 | Marshall County, Kansas | 17 | 0.7994 | 0.7987 | 99917
17590 | Meade County, Kansas | 17 | 0.7994 | 0.7987 | 99917
17600 | Miami County, Kansas | 3760 | 0.9481 | 0.9467 | 28140
17610 | Mitchell County, Kansas | 17 | 0.7994 | 0.7987 | 99917
17620 | Montgomery County, Kansas | 17 | 0.7994 | 0.7987 | 99917
17630 | Morris County, Kansas | 17 | 0.7994 | 0.7987 | 99917
17640 | Morton County, Kansas | 17 | 0.7994 | 0.7987 | 99917
17650 | Nemaha County, Kansas | 17 | 0.7994 | 0.7987 | 99917
17660 | Neosho County, Kansas | 17 | 0.7994 | 0.7987 | 99917
17670 | Ness County, Kansas | 17 | 0.7994 | 0.7987 | 99917
17680 | Norton County, Kansas | 17 | 0.7994 | 0.7987 | 99917
17690 | Osage County, Kansas | 17 | 0.7994 | 0.8929 | 45820
17700 | Osborne County, Kansas | 17 | 0.7994 | 0.7987 | 99917
17710 | Ottawa County, Kansas | 17 | 0.7994 | 0.7987 | 99917
17720 | Pawnee County, Kansas | 17 | 0.7994 | 0.7987 | 99917
17730 | Phillips County, Kansas | 17 | 0.7994 | 0.7987 | 99917
17740 | Pottawatomie County, Kansas | 17 | 0.7994 | 0.7987 | 99917
17750 | Pratt County, Kansas | 17 | 0.7994 | 0.7987 | 99917
17760 | Rawlins County, Kansas | 17 | 0.7994 | 0.7987 | 99917
17770 | Reno County, Kansas | 17 | 0.7994 | 0.7987 | 99917
17780 | Republic County, Kansas | 17 | 0.7994 | 0.7987 | 99917
17790 | Rice County, Kansas | 17 | 0.7994 | 0.7987 | 99917
17800 | Riley County, Kansas | 17 | 0.7994 | 0.7987 | 99917
17810 | Rooks County, Kansas | 17 | 0.7994 | 0.7987 | 99917
17820 | Rush County, Kansas | 17 | 0.7994 | 0.7987 | 99917
17830 | Russell County, Kansas | 17 | 0.7994 | 0.7987 | 99917
17840 | Saline County, Kansas | 17 | 0.7994 | 0.7987 | 99917
17841 | Scott County, Kansas | 17 | 0.7994 | 0.7987 | 99917
17860 | Sedgwick County, Kansas | 9040 | 0.9163 | 0.9141 | 48620
17870 | Seward County, Kansas | 17 | 0.7994 | 0.7987 | 99917
17880 | Shawnee County, Kansas | 8440 | 0.8929 | 0.8929 | 45820
17890 | Sheridan County, Kansas | 17 | 0.7994 | 0.7987 | 99917
17900 | Sherman County, Kansas | 17 | 0.7994 | 0.7987 | 99917
17910 | Smith County, Kansas | 17 | 0.7994 | 0.7987 | 99917
17920 | Stafford County, Kansas | 17 | 0.7994 | 0.7987 | 99917
17921 | Stanton County, Kansas | 17 | 0.7994 | 0.7987 | 99917
17940 | Stevens County, Kansas | 17 | 0.7994 | 0.7987 | 99917
17950 | Sumner County, Kansas | 17 | 0.7994 | 0.9141 | 48620
17960 | Thomas County, Kansas | 17 | 0.7994 | 0.7987 | 99917
17970 | Trego County, Kansas | 17 | 0.7994 | 0.7987 | 99917
17980 | Wabaunsee County, Kansas | 17 | 0.7994 | 0.8929 | 45820
17981 | Wallace County, Kansas | 17 | 0.7994 | 0.7987 | 99917
17982 | Washington County, Kansas | 17 | 0.7994 | 0.7987 | 99917
17983 | Wichita County, Kansas | 17 | 0.7994 | 0.7987 | 99917
17984 | Wilson County, Kansas | 17 | 0.7994 | 0.7987 | 99917
17985 | Woodson County, Kansas | 17 | 0.7994 | 0.7987 | 99917
17986 | Wyandotte County, Kansas | 3760 | 0.9481 | 0.9467 | 28140
18000 | Adair County, Kentucky | 18 | 0.7866 | 0.7774 | 99918
18010 | Allen County, Kentucky | 18 | 0.7866 | 0.7774 | 99918
18020 | Anderson County, Kentucky | 18 | 0.7866 | 0.7774 | 99918
18030 | Ballard County, Kentucky | 18 | 0.7866 | 0.7774 | 99918
18040 | Barren County, Kentucky | 18 | 0.7866 | 0.7774 | 99918
18050 | Bath County, Kentucky | 18 | 0.7866 | 0.7774 | 99918
18060 | Bell County, Kentucky | 18 | 0.7866 | 0.7774 | 99918
18070 | Boone County, Kentucky | 1640 | 0.9742 | 0.9623 | 17140
18080 | Bourbon County, Kentucky | 4280 | 0.8997 | 0.9084 | 30460
18090 | Boyd County, Kentucky | 3400 | 0.9486 | 0.9486 | 26580
18100 | Boyle County, Kentucky | 18 | 0.7866 | 0.7774 | 99918
18110 | Bracken County, Kentucky | 18 | 0.7866 | 0.9623 | 17140
18120 | Breathitt County, Kentucky | 18 | 0.7866 | 0.7774 | 99918
18130 | Breckinridge County, Kentucky | 18 | 0.7866 | 0.7774 | 99918
18140 | Bullitt County, Kentucky | 4520 | 0.9302 | 0.9261 | 31140
18150 | Butler County, Kentucky | 18 | 0.7866 | 0.7774 | 99918
18160 | Caldwell County, Kentucky | 18 | 0.7866 | 0.7774 | 99918
18170 | Calloway County, Kentucky | 18 | 0.7866 | 0.7774 | 99918
18180 | Campbell County, Kentucky | 1640 | 0.9742 | 0.9623 | 17140
18190 | Carlisle County, Kentucky | 18 | 0.7866 | 0.7774 | 99918
18191 | Carroll County, Kentucky | 18 | 0.7866 | 0.7774 | 99918
18210 | Carter County, Kentucky | 3400 | 0.9486 | 0.7774 | 99918
18220 | Casey County, Kentucky | 18 | 0.7866 | 0.7774 | 99918
18230 | Christian County, Kentucky | 1660 | 0.8292 | 0.8292 | 17300
18240 | Clark County, Kentucky | 4280 | 0.8997 | 0.9084 | 30460
18250 | Clay County, Kentucky | 18 | 0.7866 | 0.7774 | 99918
18260 | Clinton County, Kentucky | 18 | 0.7866 | 0.7774 | 99918
18270 | Crittenden County, Kentucky | 18 | 0.7866 | 0.7774 | 99918
18271 | Cumberland County, Kentucky | 18 | 0.7866 | 0.7774 | 99918
18290 | Daviess County, Kentucky | 5990 | 0.8789 | 0.8789 | 36980
18291 | Edmonson County, Kentucky | 18 | 0.7866 | 0.8220 | 14540
18310 | Elliott County, Kentucky | 18 | 0.7866 | 0.7774 | 99918
18320 | Estill County, Kentucky | 18 | 0.7866 | 0.7774 | 99918
18330 | Fayette County, Kentucky | 4280 | 0.8997 | 0.9084 | 30460
18340 | Fleming County, Kentucky | 18 | 0.7866 | 0.7774 | 99918
18350 | Floyd County, Kentucky | 18 | 0.7866 | 0.7774 | 99918
18360 | Franklin County, Kentucky | 18 | 0.7866 | 0.7774 | 99918
18361 | Fulton County, Kentucky | 18 | 0.7866 | 0.7774 | 99918
18362 | Gallatin County, Kentucky | 1640 | 0.9742 | 0.9623 | 17140
18390 | Garrard County, Kentucky | 18 | 0.7866 | 0.7774 | 99918
18400 | Grant County, Kentucky | 1640 | 0.9742 | 0.9623 | 17140
18410 | Graves County, Kentucky | 18 | 0.7866 | 0.7774 | 99918
18420 | Grayson County, Kentucky | 18 | 0.7866 | 0.7774 | 99918
18421 | Green County, Kentucky | 18 | 0.7866 | 0.7774 | 99918
18440 | Greenup County, Kentucky | 3400 | 0.9486 | 0.9486 | 26580
18450 | Hancock County, Kentucky | 18 | 0.7866 | 0.8789 | 36980
18460 | Hardin County, Kentucky | 18 | 0.7866 | 0.8810 | 21060
18470 | Harlan County, Kentucky | 18 | 0.7866 | 0.7774 | 99918
18480 | Harrison County, Kentucky | 18 | 0.7866 | 0.7774 | 99918
18490 | Hart County, Kentucky | 18 | 0.7866 | 0.7774 | 99918
18500 | Henderson County, Kentucky | 2440 | 0.8721 | 0.8721 | 21780
18510 | Henry County, Kentucky | 18 | 0.7866 | 0.9261 | 31140
18511 | Hickman County, Kentucky | 18 | 0.7866 | 0.7774 | 99918
18530 | Hopkins County, Kentucky | 18 | 0.7866 | 0.7774 | 99918
18540 | Jackson County, Kentucky | 18 | 0.7866 | 0.7774 | 99918
18550 | Jefferson County, Kentucky | 4520 | 0.9302 | 0.9261 | 31140
18560 | Jessamine County, Kentucky | 4280 | 0.8997 | 0.9084 | 30460
18570 | Johnson County, Kentucky | 18 | 0.7866 | 0.7774 | 99918
18580 | Kenton County, Kentucky | 1640 | 0.9742 | 0.9623 | 17140
18590 | Knott County, Kentucky | 18 | 0.7866 | 0.7774 | 99918
18600 | Knox County, Kentucky | 18 | 0.7866 | 0.7774 | 99918
18610 | Larue County, Kentucky | 18 | 0.7866 | 0.8810 | 21060
18620 | Laurel County, Kentucky | 18 | 0.7866 | 0.7774 | 99918
18630 | Lawrence County, Kentucky | 18 | 0.7866 | 0.7774 | 99918
18640 | Lee County, Kentucky | 18 | 0.7866 | 0.7774 | 99918
18650 | Leslie County, Kentucky | 18 | 0.7866 | 0.7774 | 99918
18660 | Letcher County, Kentucky | 18 | 0.7866 | 0.7774 | 99918
18670 | Lewis County, Kentucky | 18 | 0.7866 | 0.7774 | 99918
18680 | Lincoln County, Kentucky | 18 | 0.7866 | 0.7774 | 99918
18690 | Livingston County, Kentucky | 18 | 0.7866 | 0.7774 | 99918
18700 | Logan County, Kentucky | 18 | 0.7866 | 0.7774 | 99918
18710 | Lyon County, Kentucky | 18 | 0.7866 | 0.7774 | 99918
18720 | McCracken County, Kentucky | 18 | 0.7866 | 0.7774 | 99918
18730 | McCreary County, Kentucky | 18 | 0.7866 | 0.7774 | 99918
18740 | McLean County, Kentucky | 18 | 0.7866 | 0.8789 | 36980
18750 | Madison County, Kentucky | 4280 | 0.8997 | 0.7774 | 99918
18760 | Magoffin County, Kentucky | 18 | 0.7866 | 0.7774 | 99918
18770 | Marion County, Kentucky | 18 | 0.7866 | 0.7774 | 99918
18780 | Marshall County, Kentucky | 18 | 0.7866 | 0.7774 | 99918
18790 | Martin County, Kentucky | 18 | 0.7866 | 0.7774 | 99918
18800 | Mason County, Kentucky | 18 | 0.7866 | 0.7774 | 99918
18801 | Meade County, Kentucky | 18 | 0.7866 | 0.9261 | 31140
18802 | Menifee County, Kentucky | 18 | 0.7866 | 0.7774 | 99918
18830 | Mercer County, Kentucky | 18 | 0.7866 | 0.7774 | 99918
18831 | Metcalfe County, Kentucky | 18 | 0.7866 | 0.7774 | 99918
18850 | Monroe County, Kentucky | 18 | 0.7866 | 0.7774 | 99918
18860 | Montgomery County, Kentucky | 18 | 0.7866 | 0.7774 | 99918
18861 | Morgan County, Kentucky | 18 | 0.7866 | 0.7774 | 99918
18880 | Muhlenberg County, Kentucky | 18 | 0.7866 | 0.7774 | 99918
18890 | Nelson County, Kentucky | 18 | 0.7866 | 0.9261 | 31140
18900 | Nicholas County, Kentucky | 18 | 0.7866 | 0.7774 | 99918
18910 | Ohio County, Kentucky | 18 | 0.7866 | 0.7774 | 99918
18920 | Oldham County, Kentucky | 4520 | 0.9302 | 0.9261 | 31140
18930 | Owen County, Kentucky | 18 | 0.7866 | 0.7774 | 99918
18931 | Owsley County, Kentucky | 18 | 0.7866 | 0.7774 | 99918
18932 | Pendleton County, Kentucky | 1640 | 0.9742 | 0.9623 | 17140
18960 | Perry County, Kentucky | 18 | 0.7866 | 0.7774 | 99918
18970 | Pike County, Kentucky | 18 | 0.7866 | 0.7774 | 99918
18971 | Powell County, Kentucky | 18 | 0.7866 | 0.7774 | 99918
18972 | Pulaski County, Kentucky | 18 | 0.7866 | 0.7774 | 99918
18973 | Robertson County, Kentucky | 18 | 0.7866 | 0.7774 | 99918
18974 | Rockcastle County, Kentucky | 18 | 0.7866 | 0.7774 | 99918
18975 | Rowan County, Kentucky | 18 | 0.7866 | 0.7774 | 99918
18976 | Russell County, Kentucky | 18 | 0.7866 | 0.7774 | 99918
18977 | Scott County, Kentucky | 4280 | 0.8997 | 0.9084 | 30460
18978 | Shelby County, Kentucky | 18 | 0.7866 | 0.9261 | 31140
18979 | Simpson County, Kentucky | 18 | 0.7866 | 0.7774 | 99918
18980 | Spencer County, Kentucky | 18 | 0.7866 | 0.9261 | 31140
18981 | Taylor County, Kentucky | 18 | 0.7866 | 0.7774 | 99918
18982 | Todd County, Kentucky | 18 | 0.7866 | 0.7774 | 99918
18983 | Trigg County, Kentucky | 18 | 0.7866 | 0.8292 | 17300
18984 | Trimble County, Kentucky | 18 | 0.7866 | 0.9261 | 31140
18985 | Union County, Kentucky | 18 | 0.7866 | 0.7774 | 99918
18986 | Warren County, Kentucky | 18 | 0.7866 | 0.8220 | 14540
18987 | Washington County, Kentucky | 18 | 0.7866 | 0.7774 | 99918
18988 | Wayne County, Kentucky | 18 | 0.7866 | 0.7774 | 99918
18989 | Webster County, Kentucky | 18 | 0.7866 | 0.8721 | 21780
18990 | Whitley County, Kentucky | 18 | 0.7866 | 0.7774 | 99918
18991 | Wolfe County, Kentucky | 18 | 0.7866 | 0.7774 | 99918
18992 | Woodford County, Kentucky | 4280 | 0.8997 | 0.9084 | 30460
19000 | Acadia County, Louisiana | 3880 | 0.8260 | 0.7418 | 99919
19010 | Allen County, Louisiana | 19 | 0.7348 | 0.7418 | 99919
19020 | Ascension County, Louisiana | 0760 | 0.8652 | 0.8601 | 12940
19030 | Assumption County, Louisiana | 19 | 0.7348 | 0.7418 | 99919
19040 | Avoyelles County, Louisiana | 19 | 0.7348 | 0.7418 | 99919
19050 | Beauregard County, Louisiana | 19 | 0.7348 | 0.7418 | 99919
19060 | Bienville County, Louisiana | 19 | 0.7348 | 0.7418 | 99919
19070 | Bossier County, Louisiana | 7680 | 0.8746 | 0.8769 | 43340
19080 | Caddo County, Louisiana | 7680 | 0.8746 | 0.8769 | 43340
19090 | Calcasieu County, Louisiana | 3960 | 0.7866 | 0.7841 | 29340
19100 | Caldwell County, Louisiana | 19 | 0.7348 | 0.7418 | 99919
19110 | Cameron County, Louisiana | 19 | 0.7348 | 0.7841 | 29340
19120 | Catahoula County, Louisiana | 19 | 0.7348 | 0.7418 | 99919
19130 | Claiborne County, Louisiana | 19 | 0.7348 | 0.7418 | 99919
19140 | Concordia County, Louisiana | 19 | 0.7348 | 0.7418 | 99919
19150 | De Soto County, Louisiana | 19 | 0.7348 | 0.8769 | 43340
19160 | East Baton Rouge County, Louisiana | 0760 | 0.8652 | 0.8601 | 12940
19170 | East Carroll County, Louisiana | 19 | 0.7348 | 0.7418 | 99919
19180 | East Feliciana County, Louisiana | 19 | 0.7348 | 0.8601 | 12940
19190 | Evangeline County, Louisiana | 19 | 0.7348 | 0.7418 | 99919
19200 | Franklin County, Louisiana | 19 | 0.7348 | 0.7418 | 99919
19210 | Grant County, Louisiana | 19 | 0.7348 | 0.8041 | 10780
19220 | Iberia County, Louisiana | 19 | 0.7348 | 0.7418 | 99919
19230 | Iberville County, Louisiana | 19 | 0.7348 | 0.8601 | 12940
19240 | Jackson County, Louisiana | 19 | 0.7348 | 0.7418 | 99919
19250 | Jefferson County, Louisiana | 5560 | 0.9005 | 0.9005 | 35380
19260 | Jefferson Davis County, Louisiana | 19 | 0.7348 | 0.7418 | 99919
19270 | Lafayette County, Louisiana | 3880 | 0.8260 | 0.8436 | 29180
19280 | Lafourche County, Louisiana | 3350 | 0.7902 | 0.7902 | 26380
19290 | La Salle County, Louisiana | 19 | 0.7348 | 0.7418 | 99919
19300 | Lincoln County, Louisiana | 19 | 0.7348 | 0.7418 | 99919
19310 | Livingston County, Louisiana | 0760 | 0.8652 | 0.8601 | 12940
19320 | Madison County, Louisiana | 19 | 0.7348 | 0.7418 | 99919
19330 | Morehouse County, Louisiana | 19 | 0.7348 | 0.7418 | 99919
19340 | Natchitoches County, Louisiana | 19 | 0.7348 | 0.7418 | 99919
19350 | Orleans County, Louisiana | 5560 | 0.9005 | 0.9005 | 35380
19360 | Ouachita County, Louisiana | 5200 | 0.8052 | 0.8040 | 33740
19370 | Plaquemines County, Louisiana | 5560 | 0.9005 | 0.9005 | 35380
19380 | Pointe Coupee County, Louisiana | 19 | 0.7348 | 0.8601 | 12940
19390 | Rapides County, Louisiana | 0220 | 0.8041 | 0.8041 | 10780
19400 | Red River County, Louisiana | 19 | 0.7348 | 0.7418 | 99919
19410 | Richland County, Louisiana | 19 | 0.7348 | 0.7418 | 99919
19420 | Sabine County, Louisiana | 19 | 0.7348 | 0.7418 | 99919
19430 | St Bernard County, Louisiana | 5560 | 0.9005 | 0.9005 | 35380
19440 | St Charles County, Louisiana | 5560 | 0.9005 | 0.9005 | 35380
19450 | St Helena County, Louisiana | 19 | 0.7348 | 0.8601 | 12940
19460 | St James County, Louisiana | 5560 | 0.9005 | 0.7418 | 99919
19470 | St John Baptist County, Louisiana | 5560 | 0.9005 | 0.9005 | 35380
19480 | St Landry County, Louisiana | 3880 | 0.8260 | 0.7418 | 99919
19490 | St Martin County, Louisiana | 3880 | 0.8260 | 0.8436 | 29180
19500 | St Mary County, Louisiana | 19 | 0.7348 | 0.418 | 99919
19510 | St Tammany County, Louisiana | 5560 | 0.9005 | 0.9005 | 35380
19520 | Tangipahoa County, Louisiana | 19 | 0.7348 | 0.7418 | 99919
19530 | Tensas County, Louisiana | 19 | 0.7348 | 0.7418 | 99919
19540 | Terrebonne County, Louisiana | 3350 | 0.7902 | 0.7902 | 26380
19550 | Union County, Louisiana | 19 | 0.7348 | 0.8040 | 33740
19560 | Vermilion County, Louisiana | 19 | 0.7348 | 0.7418 | 99919
19570 | Vernon County, Louisiana | 19 | 0.7348 | 0.7418 | 99919
19580 | Washington County, Louisiana | 19 | 0.7348 | 0.7418 | 99919
19590 | Webster County, Louisiana | 7680 | 0.8746 | 0.7418 | 99919
19600 | West Baton Rouge County, Louisiana | 0760 | 0.8652 | 0.8601 | 12940
19610 | West Carroll County, Louisiana | 19 | 0.7348 | 0.7418 | 99919
19620 | West Feliciana County, Louisiana | 19 | 0.7348 | 0.8601 | 12940
19630 | Winn County, Louisiana | 19 | 0.7348 | 0.7418 | 99919
20000 | Androscoggin County, Maine | 4243 | 0.9341 | 0.9341 | 30340
20010 | Aroostook County, Maine | 20 | 0.8852 | 0.8852 | 99920
20020 | Cumberland County, Maine | 6403 | 1.0392 | 1.0392 | 38860
20030 | Franklin County, Maine | 20 | 0.8852 | 0.8852 | 99920
20040 | Hancock County, Maine | 20 | 0.8852 | 0.8852 | 99920
20050 | Kennebec County, Maine | 20 | 0.8852 | 0.8852 | 99920
20060 | Knox County, Maine | 20 | 0.8852 | 0.8852 | 99920
20070 | Lincoln County, Maine | 20 | 0.8852 | 0.8852 | 99920
20080 | Oxford County, Maine | 20 | 0.8852 | 0.8852 | 99920
20090 | Penobscot County, Maine | 0733 | 1.0003 | 1.0003 | 12620
20100 | Piscataquis County, Maine | 20 | 0.8852 | 0.8852 | 99920
20110 | Sagadahoc County, Maine | 6403 | 1.0392 | 1.0392 | 38860
20120 | Somerset County, Maine | 20 | 0.8852 | 0.8852 | 99920
20130 | Waldo County, Maine | 20 | 0.8852 | 0.8852 | 99920
20140 | Washington County, Maine | 20 | 0.8852 | 0.8852 | 99920
20150 | York County, Maine | 6403 | 1.0392 | 1.0392 | 38860
21000 | Allegany County, Maryland | 1900 | 0.9326 | 0.9326 | 19060
21010 | Anne Arundel County, Maryland | 0720 | 0.9907 | 0.9907 | 12580
21020 | Baltimore County, Maryland | 0720 | 0.9907 | 0.9907 | 12580
21030 | Baltimore City County, Maryland | 0720 | 0.9907 | 0.9907 | 12580
21040 | Calvert County, Maryland | 8840 | 1.0983 | 1.0932 | 47894
21050 | Caroline County, Maryland | 21 | 0.9085 | 0.9095 | 99921
21060 | Carroll County, Maryland | 0720 | 0.9907 | 0.9907 | 12580
21070 | Cecil County, Maryland | 9160 | 1.0537 | 1.0482 | 48864
21080 | Charles County, Maryland | 8840 | 1.0983 | 1.0932 | 47894
21090 | Dorchester County, Maryland | 21 | 0.9085 | 0.9095 | 99921
21100 | Frederick County, Maryland | 8840 | 1.0983 | 1.1495 | 13644
21110 | Garrett County, Maryland | 21 | 0.9085 | 0.9095 | 99921
21120 | Harford County, Maryland | 0720 | 0.9907 | 0.9907 | 12580
21130 | Howard County, Maryland | 0720 | 0.9907 | 0.9907 | 12580
21140 | Kent County, Maryland | 21 | 0.9085 | 0.9095 | 99921
21150 | Montgomery County, Maryland | 8840 | 1.0983 | 1.1495 | 13644
21160 | Prince Georges County, Maryland | 8840 | 1.0983 | 1.0932 | 47894
21170 | Queen Annes County, Maryland | 0720 | 0.9907 | 0.9907 | 12580
21180 | St Marys County, Maryland | 21 | 0.9085 | 0.9095 | 99921
21190 | Somerset County, Maryland | 21 | 0.9085 | 0.9073 | 41540
21200 | Talbot County, Maryland | 21 | 0.9085 | 0.9095 | 99921
21210 | Washington County, Maryland | 3180 | 0.9879 | 0.9499 | 25180
21220 | Wicomico County, Maryland | 21 | 0.9085 | 0.9073 | 41540
21230 | Worcester County, Maryland | 21 | 0.9085 | 0.9095 | 99921
22000 | Barnstable County, Massachusetts | 0743 | 1.2527 | 1.2527 | 12700
22010 | Berkshire County, Massachusetts | 6323 | 1.0191 | 1.0191 | 38340
22020 | Bristol County, Massachusetts | 1123 | 1.1152 | 1.0966 | 39300
22030 | Dukes County, Massachusetts | 22 | 1.0050 | 1.0216 | 99922
22040 | Essex County, Massachusetts | 1123 | 1.1152 | 1.0533 | 21604
22060 | Franklin County, Massachusetts | 22 | 1.0050 | 1.0259 | 44140
22070 | Hampden County, Massachusetts | 8003 | 1.0273 | 1.0259 | 44140
22080 | Hampshire County, Massachusetts | 8003 | 1.0273 | 1.0259 | 44140
22090 | Middlesex County, Massachusetts | 1123 | 1.1152 | 1.1084 | 15764
22120 | Nantucket County, Massachusetts | 22 | 1.0050 | 1.0216 | 99922
22130 | Norfolk County, Massachusetts | 1123 | 1.1152 | 1.1543 | 14484
22150 | Plymouth County, Massachusetts | 1123 | 1.1152 | 1.1543 | 14484
22160 | Suffolk County, Massachusetts | 1123 | 1.1152 | 1.1543 | 14484
22170 | Worcester County, Massachusetts | 1123 | 1.1152 | 1.1039 | 49340
23000 | Alcona County, Michigan | 23 | 0.8813 | 0.8870 | 99923
23010 | Alger County, Michigan | 23 | 0.8813 | 0.8870 | 99923
23020 | Allegan County, Michigan | 3000 | 0.9455 | 0.8870 | 99923
23030 | Alpena County, Michigan | 23 | 0.8813 | 0.8870 | 99923
23040 | Antrim County, Michigan | 23 | 0.8813 | 0.8870 | 99923
23050 | Arenac County, Michigan | 23 | 0.8813 | 0.8870 | 99923
23060 | Baraga County, Michigan | 23 | 0.8813 | 0.8870 | 99923
23070 | Barry County, Michigan | 23 | 0.8813 | 0.9400 | 24340
23080 | Bay County, Michigan | 6960 | 0.9415 | 0.9352 | 13020
23090 | Benzie County, Michigan | 23 | 0.8813 | 0.8870 | 99923
23100 | Berrien County, Michigan | 0870 | 0.8888 | 0.8888 | 35660
23110 | Branch County, Michigan | 23 | 0.8813 | 0.8870 | 99923
23120 | Calhoun County, Michigan | 3720 | 1.0151 | 0.9510 | 12980
23130 | Cass County, Michigan | 23 | 0.8813 | 0.9798 | 43780
23140 | Charlevoix County, Michigan | 23 | 0.8813 | 0.8870 | 99923
23150 | Cheboygan County, Michigan | 23 | 0.8813 | 0.8870 | 99923
23160 | Chippewa County, Michigan | 23 | 0.8813 | 0.8870 | 99923
23170 | Clare County, Michigan | 23 | 0.8813 | 0.8870 | 99923
23180 | Clinton County, Michigan | 4040 | 0.9792 | 0.9792 | 29620
23190 | Crawford County, Michigan | 23 | 0.8813 | 0.8870 | 99923
23200 | Delta County, Michigan | 23 | 0.8813 | 0.8870 | 99923
23210 | Dickinson County, Michigan | 23 | 0.8813 | 0.8870 | 99923
23220 | Eaton County, Michigan | 4040 | 0.9792 | 0.9792 | 29620
23230 | Emmet County, Michigan | 23 | 0.8813 | 0.8870 | 99923
23240 | Genesee County, Michigan | 2640 | 1.0663 | 1.0663 | 22420
23250 | Gladwin County, Michigan | 23 | 0.8813 | 0.8870 | 99923
23260 | Gogebic County, Michigan | 23 | 0.8813 | 0.8870 | 99923
23270 | Grand Traverse County, Michigan | 23 | 0.8813 | 0.8870 | 99923
23280 | Gratiot County, Michigan | 23 | 0.8813 | 0.8870 | 99923
23290 | Hillsdale County, Michigan | 23 | 0.8813 | 0.8870 | 99923
23300 | Houghton County, Michigan | 23 | 0.8813 | 0.8870 | 99923
23310 | Huron County, Michigan | 23 | 0.8813 | 0.8870 | 99923
23320 | Ingham County, Michigan | 4040 | 0.9792 | 0.9792 | 29620
23330 | Ionia County, Michigan | 23 | 0.8813 | 0.9400 | 24340
23340 | Iosco County, Michigan | 23 | 0.8813 | 0.8870 | 99923
23350 | Iron County, Michigan | 23 | 0.8813 | 0.8870 | 99923
23360 | Isabella County, Michigan | 23 | 0.8813 | 0.8870 | 99923
23370 | Jackson County, Michigan | 3520 | 0.9313 | 0.9313 | 27100
23380 | Kalamazoo County, Michigan | 3720 | 1.0151 | 1.0391 | 28020
23390 | Kalkaska County, Michigan | 23 | 0.8813 | 0.8870 | 99923
23400 | Kent County, Michigan | 3000 | 0.9455 | 0.9400 | 24340
23410 | Keweenaw County, Michigan | 23 | 0.8813 | 0.8870 | 99923
23420 | Lake County, Michigan | 23 | 0.8813 | 0.8870 | 99923
23430 | Lapeer County, Michigan | 2160 | 1.0152 | 0.9861 | 47644
23440 | Leelanau County, Michigan | 23 | 0.8813 | 0.8870 | 99923
23450 | Lenawee County, Michigan | 0440 | 1.0718 | 0.8870 | 99923
23460 | Livingston County, Michigan | 0440 | 1.0718 | 0.9861 | 47644
23470 | Luce County, Michigan | 23 | 0.8813 | 0.8870 | 99923
23480 | Mackinac County, Michigan | 23 | 0.8813 | 0.8870 | 99923
23490 | Macomb County, Michigan | 2160 | 1.0152 | 0.9861 | 47644
23500 | Manistee County, Michigan | 23 | 0.8813 | 0.8870 | 99923
23510 | Marquette County, Michigan | 23 | 0.8813 | 0.8870 | 99923
23520 | Mason County, Michigan | 23 | 0.8813 | 0.8870 | 99923
23530 | Mecosta County, Michigan | 23 | 0.8813 | 0.8870 | 99923
23540 | Menominee County, Michigan | 23 | 0.8813 | 0.8870 | 99923
23550 | Midland County, Michigan | 6960 | 0.9415 | 0.8870 | 99923
23560 | Missaukee County, Michigan | 23 | 0.8813 | 0.8870 | 99923
23570 | Monroe County, Michigan | 2160 | 1.0152 | 0.9478 | 33780
23580 | Montcalm County, Michigan | 23 | 0.8813 | 0.8870 | 99923
23590 | Montmorency County, Michigan | 23 | 0.8813 | 0.8870 | 99923
23600 | Muskegon County, Michigan | 3000 | 0.9455 | 0.9673 | 34740
23610 | Newaygo County, Michigan | 23 | 0.8813 | 0.9400 | 24340
23620 | Oakland County, Michigan | 2160 | 1.0152 | 0.9861 | 47644
23630 | Oceana County, Michigan | 23 | 0.8813 | 0.8870 | 99923
23640 | Ogemaw County, Michigan | 23 | 0.8813 | 0.8870 | 99923
23650 | Ontonagon County, Michigan | 23 | 0.8813 | 0.8870 | 99923
23660 | Osceola County, Michigan | 23 | 0.8813 | 0.8870 | 99923
23670 | Oscoda County, Michigan | 23 | 0.8813 | 0.8870 | 99923
23680 | Otsego County, Michigan | 23 | 0.8813 | 0.8870 | 99923
23690 | Ottawa County, Michigan | 3000 | 0.9455 | 0.9064 | 26100
23700 | Presque Isle County, Michigan | 23 | 0.8813 | 0.8870 | 99923
23710 | Roscommon County, Michigan | 23 | 0.8813 | 0.8870 | 99923
23720 | Saginaw County, Michigan | 6960 | 0.9415 | 0.9420 | 40980
23730 | St Clair County, Michigan | 2160 | 1.0152 | 0.9861 | 47644
23740 | St Joseph County, Michigan | 23 | 0.8813 | 0.8870 | 99923
23750 | Sanilac County, Michigan | 23 | 0.8813 | 0.8870 | 99923
23760 | Schoolcraft County, Michigan | 23 | 0.8813 | 0.8870 | 99923
23770 | Shiawassee County, Michigan | 23 | 0.8813 | 0.8870 | 99923
23780 | Tuscola County, Michigan | 23 | 0.8813 | 0.8870 | 99923
23790 | Van Buren County, Michigan | 3720 | 1.0151 | 1.0391 | 28020
23800 | Washtenaw County, Michigan | 0440 | 1.0718 | 1.0870 | 11460
23810 | Wayne County, Michigan | 2160 | 1.0152 | 1.0441 | 19804
23830 | Wexford County, Michigan | 23 | 0.8813 | 0.8870 | 99923
24000 | Aitkin County, Minnesota | 24 | 0.9193 | 0.9183 | 99924
24010 | Anoka County, Minnesota | 5120 | 1.1078 | 1.1078 | 33460
24020 | Becker County, Minnesota | 24 | 0.9193 | 0.9183 | 99924
24030 | Beltrami County, Minnesota | 24 | 0.9193 | 0.9183 | 99924
24040 | Benton County, Minnesota | 6980 | 0.9975 | 0.9975 | 41060
24050 | Big Stone County, Minnesota | 24 | 0.9193 | 0.9183 | 99924
24060 | Blue Earth County, Minnesota | 24 | 0.9193 | 0.9183 | 99924
24070 | Brown County, Minnesota | 24 | 0.9193 | 0.9183 | 99924
24080 | Carlton County, Minnesota | 24 | 0.9193 | 1.0209 | 20260
24090 | Carver County, Minnesota | 5120 | 1.1078 | 1.1078 | 33460
24100 | Cass County, Minnesota | 24 | 0.9193 | 0.9183 | 99924
24110 | Chippewa County, Minnesota | 24 | 0.9193 | 0.9183 | 99924
24120 | Chisago County, Minnesota | 5120 | 1.1078 | 1.1078 | 33460
24130 | Clay County, Minnesota | 2520 | 0.8495 | 0.8495 | 22020
24140 | Clearwater County, Minnesota | 24 | 0.9193 | 0.9183 | 99924
24150 | Cook County, Minnesota | 24 | 0.9193 | 0.9183 | 99924
24160 | Cottonwood County, Minnesota | 24 | 0.9193 | 0.9183 | 99924
24170 | Crow Wing County, Minnesota | 24 | 0.9193 | 0.9183 | 99924
24180 | Dakota County, Minnesota | 5120 | 1.1078 | 1.1078 | 33460
24190 | Dodge County, Minnesota | 24 | 0.9193 | 1.1142 | 40340
24200 | Douglas County, Minnesota | 24 | 0.9193 | 0.9183 | 99924
24210 | Faribault County, Minnesota | 24 | 0.9193 | 0.9183 | 99924
24220 | Fillmore County, Minnesota | 24 | 0.9193 | 0.9183 | 99924
24230 | Freeborn County, Minnesota | 24 | 0.9193 | 0.9183 | 99924
24240 | Goodhue County, Minnesota | 24 | 0.9193 | 0.9183 | 99924
24250 | Grant County, Minnesota | 24 | 0.9193 | 0.9183 | 99924
24260 | Hennepin County, Minnesota | 5120 | 1.1078 | 1.1078 | 33460
24270 | Houston County, Minnesota | 3870 | 0.9573 | 0.9573 | 29100
24280 | Hubbard County, Minnesota | 24 | 0.9193 | 0.9183 | 99924
24290 | Isanti County, Minnesota | 5120 | 1.1078 | 1.1078 | 33460
24300 | Itasca County, Minnesota | 24 | 0.9193 | 0.9183 | 99924
24310 | Jackson County, Minnesota | 24 | 0.9193 | 0.9183 | 99924
24320 | Kanabec County, Minnesota | 24 | 0.9193 | 0.9183 | 99924
24330 | Kandiyohi County, Minnesota | 24 | 0.9193 | 0.9183 | 99924
24340 | Kittson County, Minnesota | 24 | 0.9193 | 0.9183 | 99924
24350 | Koochiching County, Minnesota | 24 | 0.9193 | 0.9183 | 99924
24360 | Lac Qui Parle County, Minnesota | 24 | 0.9193 | 0.9183 | 99924
24370 | Lake County, Minnesota | 24 | 0.9193 | 0.9183 | 99924
24380 | Lake Of Woods County, Minnesota | 24 | 0.9193 | 0.9183 | 99924
24390 | Le Sueur County, Minnesota | 24 | 0.9193 | 0.9183 | 99924
24400 | Lincoln County, Minnesota | 24 | 0.9193 | 0.9183 | 99924
24410 | Lyon County, Minnesota | 24 | 0.9193 | 0.9183 | 99924
24420 | Mc Leod County, Minnesota | 24 | 0.9193 | 0.9183 | 99924
24430 | Mahnomen County, Minnesota | 24 | 0.9193 | 0.9183 | 99924
24440 | Marshall County, Minnesota | 24 | 0.9193 | 0.9183 | 99924
24450 | Martin County, Minnesota | 24 | 0.9193 | 0.9183 | 99924
24460 | Meeker County, Minnesota | 24 | 0.9193 | 0.9183 | 99924
24470 | Mille Lacs County, Minnesota | 24 | 0.9193 | 0.9183 | 99924
24480 | Morrison County, Minnesota | 24 | 0.9193 | 0.9183 | 99924
24490 | Mower County, Minnesota | 24 | 0.9193 | 0.9183 | 99924
24500 | Murray County, Minnesota | 24 | 0.9193 | 0.9183 | 99924
24510 | Nicollet County, Minnesota | 24 | 0.9193 | 0.9183 | 99924
24520 | Nobles County, Minnesota | 24 | 0.9193 | 0.9183 | 99924
24530 | Norman County, Minnesota | 24 | 0.9193 | 0.9183 | 99924
24540 | Olmsted County, Minnesota | 6820 | 1.1142 | 1.1142 | 40340
24550 | Otter Tail County, Minnesota | 24 | 0.9193 | 0.9183 | 99924
24560 | Pennington County, Minnesota | 24 | 0.9193 | 0.9183 | 99924
24570 | Pine County, Minnesota | 24 | 0.9193 | 0.9183 | 99924
24580 | Pipestone County, Minnesota | 24 | 0.9193 | 0.9183 | 99924
24590 | Polk County, Minnesota | 2985 | 1.1516 | 1.1516 | 24220
24600 | Pope County, Minnesota | 24 | 0.9193 | 0.9183 | 99924
24610 | Ramsey County, Minnesota | 5120 | 1.1078 | 1.1078 | 33460
24620 | Red Lake County, Minnesota | 24 | 0.9193 | 0.9183 | 99924
24630 | Redwood County, Minnesota | 24 | 0.9193 | 0.9183 | 99924
24640 | Renville County, Minnesota | 24 | 0.9193 | 0.9183 | 99924
24650 | Rice County, Minnesota | 24 | 0.9193 | 0.9183 | 99924
24660 | Rock County, Minnesota | 24 | 0.9193 | 0.9183 | 99924
24670 | Roseau County, Minnesota | 24 | 0.9193 | 0.9183 | 99924
24680 | St Louis County, Minnesota | 2240 | 1.0223 | 1.0209 | 20260
24690 | Scott County, Minnesota | 5120 | 1.1078 | 1.1078 | 33460
24700 | Sherburne County, Minnesota | 5120 | 1.1078 | 1.1078 | 33460
24710 | Sibley County, Minnesota | 24 | 0.9193 | 0.9183 | 99924
24720 | Stearns County, Minnesota | 6980 | 0.9975 | 0.9975 | 41060
24730 | Steele County, Minnesota | 24 | 0.9193 | 0.9183 | 99924
24740 | Stevens County, Minnesota | 24 | 0.9193 | 0.9183 | 99924
24750 | Swift County, Minnesota | 24 | 0.9193 | 0.9183 | 99924
24760 | Todd County, Minnesota | 24 | 0.9193 | 0.9183 | 99924
24770 | Traverse County, Minnesota | 24 | 0.9193 | 0.9183 | 99924
24780 | Wabasha County, Minnesota | 24 | 0.9193 | 1.1142 | 40340
24790 | Wadena County, Minnesota | 24 | 0.9193 | 0.9183 | 99924
24800 | Waseca County, Minnesota | 24 | 0.9193 | 0.9183 | 99924
24810 | Washington County, Minnesota | 5120 | 1.1078 | 1.1078 | 33460
24820 | Watonwan County, Minnesota | 24 | 0.9193 | 0.9183 | 99924
24830 | Wilkin County, Minnesota | 24 | 0.9193 | 0.9183 | 99924
24840 | Winona County, Minnesota | 24 | 0.9193 | 0.9183 | 99924
24850 | Wright County, Minnesota | 5120 | 1.1078 | 1.1078 | 33460
24860 | Yellow Medicine County, Minnesota | 24 | 0.9193 | 0.9183 | 99924
25000 | Adams County, Mississippi | 25 | 0.7631 | 0.7671 | 99925
25010 | Alcorn County, Mississippi | 25 | 0.7631 | 0.7671 | 99925
25020 | Amite County, Mississippi | 25 | 0.7631 | 0.7671 | 99925
25030 | Attala County, Mississippi | 25 | 0.7631 | 0.7671 | 99925
25040 | Benton County, Mississippi | 25 | 0.7631 | 0.7671 | 99925
25050 | Bolivar County, Mississippi | 25 | 0.7631 | 0.7671 | 99925
25060 | Calhoun County, Mississippi | 25 | 0.7631 | 0.7671 | 99925
25070 | Carroll County, Mississippi | 25 | 0.7631 | 0.7671 | 99925
25080 | Chickasaw County, Mississippi | 25 | 0.7631 | 0.7671 | 99925
25090 | Choctaw County, Mississippi | 25 | 0.7631 | 0.7671 | 99925
25100 | Claiborne County, Mississippi | 25 | 0.7631 | 0.7671 | 99925
25110 | Clarke County, Mississippi | 25 | 0.7631 | 0.7671 | 99925
25120 | Clay County, Mississippi | 25 | 0.7631 | 0.7671 | 99925
25130 | Coahoma County, Mississippi | 25 | 0.7631 | 0.7671 | 99925
25140 | Copiah County, Mississippi | 25 | 0.7631 | 0.8319 | 27140
25150 | Covington County, Mississippi | 25 | 0.7631 | 0.7671 | 99925
25160 | Desoto County, Mississippi | 4920 | 0.9360 | 0.9341 | 32820
25170 | Forrest County, Mississippi | 3285 | 0.7609 | 0.7609 | 25620
25180 | Franklin County, Mississippi | 25 | 0.7631 | 0.7671 | 99925
25190 | George County, Mississippi | 25 | 0.7631 | 0.8165 | 37700
25200 | Greene County, Mississippi | 25 | 0.7631 | 0.7671 | 99925
25210 | Grenada County, Mississippi | 25 | 0.7631 | 0.7671 | 99925
25220 | Hancock County, Mississippi | 0920 | 0.8715 | 0.8938 | 25060
25230 | Harrison County, Mississippi | 0920 | 0.8715 | 0.8938 | 25060
25240 | Hinds County, Mississippi | 3560 | 0.8391 | 0.8319 | 27140
25250 | Holmes County, Mississippi | 25 | 0.7631 | 0.7671 | 99925
25260 | Humphreys County, Mississippi | 25 | 0.7631 | 0.7671 | 99925
25270 | Issaquena County, Mississippi | 25 | 0.7631 | 0.7671 | 99925
25280 | Itawamba County, Mississippi | 25 | 0.7631 | 0.7671 | 99925
25290 | Jackson County, Mississippi | 0920 | 0.8715 | 0.8165 | 37700
25300 | Jasper County, Mississippi | 25 | 0.7631 | 0.7671 | 99925
25310 | Jefferson County, Mississippi | 25 | 0.7631 | 0.7671 | 99925
25320 | Jefferson Davis County, Mississippi | 25 | 0.7631 | 0.7671 | 99925
25330 | Jones County, Mississippi | 25 | 0.7631 | 0.7671 | 99925
25340 | Kemper County, Mississippi | 25 | 0.7631 | 0.7671 | 99925
25350 | Lafayette County, Mississippi | 25 | 0.7631 | 0.7671 | 99925
25360 | Lamar County, Mississippi | 3285 | 0.7609 | 0.7609 | 25620
25370 | Lauderdale County, Mississippi | 25 | 0.7631 | 0.7671 | 99925
25380 | Lawrence County, Mississippi | 25 | 0.7631 | 0.7671 | 99925
25390 | Leake County, Mississippi | 25 | 0.7631 | 0.7671 | 99925
25400 | Lee County, Mississippi | 25 | 0.7631 | 0.7671 | 99925
25410 | Leflore County, Mississippi | 25 | 0.7631 | 0.7671 | 99925
25420 | Lincoln County, Mississippi | 25 | 0.7631 | 0.7671 | 99925
25430 | Lowndes County, Mississippi | 25 | 0.7631 | 0.7671 | 99925
25440 | Madison County, Mississippi | 3560 | 0.8391 | 0.8319 | 27140
25450 | Marion County, Mississippi | 25 | 0.7631 | 0.7671 | 99925
25460 | Marshall County, Mississippi | 25 | 0.7631 | 0.9341 | 32820
25470 | Monroe County, Mississippi | 25 | 0.7631 | 0.7671 | 99925
25480 | Montgomery County, Mississippi | 25 | 0.7631 | 0.7671 | 99925
25490 | Neshoba County, Mississippi | 25 | 0.7631 | 0.7671 | 99925
25500 | Newton County, Mississippi | 25 | 0.7631 | 0.7671 | 99925
25510 | Noxubee County, Mississippi | 25 | 0.7631 | 0.7671 | 99925
25520 | Oktibbeha County, Mississippi | 25 | 0.7631 | 0.7671 | 99925
25530 | Panola County, Mississippi | 25 | 0.7631 | 0.7671 | 99925
25540 | Pearl River County, Mississippi | 25 | 0.7631 | 0.7671 | 99925
25550 | Perry County, Mississippi | 25 | 0.7631 | 0.7609 | 25620
25560 | Pike County, Mississippi | 25 | 0.7631 | 0.7671 | 99925
25570 | Pontotoc County, Mississippi | 25 | 0.7631 | 0.7671 | 99925
25580 | Prentiss County, Mississippi | 25 | 0.7631 | 0.7671 | 99925
25590 | Quitman County, Mississippi | 25 | 0.7631 | 0.7671 | 99925
25600 | Rankin County, Mississippi | 3560 | 0.8391 | 0.8319 | 27140
25610 | Scott County, Mississippi | 25 | 0.7631 | 0.7671 | 99925
25620 | Sharkey County, Mississippi | 25 | 0.7631 | 0.7671 | 99925
25630 | Simpson County, Mississippi | 25 | 0.7631 | 0.8319 | 27140
25640 | Smith County, Mississippi | 25 | 0.7631 | 0.7671 | 99925
25650 | Stone County, Mississippi | 25 | 0.7631 | 0.8938 | 25060
25660 | Sunflower County, Mississippi | 25 | 0.7631 | 0.7671 | 99925
25670 | Tallahatchie County, Mississippi | 25 | 0.7631 | 0.7671 | 99925
25680 | Tate County, Mississippi | 25 | 0.7631 | 0.9341 | 32820
25690 | Tippah County, Mississippi | 25 | 0.7631 | 0.7671 | 99925
25700 | Tishomingo County, Mississippi | 25 | 0.7631 | 0.7671 | 99925
25710 | Tunica County, Mississippi | 25 | 0.7631 | 0.9341 | 32820
25720 | Union County, Mississippi | 25 | 0.7631 | 0.7671 | 99925
25730 | Walthall County, Mississippi | 25 | 0.7631 | 0.7671 | 99925
25740 | Warren County, Mississippi | 25 | 0.7631 | 0.7671 | 99925
25750 | Washington County, Mississippi | 25 | 0.7631 | 0.7671 | 99925
25760 | Wayne County, Mississippi | 25 | 0.7631 | 0.7671 | 99925
25770 | Webster County, Mississippi | 25 | 0.7631 | 0.7671 | 99925
25780 | Wilkinson County, Mississippi | 25 | 0.7631 | 0.7671 | 99925
25790 | Winston County, Mississippi | 25 | 0.7631 | 0.7671 | 99925
25800 | Yalobusha County, Mississippi | 25 | 0.7631 | 0.7671 | 99925
25810 | Yazoo County, Mississippi | 25 | 0.7631 | 0.7671 | 99925
26000 | Adair County, Missouri | 26 | 0.7968 | 0.7909 | 99926
26010 | Andrew County, Missouri | 7000 | 0.9529 | 0.9529 | 41140
26020 | Atchison County, Missouri | 26 | 0.7968 | 0.7909 | 99926
26030 | Audrain County, Missouri | 26 | 0.7968 | 0.7909 | 99926
26040 | Barry County, Missouri | 26 | 0.7968 | 0.7909 | 99926
26050 | Barton County, Missouri | 26 | 0.7968 | 0.7909 | 99926
26060 | Bates County, Missouri | 26 | 0.7968 | 0.9467 | 28140
26070 | Benton County, Missouri | 26 | 0.7968 | 0.7909 | 99926
26080 | Bollinger County, Missouri | 26 | 0.7968 | 0.7909 | 99926
26090 | Boone County, Missouri | 1740 | 0.8354 | 0.8354 | 17860
26100 | Buchanan County, Missouri | 7000 | 0.9529 | 0.9529 | 41140
26110 | Butler County, Missouri | 26 | 0.7968 | 0.7909 | 99926
26120 | Caldwell County, Missouri | 26 | 0.7968 | 0.9467 | 28140
26130 | Callaway County, Missouri | 26 | 0.7968 | 0.8396 | 27620
26140 | Camden County, Missouri | 26 | 0.7968 | 0.7909 | 99926
26150 | Cape Girardeau County, Missouri | 26 | 0.7968 | 0.7909 | 99926
26160 | Carroll County, Missouri | 26 | 0.7968 | 0.7909 | 99926
26170 | Carter County, Missouri | 26 | 0.7968 | 0.7909 | 99926
26180 | Cass County, Missouri | 3760 | 0.9481 | 0.9467 | 28140
26190 | Cedar County, Missouri | 26 | 0.7968 | 0.7909 | 99926
26200 | Chariton County, Missouri | 26 | 0.7968 | 0.7909 | 99926
26210 | Christian County, Missouri | 7920 | 0.8259 | 0.8246 | 44180
26220 | Clark County, Missouri | 26 | 0.7968 | 0.7909 | 99926
26230 | Clay County, Missouri | 3760 | 0.9481 | 0.9467 | 28140
26240 | Clinton County, Missouri | 3760 | 0.9481 | 0.9467 | 28140
26250 | Cole County, Missouri | 26 | 0.7968 | 0.8396 | 27620
26260 | Cooper County, Missouri | 26 | 0.7968 | 0.7909 | 99926
26270 | Crawford County, Missouri | 26 | 0.7968 | 0.8949 | 41180
26280 | Dade County, Missouri | 26 | 0.7968 | 0.7909 | 99926
26290 | Dallas County, Missouri | 26 | 0.7968 | 0.8246 | 44180
26300 | Daviess County, Missouri | 26 | 0.7968 | 0.7909 | 99926
26310 | De Kalb County, Missouri | 26 | 0.7968 | 0.9529 | 41140
26320 | Dent County, Missouri | 26 | 0.7968 | 0.7909 | 99926
26330 | Douglas County, Missouri | 26 | 0.7968 | 0.7909 | 99926
26340 | Dunklin County, Missouri | 26 | 0.7968 | 0.7909 | 99926
26350 | Franklin County, Missouri | 7040 | 0.8957 | 0.8949 | 41180
26360 | Gasconade County, Missouri | 26 | 0.7968 | 0.7909 | 99926
26370 | Gentry County, Missouri | 26 | 0.7968 | 0.7909 | 99926
26380 | Greene County, Missouri | 7920 | 0.8259 | 0.8246 | 44180
26390 | Grundy County, Missouri | 26 | 0.7968 | 0.7909 | 99926
26400 | Harrison County, Missouri | 26 | 0.7968 | 0.7909 | 99926
26410 | Henry County, Missouri | 26 | 0.7968 | 0.7909 | 99926
26411 | Hickory County, Missouri | 26 | 0.7968 | 0.7909 | 99926
26412 | Holt County, Missouri | 26 | 0.7968 | 0.7909 | 99926
26440 | Howard County, Missouri | 26 | 0.7968 | 0.8354 | 17860
26450 | Howell County, Missouri | 26 | 0.7968 | 0.7909 | 99926
26460 | Iron County, Missouri | 26 | 0.7968 | 0.7909 | 99926
26470 | Jackson County, Missouri | 3760 | 0.9481 | 0.9467 | 28140
26480 | Jasper County, Missouri | 3710 | 0.8590 | 0.8590 | 27900
26490 | Jefferson County, Missouri | 7040 | 0.8957 | 0.8949 | 41180
26500 | Johnson County, Missouri | 26 | 0.7968 | 0.7909 | 99926
26510 | Knox County, Missouri | 26 | 0.7968 | 0.7909 | 99926
26520 | Laclede County, Missouri | 26 | 0.7968 | 0.7909 | 99926
26530 | Lafayette County, Missouri | 3760 | 0.9481 | 0.9467 | 28140
26540 | Lawrence County, Missouri | 26 | 0.7968 | 0.7909 | 99926
26541 | Lewis County, Missouri | 26 | 0.7968 | 0.7909 | 99926
26560 | Lincoln County, Missouri | 7040 | 0.8957 | 0.8949 | 41180
26570 | Linn County, Missouri | 26 | 0.7968 | 0.7909 | 99926
26580 | Livingston County, Missouri | 26 | 0.7968 | 0.7909 | 99926
26590 | Mc Donald County, Missouri | 26 | 0.7968 | 0.8563 | 22220
26600 | Macon County, Missouri | 26 | 0.7968 | 0.7909 | 99926
26601 | Madison County, Missouri | 26 | 0.7968 | 0.7909 | 99926
26620 | Maries County, Missouri | 26 | 0.7968 | 0.7909 | 99926
26630 | Marion County, Missouri | 26 | 0.7968 | 0.7909 | 99926
26631 | Mercer County, Missouri | 26 | 0.7968 | 0.7909 | 99926
26650 | Miller County, Missouri | 26 | 0.7968 | 0.7909 | 99926
26660 | Mississippi County, Missouri | 26 | 0.7968 | 0.7909 | 99926
26670 | Moniteau County, Missouri | 26 | 0.7968 | 0.8396 | 27620
26680 | Monroe County, Missouri | 26 | 0.7968 | 0.7909 | 99926
26690 | Montgomery County, Missouri | 26 | 0.7968 | 0.7909 | 99926
26700 | Morgan County, Missouri | 26 | 0.7968 | 0.7909 | 99926
26710 | New Madrid County, Missouri | 26 | 0.7968 | 0.7909 | 99926
26720 | Newton County, Missouri | 3710 | 0.8590 | 0.8590 | 27900
26730 | Nodaway County, Missouri | 26 | 0.7968 | 0.7909 | 99926
26740 | Oregon County, Missouri | 26 | 0.7968 | 0.7909 | 99926
26750 | Osage County, Missouri | 26 | 0.7968 | 0.8396 | 27620
26751 | Ozark County, Missouri | 26 | 0.7968 | 0.7909 | 99926
26770 | Pemiscot County, Missouri | 26 | 0.7968 | 0.7909 | 99926
26780 | Perry County, Missouri | 26 | 0.7968 | 0.7909 | 99926
26790 | Pettis County, Missouri | 26 | 0.7968 | 0.7909 | 99926
26800 | Phelps County, Missouri | 26 | 0.7968 | 0.7909 | 99926
26810 | Pike County, Missouri | 26 | 0.7968 | 0.7909 | 99926
26820 | Platte County, Missouri | 3760 | 0.9481 | 0.9467 | 28140
26821 | Polk County, Missouri | 26 | 0.7968 | 0.8246 | 44180
26840 | Pulaski County, Missouri | 26 | 0.7968 | 0.7909 | 99926
26850 | Putnam County, Missouri | 26 | 0.7968 | 0.7909 | 99926
26860 | Ralls County, Missouri | 26 | 0.7968 | 0.7909 | 99926
26870 | Randolph County, Missouri | 26 | 0.7968 | 0.7909 | 99926
26880 | Ray County, Missouri | 3760 | 0.9481 | 0.9467 | 28140
26881 | Reynolds County, Missouri | 26 | 0.7968 | 0.7909 | 99926
26900 | Ripley County, Missouri | 26 | 0.7968 | 0.7909 | 99926
26910 | St Charles County, Missouri | 7040 | 0.8957 | 0.8949 | 41180
26911 | St Clair County, Missouri | 26 | 0.7968 | 0.7909 | 99926
26930 | St Francois County, Missouri | 26 | 0.7968 | 0.7909 | 99926
26940 | St Louis County, Missouri | 7040 | 0.8957 | 0.8949 | 41180
26950 | St Louis City County, Missouri | 7040 | 0.8957 | 0.8949 | 41180
26960 | Ste Genevieve County, Missouri | 26 | 0.7968 | 0.7909 | 99926
26970 | Saline County, Missouri | 26 | 0.7968 | 0.7909 | 99926
26980 | Schuyler County, Missouri | 26 | 0.7968 | 0.7909 | 99926
26981 | Scotland County, Missouri | 26 | 0.7968 | 0.7909 | 99926
26982 | Scott County, Missouri | 26 | 0.7968 | 0.7909 | 99926
26983 | Shannon County, Missouri | 26 | 0.7968 | 0.7909 | 99926
26984 | Shelby County, Missouri | 26 | 0.7968 | 0.7909 | 99926
26985 | Stoddard County, Missouri | 26 | 0.7968 | 0.7909 | 99926
26986 | Stone County, Missouri | 26 | 0.7968 | 0.7909 | 99926
26987 | Sullivan County, Missouri | 26 | 0.7968 | 0.7909 | 99926
26988 | Taney County, Missouri | 26 | 0.7968 | 0.7909 | 99926
26989 | Texas County, Missouri | 26 | 0.7968 | 0.7909 | 99926
26990 | Vernon County, Missouri | 26 | 0.7968 | 0.7909 | 99926
26991 | Warren County, Missouri | 7040 | 0.8957 | 0.8949 | 41180
26992 | Washington County, Missouri | 26 | 0.7968 | 0.8949 | 41180
26993 | Wayne County, Missouri | 26 | 0.7968 | 0.7909 | 99926
26994 | Webster County, Missouri | 7920 | 0.8259 | 0.8246 | 44180
26995 | Worth County, Missouri | 26 | 0.7968 | 0.7909 | 99926
26996 | Wright County, Missouri | 26 | 0.7968 | 0.7909 | 99926
27000 | Beaverhead County, Montana | 27 | 0.8833 | 0.8833 | 99927
27010 | Big Horn County, Montana | 27 | 0.8833 | 0.8833 | 99927
27020 | Blaine County, Montana | 27 | 0.8833 | 0.8833 | 99927
27030 | Broadwater County, Montana | 27 | 0.8833 | 0.8833 | 99927
27040 | Carbon County, Montana | 27 | 0.8833 | 0.8843 | 13740
27050 | Carter County, Montana | 27 | 0.8833 | 0.8833 | 99927
27060 | Cascade County, Montana | 3040 | 0.9061 | 0.9061 | 24500
27070 | Chouteau County, Montana | 27 | 0.8833 | 0.8833 | 99927
27080 | Custer County, Montana | 27 | 0.8833 | 0.8833 | 99927
27090 | Daniels County, Montana | 27 | 0.8833 | 0.8833 | 99927
27100 | Dawson County, Montana | 27 | 0.8833 | 0.8833 | 99927
27110 | Deer Lodge County, Montana | 27 | 0.8833 | 0.8833 | 99927
27113 | Yellowstone National Park, Montana | 27 | 0.8833 | 0.8833 | 99927
27120 | Fallon County, Montana | 27 | 0.8833 | 0.8833 | 99927
27130 | Fergus County, Montana | 27 | 0.8833 | 0.8833 | 99927
27140 | Flathead County, Montana | 27 | 0.8833 | 0.8833 | 99927
27150 | Gallatin County, Montana | 27 | 0.8833 | 0.8833 | 99927
27160 | Garfield County, Montana | 27 | 0.8833 | 0.8833 | 99927
27170 | Glacier County, Montana | 27 | 0.8833 | 0.8833 | 99927
27180 | Golden Valley County, Montana | 27 | 0.8833 | 0.8833 | 99927
27190 | Granite County, Montana | 27 | 0.8833 | 0.8833 | 99927
27200 | Hill County, Montana | 27 | 0.8833 | 0.8833 | 99927
27210 | Jefferson County, Montana | 27 | 0.8833 | 0.8833 | 99927
27220 | Judith Basin County, Montana | 27 | 0.8833 | 0.8833 | 99927
27230 | Lake County, Montana | 27 | 0.8833 | 0.8833 | 99927
27240 | Lewis And Clark County, Montana | 27 | 0.8833 | 0.8833 | 99927
27250 | Liberty County, Montana | 27 | 0.8833 | 0.8833 | 99927
27260 | Lincoln County, Montana | 27 | 0.8833 | 0.8833 | 99927
27270 | Mc Cone County, Montana | 27 | 0.8833 | 0.8833 | 99927
27280 | Madison County, Montana | 27 | 0.8833 | 0.8833 | 99927
27290 | Meagher County, Montana | 27 | 0.8833 | 0.8833 | 99927
27300 | Mineral County, Montana | 27 | 0.8833 | 0.8833 | 99927
27310 | Missoula County, Montana | 5140 | 0.9482 | 0.9482 | 33540
27320 | Musselshell County, Montana | 27 | 0.8833 | 0.8833 | 99927
27330 | Park County, Montana | 27 | 0.8833 | 0.8833 | 99927
27340 | Petroleum County, Montana | 27 | 0.8833 | 0.8833 | 99927
27350 | Phillips County, Montana | 27 | 0.8833 | 0.8833 | 99927
27360 | Pondera County, Montana | 27 | 0.8833 | 0.8833 | 99927
27370 | Powder River County, Montana | 27 | 0.8833 | 0.8833 | 99927
27380 | Powell County, Montana | 27 | 0.8833 | 0.8833 | 99927
27390 | Prairie County, Montana | 27 | 0.8833 | 0.8833 | 99927
27400 | Ravalli County, Montana | 27 | 0.8833 | 0.8833 | 99927
27410 | Richland County, Montana | 27 | 0.8833 | 0.8833 | 99927
27420 | Roosevelt County, Montana | 27 | 0.8833 | 0.8833 | 99927
27430 | Rosebud County, Montana | 27 | 0.8833 | 0.8833 | 99927
27440 | Sanders County, Montana | 27 | 0.8833 | 0.8833 | 99927
27450 | Sheridan County, Montana | 27 | 0.8833 | 0.8833 | 99927
27460 | Silver Bow County, Montana | 27 | 0.8833 | 0.8833 | 99927
27470 | Stillwater County, Montana | 27 | 0.8833 | 0.8833 | 99927
27480 | Sweet Grass County, Montana | 27 | 0.8833 | 0.8833 | 99927
27490 | Teton County, Montana | 27 | 0.8833 | 0.8833 | 99927
27500 | Toole County, Montana | 27 | 0.8833 | 0.8833 | 99927
27510 | Treasure County, Montana | 27 | 0.8833 | 0.8833 | 99927
27520 | Valley County, Montana | 27 | 0.8833 | 0.8833 | 99927
27530 | Wheatland County, Montana | 27 | 0.8833 | 0.8833 | 99927
27540 | Wibaux County, Montana | 27 | 0.8833 | 0.8833 | 99927
27550 | Yellowstone County, Montana | 0880 | 0.8843 | 0.8843 | 13740
28000 | Adams County, Nebraska | 28 | 0.8665 | 0.8665 | 99928
28010 | Antelope County, Nebraska | 28 | 0.8665 | 0.8665 | 99928
28020 | Arthur County, Nebraska | 28 | 0.8665 | 0.8665 | 99928
28030 | Banner County, Nebraska | 28 | 0.8665 | 0.8665 | 99928
28040 | Blaine County, Nebraska | 28 | 0.8665 | 0.8665 | 99928
28050 | Boone County, Nebraska | 28 | 0.8665 | 0.8665 | 99928
28060 | Box Butte County, Nebraska | 28 | 0.8665 | 0.8665 | 99928
28070 | Boyd County, Nebraska | 28 | 0.8665 | 0.8665 | 99928
28080 | Brown County, Nebraska | 28 | 0.8665 | 0.8665 | 99928
28090 | Buffalo County, Nebraska | 28 | 0.8665 | 0.8665 | 99928
28100 | Burt County, Nebraska | 28 | 0.8665 | 0.8665 | 99928
28110 | Butler County, Nebraska | 28 | 0.8665 | 0.8665 | 99928
28120 | Cass County, Nebraska | 5920 | 0.9569 | 0.9569 | 36540
28130 | Cedar County, Nebraska | 28 | 0.8665 | 0.8665 | 99928
28140 | Chase County, Nebraska | 28 | 0.8665 | 0.8665 | 99928
28150 | Cherry County, Nebraska | 28 | 0.8665 | 0.8665 | 99928
28160 | Cheyenne County, Nebraska | 28 | 0.8665 | 0.8665 | 99928
28170 | Clay County, Nebraska | 28 | 0.8665 | 0.8665 | 99928
28180 | Colfax County, Nebraska | 28 | 0.8665 | 0.8665 | 99928
28190 | Cuming County, Nebraska | 28 | 0.8665 | 0.8665 | 99928
28200 | Custer County, Nebraska | 28 | 0.8665 | 0.8665 | 99928
28210 | Dakota County, Nebraska | 7720 | 0.9411 | 0.9376 | 43580
28220 | Dawes County, Nebraska | 28 | 0.8665 | 0.8665 | 99928
28230 | Dawson County, Nebraska | 28 | 0.8665 | 0.8665 | 99928
28240 | Deuel County, Nebraska | 28 | 0.8665 | 0.8665 | 99928
28250 | Dixon County, Nebraska | 28 | 0.8665 | 0.9376 | 43580
28260 | Dodge County, Nebraska | 28 | 0.8665 | 0.8665 | 99928
28270 | Douglas County, Nebraska | 5920 | 0.9569 | 0.9569 | 36540
28280 | Dundy County, Nebraska | 28 | 0.8665 | 0.8665 | 99928
28290 | Fillmore County, Nebraska | 28 | 0.8665 | 0.8665 | 99928
28300 | Franklin County, Nebraska | 28 | 0.8665 | 0.8665 | 99928
28310 | Frontier County, Nebraska | 28 | 0.8665 | 0.8665 | 99928
28320 | Furnas County, Nebraska | 28 | 0.8665 | 0.8665 | 99928
28330 | Gage County, Nebraska | 28 | 0.8665 | 0.8665 | 99928
28340 | Garden County, Nebraska | 28 | 0.8665 | 0.8665 | 99928
28350 | Garfield County, Nebraska | 28 | 0.8665 | 0.8665 | 99928
28360 | Gosper County, Nebraska | 28 | 0.8665 | 0.8665 | 99928
28370 | Grant County, Nebraska | 28 | 0.8665 | 0.8665 | 99928
28380 | Greeley County, Nebraska | 28 | 0.8665 | 0.8665 | 99928
28390 | Hall County, Nebraska | 28 | 0.8665 | 0.8665 | 99928
28400 | Hamilton County, Nebraska | 28 | 0.8665 | 0.8665 | 99928
28410 | Harlan County, Nebraska | 28 | 0.8665 | 0.8665 | 99928
28420 | Hayes County, Nebraska | 28 | 0.8665 | 0.8665 | 99928
28430 | Hitchcock County, Nebraska | 28 | 0.8665 | 0.8665 | 99928
28440 | Holt County, Nebraska | 28 | 0.8665 | 0.8665 | 99928
28450 | Hooker County, Nebraska | 28 | 0.8665 | 0.8665 | 99928
28460 | Howard County, Nebraska | 28 | 0.8665 | 0.8665 | 99928
28470 | Jefferson County, Nebraska | 28 | 0.8665 | 0.8665 | 99928
28480 | Johnson County, Nebraska | 28 | 0.8665 | 0.8665 | 99928
28490 | Kearney County, Nebraska | 28 | 0.8665 | 0.8665 | 99928
28500 | Keith County, Nebraska | 28 | 0.8665 | 0.8665 | 99928
28510 | Keya Paha County, Nebraska | 28 | 0.8665 | 0.8665 | 99928
28520 | Kimball County, Nebraska | 28 | 0.8665 | 0.8665 | 99928
28530 | Knox County, Nebraska | 28 | 0.8665 | 0.8665 | 99928
28540 | Lancaster County, Nebraska | 4360 | 1.0225 | 1.0225 | 30700
28550 | Lincoln County, Nebraska | 28 | 0.8665 | 0.8665 | 99928
28560 | Logan County, Nebraska | 28 | 0.8665 | 0.8665 | 99928
28570 | Loup County, Nebraska | 28 | 0.8665 | 0.8665 | 99928
28580 | McPherson County, Nebraska | 28 | 0.8665 | 0.8665 | 99928
28590 | Madison County, Nebraska | 28 | 0.8665 | 0.8665 | 99928
28600 | Merrick County, Nebraska | 28 | 0.8665 | 0.8665 | 99928
28610 | Morrill County, Nebraska | 28 | 0.8665 | 0.8665 | 99928
28620 | Nance County, Nebraska | 28 | 0.8665 | 0.8665 | 99928
28630 | Nemaha County, Nebraska | 28 | 0.8665 | 0.8665 | 99928
28640 | Nuckolls County, Nebraska | 28 | 0.8665 | 0.8665 | 99928
28650 | Otoe County, Nebraska | 28 | 0.8665 | 0.8665 | 99928
28660 | Pawnee County, Nebraska | 28 | 0.8665 | 0.8665 | 99928
28670 | Perkins County, Nebraska | 28 | 0.8665 | 0.8665 | 99928
28680 | Phelps County, Nebraska | 28 | 0.8665 | 0.8665 | 99928
28690 | Pierce County, Nebraska | 28 | 0.8665 | 0.8665 | 99928
28700 | Platte County, Nebraska | 28 | 0.8665 | 0.8665 | 99928
28710 | Polk County, Nebraska | 28 | 0.8665 | 0.8665 | 99928
28720 | Redwillow County, Nebraska | 28 | 0.8665 | 0.8665 | 99928
28730 | Richardson County, Nebraska | 28 | 0.8665 | 0.8665 | 99928
28740 | Rock County, Nebraska | 28 | 0.8665 | 0.8665 | 99928
28750 | Saline County, Nebraska | 28 | 0.8665 | 0.8665 | 99928
28760 | Sarpy County, Nebraska | 5920 | 0.9569 | 0.9569 | 36540
28770 | Saunders County, Nebraska | 28 | 0.8665 | 0.9569 | 36540
28780 | cotts Bluff County, Nebraska | 28 | 0.8665 | 0.8665 | 99928
28790 | Seward County, Nebraska | 28 | 0.8665 | 1.0225 | 30700
28800 | Sheridan County, Nebraska | 28 | 0.8665 | 0.8665 | 99928
28810 | Sherman County, Nebraska | 28 | 0.8665 | 0.8665 | 99928
28820 | Sioux County, Nebraska | 28 | 0.8665 | 0.8665 | 99928
28830 | Stanton County, Nebraska | 28 | 0.8665 | 0.8665 | 99928
28840 | Thayer County, Nebraska | 28 | 0.8665 | 0.8665 | 99928
28850 | Thomas County, Nebraska | 28 | 0.8665 | 0.8665 | 99928
28860 | Thurston County, Nebraska | 28 | 0.8665 | 0.8665 | 99928
28870 | Valley County, Nebraska | 28 | 0.8665 | 0.8665 | 99928
28880 | Washington County, Nebraska | 5920 | 0.9569 | 0.9569 | 36540
28890 | Wayne County, Nebraska | 28 | 0.8665 | 0.8665 | 99928
28900 | Webster County, Nebraska | 28 | 0.8665 | 0.8665 | 99928
28910 | Wheeler County, Nebraska | 28 | 0.8665 | 0.8665 | 99928
28920 | York County, Nebraska | 28 | 0.8665 | 0.8665 | 99928
29000 | Churchill County, Nevada | 29 | 0.9697 | 0.9074 | 99929
29010 | Clark County, Nevada | 4120 | 1.1166 | 1.1449 | 29820
29020 | Douglas County, Nevada | 29 | 0.9697 | 0.9074 | 99929
29030 | Elko County, Nevada | 29 | 0.9697 | 0.9074 | 99929
29040 | Esmeralda County, Nevada | 29 | 0.9697 | 0.9074 | 99929
29050 | Eureka County, Nevada | 29 | 0.9697 | 0.9074 | 99929
29060 | Humboldt County, Nevada | 29 | 0.9697 | 0.9074 | 99929
29070 | Lander County, Nevada | 29 | 0.9697 | 0.9074 | 99929
29080 | Lincoln County, Nevada | 29 | 0.9697 | 0.9074 | 99929
29090 | Lyon County, Nevada | 29 | 0.9697 | 0.9074 | 99929
29100 | Mineral County, Nevada | 29 | 0.9697 | 0.9074 | 99929
29110 | Nye County, Nevada | 4120 | 1.1166 | 0.9074 | 99929
29120 | Carson City County, Nevada | 29 | 0.9697 | 1.0244 | 16180
29130 | Pershing County, Nevada | 29 | 0.9697 | 0.9074 | 99929
29140 | Storey County, Nevada | 29 | 0.9697 | 1.0993 | 39900
29150 | Washoe County, Nevada | 6720 | 1.0993 | 1.0993 | 39900
29160 | White Pine County, Nevada | 29 | 0.9697 | 0.9074 | 99929
30000 | Belknap County, New Hampshire | 30 | 1.0677 | 1.0677 | 99930
30010 | Carroll County, New Hampshire | 30 | 1.0677 | 1.0677 | 99930
30020 | Cheshire County, New Hampshire | 30 | 1.0677 | 1.0677 | 99930
30030 | Coos County, New Hampshire | 30 | 1.0677 | 1.0677 | 99930
30040 | Grafton County, New Hampshire | 30 | 1.0677 | 1.0677 | 99930
30050 | Hillsboro County, New Hampshire | 1123 | 1.1152 | 1.0335 | 31700
30060 | Merrimack County, New Hampshire | 1123 | 1.1152 | 1.0335 | 31700
30070 | Rockingham County, New Hampshire | 1123 | 1.1152 | 1.0385 | 40484
30080 | Strafford County, New Hampshire | 1123 | 1.1152 | 1.0385 | 40484
30090 | Sullivan County, New Hampshire | 30 | 1.0677 | 1.0677 | 99930
31000 | Atlantic County, New Jersey | 0560 | 1.1513 | 1.1633 | 12100
1100 | Bergen County, New Jersey | 0875 | 1.1660 | 1.3185 | 35644
31150 | Burlington County, New Jersey | 6160 | 1.0926 | 1.0528 | 15804
31160 | Camden County, New Jersey | 6160 | 1.0926 | 1.0528 | 15804
31180 | Cape May County, New Jersey | 0560 | 1.1513 | 1.1022 | 36140
31190 | Cumberland County, New Jersey | 8760 | 0.9837 | 0.9837 | 47220
31200 | Essex County, New Jersey | 5640 | 1.2141 | 1.2195 | 35084
31220 | Gloucester County, New Jersey | 6160 | 1.0926 | 1.0528 | 15804
31230 | Hudson County, New Jersey | 3640 | 1.1349 | 1.3185 | 35644
31250 | Hunterdon County, New Jersey | 5015 | 1.1178 | 1.2195 | 35084
31260 | Mercer County, New Jersey | 8480 | 1.0845 | 1.0845 | 45940
31270 | Middlesex County, New Jersey | 5015 | 1.1178 | 1.1260 | 20764
31290 | Monmouth County, New Jersey | 5190 | 1.1271 | 1.1260 | 20764
31300 | Morris County, New Jersey | 5640 | 1.2141 | 1.2195 | 35084
31310 | Ocean County, New Jersey | 5190 | 1.1271 | 1.1260 | 20764
31320 | Passaic County, New Jersey | 0875 | 1.1660 | 1.3185 | 35644
31340 | Salem County, New Jersey | 6160 | 1.0926 | 1.0482 | 48864
31350 | Somerset County, New Jersey | 5015 | 1.1178 | 1.1260 | 20764
31360 | Sussex County, New Jersey | 5640 | 1.2141 | 1.2195 | 35084
31370 | Union County, New Jersey | 5640 | 1.2141 | 1.2195 | 35084
31390 | Warren County, New Jersey | 5640 | 1.2141 | 0.9828 | 10900
32000 | Bernalillo County, New Mexico | 0200 | 0.9693 | 0.9693 | 10740
32010 | Catron County, New Mexico | 32 | 0.8571 | 0.8644 | 99932
32020 | Chaves County, New Mexico | 32 | 0.8571 | 0.8644 | 99932
32025 | Cibola County, New Mexico | 32 | 0.8571 | 0.8644 | 99932
32030 | Colfax County, New Mexico | 32 | 0.8571 | 0.8644 | 99932
32040 | Curry County, New Mexico | 32 | 0.8571 | 0.8644 | 99932
32050 | De Baca County, New Mexico | 32 | 0.8571 | 0.8644 | 99932
32060 | Dona Ana County, New Mexico | 4100 | 0.8475 | 0.8475 | 29740
32070 | Eddy County, New Mexico | 32 | 0.8571 | 0.8644 | 99932
32080 | Grant County, New Mexico | 32 | 0.8571 | 0.8644 | 99932
32090 | Guadalupe County, New Mexico | 32 | 0.8571 | 0.8644 | 99932
32100 | Harding County, New Mexico | 32 | 0.8571 | 0.8644 | 99932
32110 | Hidalgo County, New Mexico | 32 | 0.8571 | 0.8644 | 99932
32120 | Lea County, New Mexico | 32 | 0.8571 | 0.8644 | 99932
32130 | Lincoln County, New Mexico | 32 | 0.8571 | 0.8644 | 99932
32131 | Los Alamos County, New Mexico | 7490 | 1.0759 | 0.8644 | 99932
32140 | Luna County, New Mexico | 32 | 0.8571 | 0.8644 | 99932
32150 | Mc Kinley County, New Mexico | 32 | 0.8571 | 0.8644 | 99932
32160 | Mora County, New Mexico | 32 | 0.8571 | 0.8644 | 99932
32170 | Otero County, New Mexico | 32 | 0.8571 | 0.8644 | 99932
32180 | Quay County, New Mexico | 32 | 0.8571 | 0.8644 | 99932
32190 | Rio Arriba County, New Mexico | 32 | 0.8571 | 0.8644 | 99932
32200 | Roosevelt County, New Mexico | 32 | 0.8571 | 0.8644 | 99932
32210 | Sandoval County, New Mexico | 0200 | 0.9693 | 0.9693 | 10740
32220 | San Juan County, New Mexico | 32 | 0.8571 | 0.8518 | 22140
32230 | San Miguel County, New Mexico | 32 | 0.8571 | 0.8644 | 99932
32240 | Santa Fe County, New Mexico | 7490 | 1.0759 | 1.0931 | 42140
32250 | Sierra County, New Mexico | 32 | 0.8571 | 0.8644 | 99932
32260 | Socorro County, New Mexico | 32 | 0.8571 | 0.8644 | 99932
32270 | Taos County, New Mexico | 32 | 0.8571 | 0.8644 | 99932
32280 | Torrance County, New Mexico | 32 | 0.8571 | 0.9693 | 10740
32290 | Union County, New Mexico | 32 | 0.8571 | 0.8644 | 99932
32300 | Valencia County, New Mexico | 0200 | 0.9693 | 0.9693 | 10740
33000 | Albany County, New York | 0160 | 0.8518 | 0.8545 | 10580
33010 | Allegany County, New York | 33 | 0.8395 | 0.8157 | 99933
33020 | Bronx County, New York | 5600 | 1.3465 | 1.3185 | 35644
33030 | Broome County, New York | 0960 | 0.8571 | 0.8571 | 13780
33040 | Cattaraugus County, New York | 33 | 0.8395 | 0.8157 | 99933
33050 | Cayuga County, New York | 8160 | 0.9499 | 0.8157 | 99933
33060 | Chautauqua County, New York | 3610 | 0.7552 | 0.8157 | 99933
33070 | Chemung County, New York | 2335 | 0.8259 | 0.8259 | 21300
33080 | Chenango County, New York | 33 | 0.8395 | 0.8157 | 99933
33090 | Clinton County, New York | 33 | 0.8395 | 0.8157 | 99933
33200 | Columbia County, New York | 33 | 0.8395 | 0.8157 | 99933
33210 | Cortland County, New York | 33 | 0.8395 | 0.8157 | 99933
33220 | Delaware County, New York | 33 | 0.8395 | 0.8157 | 99933
33230 | Dutchess County, New York | 2281 | 1.0183 | 1.0766 | 39100
33240 | Erie County, New York | 1280 | 0.8889 | 0.8889 | 15380
33260 | Essex County, New York | 33 | 0.8395 | 0.8157 | 99933
33270 | Franklin County, New York | 33 | 0.8395 | 0.8157 | 99933
33280 | Fulton County, New York | 33 | 0.8395 | 0.8157 | 99933
33290 | Genesee County, New York | 6840 | 0.9044 | 0.8157 | 99933
33300 | Greene County, New York | 33 | 0.8395 | 0.8157 | 99933
33310 | Hamilton County, New York | 33 | 0.8395 | 0.8157 | 99933
33320 | Herkimer County, New York | 8680 | 0.8293 | 0.8293 | 46540
33330 | Jefferson County, New York | 33 | 0.8395 | 0.8157 | 99933
33331 | Kings County, New York | 5600 | 1.3465 | 1.3185 | 35644
33340 | Lewis County, New York | 33 | 0.8395 | 0.8157 | 99933
33350 | Livingston County, New York | 6840 | 0.9044 | 0.9115 | 40380
33360 | Madison County, New York | 8160 | 0.9499 | 0.9581 | 45060
33370 | Monroe County, New York | 6840 | 0.9044 | 0.9115 | 40380
33380 | Montgomery County, New York | 0160 | 0.8518 | 0.8157 | 99933
33400 | Nassau County, New York | 5380 | 1.2760 | 1.2760 | 35004
33420 | New York County, New York | 5600 | 1.3465 | 1.3185 | 35644
33500 | Niagara County, New York | 1280 | 0.8889 | 0.8889 | 15380
33510 | Oneida County, New York | 8680 | 0.8293 | 0.8293 | 46540
33520 | Onondaga County, New York | 8160 | 0.9499 | 0.9581 | 45060
33530 | Ontario County, New York | 6840 | 0.9044 | 0.9115 | 40380
33540 | Orange County, New York | 5660 | 1.1218 | 1.0766 | 39100
33550 | Orleans County, New York | 6840 | 0.9044 | 0.9115 | 40380
33560 | Oswego County, New York | 8160 | 0.9499 | 0.9581 | 45060
33570 | Otsego County, New York | 33 | 0.8395 | 0.8157 | 99933
33580 | Putnam County, New York | 5600 | 1.3465 | 1.3185 | 35644
33590 | Queens County, New York | 5600 | 1.3465 | 1.3185 | 35644
33600 | Rensselaer County, New York | 0160 | 0.8518 | 0.8545 | 10580
33610 | Richmond County, New York | 5600 | 1.3465 | 1.3185 | 35644
33620 | Rockland County, New York | 5600 | 1.3465 | 1.3185 | 35644
33630 | St Lawrence County, New York | 33 | 0.8395 | 0.8157 | 99933
33640 | Saratoga County, New York | 0160 | 0.8518 | 0.8545 | 10580
33650 | Schenectady County, New York | 0160 | 0.8518 | 0.8545 | 10580
33660 | Schoharie County, New York | 0160 | 0.8518 | 0.8545 | 10580
33670 | Schuyler County, New York | 33 | 0.8395 | 0.8157 | 99933
33680 | Seneca County, New York | 33 | 0.8395 | 0.8157 | 99933
33690 | Steuben County, New York | 33 | 0.8395 | 0.8157 | 99933
33700 | Suffolk County, New York | 5380 | 1.2760 | 1.2760 | 35004
33710 | Sullivan County, New York | 33 | 0.8395 | 0.8157 | 99933
33720 | Tioga County, New York | 0960 | 0.8571 | 0.8571 | 13780
33730 | Tompkins County, New York | 33 | 0.8395 | 0.9803 | 27060
33740 | Ulster County, New York | 33 | 0.8395 | 0.9257 | 28740
33750 | Warren County, New York | 2975 | 0.8567 | 0.8567 | 24020
33760 | Washington County, New York | 2975 | 0.8567 | 0.8567 | 24020
33770 | Wayne County, New York | 6840 | 0.9044 | 0.9115 | 40380
33800 | Westchester County, New York | 5600 | 1.3465 | 1.3185 | 35644
33900 | Wyoming County, New York | 33 | 0.8395 | 0.8157 | 99933
33910 | Yates County, New York | 33 | 0.8395 | 0.8157 | 99933
34000 | Alamance County, N Carolina | 3120 | 0.9027 | 0.8914 | 15500
34010 | Alexander County, N Carolina | 3290 | 0.8922 | 0.8922 | 25860
34020 | Alleghany County, N Carolina | 34 | 0.8490 | 0.8567 | 99934
34030 | Anson County, N Carolina | 34 | 0.8490 | 0.9760 | 16740
34040 | Ashe County, N Carolina | 34 | 0.8490 | 0.8567 | 99934
34050 | Avery County, N Carolina | 34 | 0.8490 | 0.8567 | 99934
34060 | Beaufort County, N Carolina | 34 | 0.8490 | 0.8567 | 99934
34070 | Bertie County, N Carolina | 34 | 0.8490 | 0.8567 | 99934
34080 | Bladen County, N Carolina | 34 | 0.8490 | 0.8567 | 99934
34090 | Brunswick County, N Carolina | 9200 | 0.9592 | 0.9592 | 48900
34100 | Buncombe County, N Carolina | 0480 | 0.9747 | 0.9294 | 11700
34110 | Burke County, N Carolina | 3290 | 0.8922 | 0.8922 | 25860
34120 | Cabarrus County, N Carolina | 1520 | 0.9725 | 0.9760 | 16740
34130 | Caldwell County, N Carolina | 3290 | 0.8922 | 0.8922 | 25860
34140 | Camden County, N Carolina | 34 | 0.8490 | 0.8567 | 99934
34150 | Carteret County, N Carolina | 34 | 0.8490 | 0.8567 | 99934
34160 | Caswell County, N Carolina | 34 | 0.8490 | 0.8567 | 99934
34170 | Catawba County, N Carolina | 3290 | 0.8922 | 0.8922 | 25860
34180 | Chatham County, N Carolina | 6640 | 1.0087 | 1.0303 | 20500
34190 | Cherokee County, N Carolina | 34 | 0.8490 | 0.8567 | 99934
34200 | Chowan County, N Carolina | 34 | 0.8490 | 0.8567 | 99934
34210 | Clay County, N Carolina | 34 | 0.8490 | 0.8567 | 99934
34220 | Cleveland County, N Carolina | 34 | 0.8490 | 0.8567 | 99934
34230 | Columbus County, N Carolina | 34 | 0.8490 | 0.8567 | 99934
34240 | Craven County, N Carolina | 34 | 0.8490 | 0.8567 | 99934
34250 | Cumberland County, N Carolina | 2560 | 0.9426 | 0.9426 | 22180
34251 | Currituck County, N Carolina | 5720 | 0.8808 | 0.8808 | 47260
34270 | Dare County, N Carolina | 34 | 0.8490 | 0.8567 | 99934
34280 | Davidson County, N Carolina | 3120 | 0.9027 | 0.8567 | 99934
34290 | Davie County, N Carolina | 3120 | 0.9027 | 0.8953 | 49180
34300 | Duplin County, N Carolina | 34 | 0.8490 | 0.8567 | 99934
34310 | Durham County, N Carolina | 6640 | 1.0087 | 1.0303 | 20500
34320 | Edgecombe County, N Carolina | 6895 | 0.8924 | 0.8924 | 40580
34330 | Forsyth County, N Carolina | 3120 | 0.9027 | 0.8953 | 49180
34340 | Franklin County, N Carolina | 6640 | 1.0087 | 0.9733 | 39580
34350 | Gaston County, N Carolina | 1520 | 0.9725 | 0.9760 | 16740
34360 | Gates County, N Carolina | 34 | 0.8490 | 0.8567 | 99934
34370 | Graham County, N Carolina | 34 | 0.8490 | 0.8567 | 99934
34380 | Granville County, N Carolina | 34 | 0.8490 | 0.8567 | 99934
34390 | Greene County, N Carolina | 34 | 0.8490 | 0.9434 | 27480
34400 | Guilford County, N Carolina | 3120 | 0.9027 | 0.9113 | 27660
34410 | Halifax County, N Carolina | 34 | 0.8490 | 0.8567 | 99934
34420 | Harnett County, N Carolina | 34 | 0.8490 | 0.8567 | 99934
34430 | Haywood County, N Carolina | 34 | 0.8490 | 0.9294 | 11700
34440 | Henderson County, N Carolina | 34 | 0.8490 | 0.9294 | 11700
34450 | Hertford County, N Carolina | 34 | 0.8490 | 0.8567 | 99934
34460 | Hoke County, N Carolina | 34 | 0.8490 | 0.9426 | 22180
34470 | Hyde County, N Carolina | 34 | 0.8490 | 0.8567 | 99934
34480 | Iredell County, N Carolina | 34 | 0.8490 | 0.8567 | 99934
34490 | Jackson County, N Carolina | 34 | 0.8490 | 0.8567 | 99934
34500 | Johnston County, N Carolina | 6640 | 1.0087 | 0.9733 | 39580
34510 | Jones County, N Carolina | 34 | 0.8490 | 0.8567 | 99934
34520 | Lee County, N Carolina | 34 | 0.8490 | 0.8567 | 99934
34530 | Lenoir County, N Carolina | 34 | 0.8490 | 0.8567 | 99934
34540 | Lincoln County, N Carolina | 1520 | 0.9725 | 0.8567 | 99934
34550 | McDowell County, N Carolina | 34 | 0.8490 | 0.8567 | 99934
34560 | Macon County, N Carolina | 34 | 0.8490 | 0.8567 | 99934
34570 | Madison County, N Carolina | 0480 | 0.9747 | 0.9294 | 11700
34580 | Martin County, N Carolina | 34 | 0.8490 | 0.8567 | 99934
34590 | Mecklenburg County, N Carolina | 1520 | 0.9725 | 0.9760 | 16740
34600 | Mitchell County, N Carolina | 34 | 0.8490 | 0.8567 | 99934
34610 | Montgomery County, N Carolina | 34 | 0.8490 | 0.8567 | 99934
34620 | Moore County, N Carolina | 34 | 0.8490 | 0.8567 | 99934
34630 | Nash County, N Carolina | 6895 | 0.8924 | 0.8924 | 40580
34640 | New Hanover County, N Carolina | 9200 | 0.9592 | 0.9592 | 48900
34650 | Northampton County, N Carolina | 34 | 0.8490 | 0.8567 | 99934
34660 | Onslow County, N Carolina | 3605 | 0.8244 | 0.8244 | 27340
34670 | Orange County, N Carolina | 6640 | 1.0087 | 1.0303 | 20500
34680 | Pamlico County, N Carolina | 34 | 0.8490 | 0.8567 | 99934
34690 | Pasquotank County, N Carolina | 34 | 0.8490 | 0.8567 | 99934
34700 | Pender County, N Carolina | 34 | 0.8490 | 0.9592 | 48900
34710 | Perquimans County, N Carolina | 34 | 0.8490 | 0.8567 | 99934
34720 | Person County, N Carolina | 34 | 0.8490 | 1.0303 | 20500
34730 | Pitt County, N Carolina | 3150 | 0.9434 | 0.9434 | 27480
34740 | Polk County, N Carolina | 34 | 0.8490 | 0.8567 | 99934
34750 | Randolph County, N Carolina | 3120 | 0.9027 | 0.9113 | 27660
34760 | Richmond County, N Carolina | 34 | 0.8490 | 0.8567 | 99934
34770 | Robeson County, N Carolina | 34 | 0.8490 | 0.8567 | 99934
34780 | Rockingham County, N Carolina | 34 | 0.8490 | 0.9113 | 27660
34790 | Rowan County, N Carolina | 1520 | 0.9725 | 0.8567 | 99934
34800 | Rutherford County, N Carolina | 34 | 0.8490 | 0.8567 | 99934
34810 | Sampson County, N Carolina | 34 | 0.8490 | 0.8567 | 99934
34820 | Scotland County, N Carolina | 34 | 0.8490 | 0.8567 | 99934
34830 | Stanly County, N Carolina | 1520 | 0.9725 | 0.9760 | 16740
34840 | Stokes County, N Carolina | 3120 | 0.9027 | 0.8953 | 49180
34850 | Surry County, N Carolina | 34 | 0.8490 | 0.8567 | 99934
34860 | Swain County, N Carolina | 34 | 0.8490 | 0.8567 | 99934
34870 | Transylvania County, N Carolina | 34 | 0.8490 | 0.8567 | 99934
34880 | Tyrrell County, N Carolina | 34 | 0.8490 | 0.8567 | 99934
34890 | Union County, N Carolina | 1520 | 0.9725 | 0.9760 | 16740
34900 | Vance County, N Carolina | 34 | 0.8490 | 0.8567 | 99934
34910 | Wake County, N Carolina | 6640 | 1.0087 | 0.9733 | 39580
34920 | Warren County, N Carolina | 34 | 0.8490 | 0.8567 | 99934
34930 | Washington County, N Carolina | 34 | 0.8490 | 0.8567 | 99934
34940 | Watauga County, N Carolina | 34 | 0.8490 | 0.8567 | 99934
34950 | Wayne County, N Carolina | 2980 | 0.8784 | 0.8784 | 24140
34960 | Wilkes County, N Carolina | 34 | 0.8490 | 0.8567 | 99934
34970 | Wilson County, N Carolina | 34 | 0.8490 | 0.8567 | 99934
34980 | Yadkin County, N Carolina | 3120 | 0.9027 | 0.8953 | 49180
34981 | Yancey County, N Carolina | 34 | 0.8490 | 0.8567 | 99934
35000 | Adams County, N Dakota | 35 | 0.7268 | 0.7268 | 99935
35010 | Barnes County, N Dakota | 35 | 0.7268 | 0.7268 | 99935
35020 | Benson County, N Dakota | 35 | 0.7268 | 0.7268 | 99935
35030 | Billings County, N Dakota | 35 | 0.7268 | 0.7268 | 99935
35040 | Bottineau County, N Dakota | 35 | 0.7268 | 0.7268 | 99935
35050 | Bowman County, N Dakota | 35 | 0.7268 | 0.7268 | 99935
35060 | Burke County, N Dakota | 35 | 0.7268 | 0.7268 | 99935
35070 | Burleigh County, N Dakota | 1010 | 0.7519 | 0.7519 | 13900
35080 | Cass County, N Dakota | 2520 | 0.8495 | 0.8495 | 22020
35090 | Cavalier County, N Dakota | 35 | 0.7268 | 0.7268 | 99935
35100 | Dickey County, N Dakota | 35 | 0.7268 | 0.7268 | 99935
35110 | Divide County, N Dakota | 35 | 0.7268 | 0.7268 | 99935
35120 | Dunn County, N Dakota | 35 | 0.7268 | 0.7268 | 99935
35130 | Eddy County, N Dakota | 35 | 0.7268 | 0.7268 | 99935
35140 | Emmons County, N Dakota | 35 | 0.7268 | 0.7268 | 99935
35150 | Foster County, N Dakota | 35 | 0.7268 | 0.7268 | 99935
35160 | Golden Valley County, N Dakota | 35 | 0.7268 | 0.7268 | 99935
35170 | Grand Forks County, N Dakota | 2985 | 1.1516 | 1.1516 | 24220
35180 | Grant County, N Dakota | 35 | 0.7268 | 0.7268 | 99935
35190 | Griggs County, N Dakota | 35 | 0.7268 | 0.7268 | 99935
35200 | Hettinger County, N Dakota | 35 | 0.7268 | 0.7268 | 99935
35210 | Kidder County, N Dakota | 35 | 0.7268 | 0.7268 | 99935
35220 | La Moure County, N Dakota | 35 | 0.7268 | 0.7268 | 99935
35230 | Logan County, N Dakota | 35 | 0.7268 | 0.7268 | 99935
35240 | Mc Henry County, N Dakota | 35 | 0.7268 | 0.7268 | 99935
35250 | Mc Intosh County, N Dakota | 35 | 0.7268 | 0.7268 | 99935
35260 | Mc Kenzie County, N Dakota | 35 | 0.7268 | 0.7268 | 99935
35270 | Mc Lean County, N Dakota | 35 | 0.7268 | 0.7268 | 99935
35280 | Mercer County, N Dakota | 35 | 0.7268 | 0.7268 | 99935
35290 | Morton County, N Dakota | 1010 | 0.7519 | 0.7519 | 13900
35300 | Mountrail County, N Dakota | 35 | 0.7268 | 0.7268 | 99935
35310 | Nelson County, N Dakota | 35 | 0.7268 | 0.7268 | 99935
35320 | Oliver County, N Dakota | 35 | 0.7268 | 0.7268 | 99935
35330 | Pembina County, N Dakota | 35 | 0.7268 | 0.7268 | 99935
35340 | Pierce County, N Dakota | 35 | 0.7268 | 0.7268 | 99935
35350 | Ramsey County, N Dakota | 35 | 0.7268 | 0.7268 | 99935
35360 | Ransom County, N Dakota | 35 | 0.7268 | 0.7268 | 99935
35370 | Renville County, N Dakota | 35 | 0.7268 | 0.7268 | 99935
35380 | Richland County, N Dakota | 35 | 0.7268 | 0.7268 | 99935
35390 | Rolette County, N Dakota | 35 | 0.7268 | 0.7268 | 99935
35400 | Sargent County, N Dakota | 35 | 0.7268 | 0.7268 | 99935
35410 | Sheridan County, N Dakota | 35 | 0.7268 | 0.7268 | 99935
35420 | Sioux County, N Dakota | 35 | 0.7268 | 0.7268 | 99935
35430 | Slope County, N Dakota | 35 | 0.7268 | 0.7268 | 99935
35440 | Stark County, N Dakota | 35 | 0.7268 | 0.7268 | 99935
35450 | Steele County, N Dakota | 35 | 0.7268 | 0.7268 | 99935
35460 | Stutsman County, N Dakota | 35 | 0.7268 | 0.7268 | 99935
35470 | Towner County, N Dakota | 35 | 0.7268 | 0.7268 | 99935
35480 | Traill County, N Dakota | 35 | 0.7268 | 0.7268 | 99935
35490 | Walsh County, N Dakota | 35 | 0.7268 | 0.7268 | 99935
35500 | Ward County, N Dakota | 35 | 0.7268 | 0.7268 | 99935
35510 | Wells County, N Dakota | 35 | 0.7268 | 0.7268 | 99935
35520 | Williams County, N Dakota | 35 | 0.7268 | 0.7268 | 99935
36000 | Adams County, Ohio | 36 | 0.8886 | 0.8786 | 99936
36010 | Allen County, Ohio | 4320 | 0.9128 | 0.9234 | 30620
36020 | Ashland County, Ohio | 36 | 0.8886 | 0.8786 | 99936
36030 | Ashtabula County, Ohio | 1680 | 0.9174 | 0.8786 | 99936
36040 | Athens County, Ohio | 36 | 0.8886 | 0.8786 | 99936
36050 | Auglaize County, Ohio | 4320 | 0.9128 | 0.8786 | 99936
36060 | Belmont County, Ohio | 9000 | 0.7168 | 0.7168 | 48540
36070 | Brown County, Ohio | 1640 | 0.9742 | 0.9623 | 17140
36080 | Butler County, Ohio | 3200 | 0.8960 | 0.9623 | 17140
36090 | Carroll County, Ohio | 1320 | 0.8944 | 0.8944 | 15940
36100 | Champaign County, Ohio | 36 | 0.8886 | 0.8786 | 99936
36110 | Clark County, Ohio | 2000 | 0.8989 | 0.8404 | 44220
36120 | Clermont County, Ohio | 1640 | 0.9742 | 0.9623 | 17140
36130 | Clinton County, Ohio | 36 | 0.8886 | 0.8786 | 99936
36140 | Columbiana County, Ohio | 9320 | 0.8857 | 0.8786 | 99936
36150 | Coshocton County, Ohio | 36 | 0.8886 | 0.8786 | 99936
36160 | Crawford County, Ohio | 4800 | 0.8886 | 0.8786 | 99936
36170 | Cuyahoga County, Ohio | 1680 | 0.9174 | 0.9204 | 17460
36190 | Darke County, Ohio | 36 | 0.8886 | 0.8786 | 99936
36200 | Defiance County, Ohio | 36 | 0.8886 | 0.8786 | 99936
36210 | Delaware County, Ohio | 1840 | 0.9864 | 0.9850 | 18140
36220 | Erie County, Ohio | 36 | 0.8886 | 0.9025 | 41780
36230 | Fairfield County, Ohio | 1840 | 0.9864 | 0.9850 | 18140
36240 | Fayette County, Ohio | 36 | 0.8886 | 0.8786 | 99936
36250 | Franklin County, Ohio | 1840 | 0.9864 | 0.9850 | 18140
36260 | Fulton County, Ohio | 8400 | 0.9584 | 0.9584 | 45780
36270 | Gallia County, Ohio | 36 | 0.8886 | 0.8786 | 99936
36280 | Geauga County, Ohio | 1680 | 0.9174 | 0.9204 | 17460
36290 | Greene County, Ohio | 2000 | 0.8989 | 0.9073 | 19380
36300 | Guernsey County, Ohio | 36 | 0.8886 | 0.8786 | 99936
36310 | Hamilton County, Ohio | 1640 | 0.9742 | 0.9623 | 17140
36330 | Hancock County, Ohio | 36 | 0.8886 | 0.8786 | 99936
36340 | Hardin County, Ohio | 36 | 0.8886 | 0.8786 | 99936
36350 | Harrison County, Ohio | 36 | 0.8886 | 0.8786 | 99936
36360 | Henry County, Ohio | 36 | 0.8886 | 0.8786 | 99936
36370 | Highland County, Ohio | 36 | 0.8886 | 0.8786 | 99936
36380 | Hocking County, Ohio | 36 | 0.8886 | 0.8786 | 99936
36390 | Holmes County, Ohio | 36 | 0.8886 | 0.8786 | 99936
36400 | Huron County, Ohio | 36 | 0.8886 | 0.8786 | 99936
36410 | Jackson County, Ohio | 36 | 0.8886 | 0.8786 | 99936
36420 | Jefferson County, Ohio | 8080 | 0.7827 | 0.7827 | 48260
36430 | Knox County, Ohio | 36 | 0.8886 | 0.8786 | 99936
36440 | Lake County, Ohio | 1680 | 0.9174 | 0.9204 | 17460
36450 | Lawrence County, Ohio | 3400 | 0.9486 | 0.9486 | 26580
36460 | Licking County, Ohio | 1840 | 0.9864 | 0.9850 | 18140
36470 | Logan County, Ohio | 36 | 0.8886 | 0.8786 | 99936
36480 | Lorain County, Ohio | 1680 | 0.9174 | 0.9204 | 17460
36490 | Lucas County, Ohio | 8400 | 0.9584 | 0.9584 | 45780
36500 | Madison County, Ohio | 1840 | 0.9864 | 0.9850 | 18140
36510 | Mahoning County, Ohio | 9320 | 0.8857 | 0.8611 | 49660
36520 | Marion County, Ohio | 36 | 0.8886 | 0.8786 | 99936
36530 | Medina County, Ohio | 1680 | 0.9174 | 0.9204 | 17460
36540 | Meigs County, Ohio | 36 | 0.8886 | 0.8786 | 99936
36550 | Mercer County, Ohio | 36 | 0.8886 | 0.8786 | 99936
36560 | Miami County, Ohio | 2000 | 0.8989 | 0.9073 | 19380
36570 | Monroe County, Ohio | 36 | 0.8886 | 0.8786 | 99936
36580 | Montgomery County, Ohio | 2000 | 0.8989 | 0.9073 | 19380
36590 | Morgan County, Ohio | 36 | 0.8886 | 0.8786 | 99936
36600 | Morrow County, Ohio | 36 | 0.8886 | 0.9850 | 18140
36610 | Muskingum County, Ohio | 36 | 0.8886 | 0.8786 | 99936
36620 | Noble County, Ohio | 36 | 0.8886 | 0.8786 | 99936
36630 | Ottawa County, Ohio | 36 | 0.8886 | 0.9584 | 45780
36640 | Paulding County, Ohio | 36 | 0.8886 | 0.8786 | 99936
36650 | Perry County, Ohio | 36 | 0.8886 | 0.8786 | 99936
36660 | Pickaway County, Ohio | 1840 | 0.9864 | 0.9850 | 18140
36670 | Pike County, Ohio | 36 | 0.8886 | 0.8786 | 99936
36680 | Portage County, Ohio | 0080 | 0.8991 | 0.8991 | 10420
36690 | Preble County, Ohio | 36 | 0.8886 | 0.9073 | 19380
36700 | Putnam County, Ohio | 36 | 0.8886 | 0.8786 | 99936
36710 | Richland County, Ohio | 4800 | 0.8886 | 0.8887 | 31900
36720 | Ross County, Ohio | 36 | 0.8886 | 0.8786 | 99936
36730 | Sandusky County, Ohio | 36 | 0.8886 | 0.8786 | 99936
36740 | Scioto County, Ohio | 36 | 0.8886 | 0.8786 | 99936
36750 | Seneca County, Ohio | 36 | 0.8886 | 0.8786 | 99936
36760 | Shelby County, Ohio | 36 | 0.8886 | 0.8786 | 99936
36770 | Stark County, Ohio | 1320 | 0.8944 | 0.8944 | 15940
36780 | Summit County, Ohio | 0080 | 0.8991 | 0.8991 | 10420
36790 | Trumbull County, Ohio | 9320 | 0.8857 | 0.8611 | 49660
36800 | Tuscarawas County, Ohio | 36 | 0.8886 | 0.8786 | 99936
36810 | Union County, Ohio | 36 | 0.8886 | 0.9850 | 18140
36820 | Van Wert County, Ohio | 36 | 0.8886 | 0.8786 | 99936
36830 | Vinton County, Ohio | 36 | 0.8886 | 0.8786 | 99936
36840 | Warren County, Ohio | 1640 | 0.9742 | 0.9623 | 17140
36850 | Washington County, Ohio | 6020 | 0.8278 | 0.8278 | 37620
36860 | Wayne County, Ohio | 36 | 0.8886 | 0.8786 | 99936
36870 | Williams County, Ohio | 36 | 0.8886 | 0.8786 | 99936
36880 | Wood County, Ohio | 8400 | 0.9584 | 0.9584 | 45780
36890 | Wyandot County, Ohio | 36 | 0.8886 | 0.8786 | 99936
37000 | Adair County, Oklahoma | 37 | 0.7450 | 0.758 | 999937
37010 | Alfalfa County, Oklahoma | 37 | 0.7450 | 0.758 | 999937
37020 | Atoka County, Oklahoma | 37 | 0.7450 | 0.758 | 999937
37030 | Beaver County, Oklahoma | 37 | 0.7450 | 0.758 | 999937
37040 | Beckham County, Oklahoma | 37 | 0.7450 | 0.758 | 999937
37050 | Blaine County, Oklahoma | 37 | 0.7450 | 0.758 | 999937
37060 | Bryan County, Oklahoma | 37 | 0.7450 | 0.758 | 999937
37070 | Caddo County, Oklahoma | 37 | 0.7450 | 0.758 | 999937
37080 | Canadian County, Oklahoma | 5880 | 0.9034 | 0.9040 | 36420
37090 | Carter County, Oklahoma | 37 | 0.7450 | 0.758 | 999937
37100 | Cherokee County, Oklahoma | 37 | 0.7450 | 0.758 | 999937
37110 | Choctaw County, Oklahoma | 37 | 0.7450 | 0.758 | 999937
37120 | Cimarron County, Oklahoma | 37 | 0.7450 | 0.758 | 999937
37130 | Cleveland County, Oklahoma | 5880 | 0.9034 | 0.9040 | 36420
37140 | Coal County, Oklahoma | 37 | 0.7450 | 0.758 | 999937
37150 | Comanche County, Oklahoma | 4200 | 0.7880 | 0.7880 | 30020
37160 | Cotton County, Oklahoma | 37 | 0.7450 | 0.758 | 999937
37170 | Craig County, Oklahoma | 37 | 0.7450 | 0.758 | 999937
37180 | Creek County, Oklahoma | 8560 | 0.8322 | 0.8286 | 46140
37190 | Custer County, Oklahoma | 37 | 0.7450 | 0.758 | 999937
37200 | Delaware County, Oklahoma | 37 | 0.7450 | 0.758 | 999937
37210 | Dewey County, Oklahoma | 37 | 0.7450 | 0.758 | 999937
37220 | Ellis County, Oklahoma | 37 | 0.7450 | 0.758 | 999937
37230 | Garfield County, Oklahoma | 2340 | 0.8675 | 0.758 | 999937
37240 | Garvin County, Oklahoma | 37 | 0.7450 | 0.758 | 999937
37250 | Grady County, Oklahoma | 37 | 0.7450 | 0.9040 | 36420
37260 | Grant County, Oklahoma | 37 | 0.7450 | 0.758 | 999937
37270 | Greer County, Oklahoma | 37 | 0.7450 | 0.758 | 999937
37280 | Harmon County, Oklahoma | 37 | 0.7450 | 0.758 | 999937
37290 | Harper County, Oklahoma | 37 | 0.7450 | 0.758 | 999937
37300 | Haskell County, Oklahoma | 37 | 0.7450 | 0.758 | 999937
37310 | Hughes County, Oklahoma | 37 | 0.7450 | 0.758 | 999937
37320 | Jackson County, Oklahoma | 37 | 0.7450 | 0.758 | 999937
37330 | Jefferson County, Oklahoma | 37 | 0.7450 | 0.758 | 999937
37340 | Johnston County, Oklahoma | 37 | 0.7450 | 0.758 | 999937
37350 | Kay County, Oklahoma | 37 | 0.7450 | 0.758 | 999937
37360 | Kingfisher County, Oklahoma | 37 | 0.7450 | 0.758 | 999937
37370 | Kiowa County, Oklahoma | 37 | 0.7450 | 0.758 | 999937
37380 | Latimer County, Oklahoma | 37 | 0.7450 | 0.758 | 999937
37390 | Le Flore County, Oklahoma | 37 | 0.7450 | 0.8214 | 22900
37400 | Lincoln County, Oklahoma | 37 | 0.7450 | 0.9040 | 36420
37410 | Logan County, Oklahoma | 5880 | 0.9034 | 0.9040 | 36420
37420 | Love County, Oklahoma | 37 | 0.7450 | 0.758 | 999937
37430 | Mc Clain County, Oklahoma | 5880 | 0.9034 | 0.9040 | 36420
37440 | McCurtain County, Oklahoma | 37 | 0.7450 | 0.758 | 999937
37450 | McIntosh County, Oklahoma | 37 | 0.7450 | 0.758 | 999937
37460 | Major County, Oklahoma | 37 | 0.7450 | 0.758 | 999937
37470 | Marshall County, Oklahoma | 37 | 0.7450 | 0.758 | 999937
37480 | Mayes County, Oklahoma | 37 | 0.7450 | 0.758 | 999937
37490 | Murray County, Oklahoma | 37 | 0.7450 | 0.758 | 999937
37500 | Muskogee County, Oklahoma | 37 | 0.7450 | 0.758 | 999937
37510 | Noble County, Oklahoma | 37 | 0.7450 | 0.758 | 999937
37520 | Nowata County, Oklahoma | 37 | 0.7450 | 0.758 | 999937
37530 | Okfuskee County, Oklahoma | 37 | 0.7450 | 0.758 | 999937
37540 | Oklahoma County, Oklahoma | 5880 | 0.9034 | 0.9040 | 36420
37550 | Okmulgee County, Oklahoma | 37 | 0.7450 | 0.8286 | 46140
37560 | Osage County, Oklahoma | 8560 | 0.8322 | 0.8286 | 46140
37570 | Ottawa County, Oklahoma | 37 | 0.7450 | 0.758 | 999937
37580 | Pawnee County, Oklahoma | 37 | 0.7450 | 0.8286 | 46140
37590 | Payne County, Oklahoma | 37 | 0.7450 | 0.758 | 999937
37600 | Pittsburg County, Oklahoma | 37 | 0.7450 | 0.758 | 999937
37610 | Pontotoc County, Oklahoma | 37 | 0.7450 | 0.758 | 999937
37620 | Pottawatomie County, Oklahoma | 5880 | 0.9034 | 0.758 | 999937
37630 | Pushmataha County, Oklahoma | 37 | 0.7450 | 0.758 | 999937
37640 | Roger Mills County, Oklahoma | 37 | 0.7450 | 0.758 | 999937
37650 | Rogers County, Oklahoma | 8560 | 0.8322 | 0.8286 | 46140
37660 | Seminole County, Oklahoma | 37 | 0.7450 | 0.758 | 999937
37670 | Sequoyah County, Oklahoma | 2720 | 0.8229 | 0.8214 | 22900
37680 | Stephens County, Oklahoma | 37 | 0.7450 | 0.758 | 999937
37690 | Texas County, Oklahoma | 37 | 0.7450 | 0.758 | 999937
37700 | Tillman County, Oklahoma | 37 | 0.7450 | 0.758 | 99937
37710 | Tulsa County, Oklahoma | 8560 | 0.8322 | 0.8286 | 46140
37720 | Wagoner County, Oklahoma | 8560 | 0.8322 | 0.8286 | 46140
37730 | Washington County, Oklahoma | 37 | 0.7450 | 0.758 | 99937
37740 | Washita County, Oklahoma | 37 | 0.7450 | 0.758 | 99937
37750 | Woods County, Oklahoma | 37 | 0.7450 | 0.758 | 99937
37760 | Woodward County, Oklahoma | 37 | 0.7450 | 0.758 | 99937
38000 | Baker County, Oregon | 38 | 1.0057 | 0.9830 | 99938
38010 | Benton County, Oregon | 1890 | 1.0739 | 1.0739 | 18700
38020 | Clackamas County, Oregon | 6440 | 1.1260 | 1.1260 | 38900
38030 | Clatsop County, Oregon | 38 | 1.0057 | 0.9830 | 99938
38040 | Columbia County, Oregon | 6440 | 1.1260 | 1.1260 | 38900
38050 | Coos County, Oregon | 38 | 1.0057 | 0.9830 | 99938
38060 | Crook County, Oregon | 38 | 1.0057 | 0.9830 | 99938
38070 | Curry County, Oregon | 38 | 1.0057 | 0.9830 | 99938
38080 | Deschutes County, Oregon | 38 | 1.0057 | 1.0796 | 13460
38090 | Douglas County, Oregon | 38 | 1.0057 | 0.9830 | 99938
38100 | Gilliam County, Oregon | 38 | 1.0057 | 0.9830 | 99938
38110 | Grant County, Oregon | 38 | 1.0057 | 0.9830 | 99938
38120 | Harney County, Oregon | 38 | 1.0057 | 0.9830 | 99938
38130 | Hood River County, Oregon | 38 | 1.0057 | 0.9830 | 99938
38140 | Jackson County, Oregon | 4890 | 1.0235 | 1.0235 | 32780
38150 | Jefferson County, Oregon | 38 | 1.0057 | 0.9830 | 99938
38160 | Josephine County, Oregon | 38 | 1.0057 | 0.9830 | 99938
38170 | Klamath County, Oregon | 38 | 1.0057 | 0.9830 | 99938
38180 | Lake County, Oregon | 38 | 1.0057 | 0.9830 | 99938
38190 | Lane County, Oregon | 2400 | 1.0829 | 1.0829 | 21660
38200 | Lincoln County, Oregon | 38 | 1.0057 | 0.9830 | 99938
38210 | Linn County, Oregon | 38 | 1.0057 | 0.9830 | 99938
38220 | Malheur County, Oregon | 38 | 1.0057 | 0.9830 | 99938
38230 | Marion County, Oregon | 7080 | 1.0452 | 1.0452 | 41420
38240 | Morrow County, Oregon | 38 | 1.0057 | 0.9830 | 99938
38250 | Multnomah County, Oregon | 6440 | 1.1260 | 1.1260 | 38900
38260 | Polk County, Oregon | 7080 | 1.0452 | 1.0452 | 41420
38270 | Sherman County, Oregon | 38 | 1.0057 | 0.9830 | 99938
38280 | Tillamook County, Oregon | 38 | 1.0057 | 0.9830 | 99938
38290 | Umatilla County, Oregon | 38 | 1.0057 | 0.9830 | 99938
38300 | Union County, Oregon | 38 | 1.0057 | 0.9830 | 99938
38310 | Wallowa County, Oregon | 38 | 1.0057 | 0.9830 | 99938
38320 | Wasco County, Oregon | 38 | 1.0057 | 0.9830 | 99938
38330 | Washington County, Oregon | 6440 | 1.1260 | 1.1260 | 38900
38340 | Wheeler County, Oregon | 38 | 1.0057 | 0.9830 | 99938
38350 | Yamhill County, Oregon | 6440 | 1.1260 | 1.1260 | 38900
39000 | Adams County, Pennsylvania | 39 | 0.8331 | 0.8302 | 99939
39010 | Allegheny County, Pennsylvania | 6280 | 0.8868 | 0.8853 | 38300
39070 | Armstrong County, Pennsylvania | 39 | 0.8331 | 0.8853 | 38300
39080 | Beaver County, Pennsylvania | 6280 | 0.8868 | 0.8853 | 38300
39100 | Bedford County, Pennsylvania | 39 | 0.8331 | 0.8302 | 99939
39110 | Berks County, Pennsylvania | 6680 | 0.9696 | 0.9696 | 39740
39120 | Blair County, Pennsylvania | 0280 | 0.8953 | 0.8953 | 11020
39130 | Bradford County, Pennsylvania | 39 | 0.8331 | 0.8302 | 99939
39140 | Bucks County, Pennsylvania | 6160 | 1.0926 | 1.1040 | 37964
39150 | Butler County, Pennsylvania | 6280 | 0.8868 | 0.8853 | 38300
39160 | Cambria County, Pennsylvania | 3680 | 0.8094 | 0.8362 | 27780
39180 | Cameron County, Pennsylvania | 39 | 0.8331 | 0.8302 | 99939
39190 | Carbon County, Pennsylvania | 0240 | 0.9855 | 0.9828 | 10900
39200 | Centre County, Pennsylvania | 8050 | 0.8364 | 0.8364 | 44300
39210 | Chester County, Pennsylvania | 6160 | 1.0926 | 1.1040 | 37964
39220 | Clarion County, Pennsylvania | 39 | 0.8331 | 0.8302 | 99939
39230 | Clearfield County, Pennsylvania | 39 | 0.8331 | 0.8302 | 99939
39240 | Clinton County, Pennsylvania | 39 | 0.8331 | 0.8302 | 99939
39250 | Columbia County, Pennsylvania | 7560 | 0.8533 | 0.8302 | 99939
39260 | Crawford County, Pennsylvania | 39 | 0.8331 | 0.8302 | 99939
39270 | Cumberland County, Pennsylvania | 3240 | 0.9242 | 0.9322 | 25420
39280 | Dauphin County, Pennsylvania | 3240 | 0.9242 | 0.9322 | 25420
39290 | Delaware County, Pennsylvania | 6160 | 1.0926 | 1.1040 | 37964
39310 | Elk County, Pennsylvania | 39 | 0.8331 | 0.8302 | 99939
39320 | Erie County, Pennsylvania | 2360 | 0.8746 | 0.8746 | 21500
39330 | Fayette County, Pennsylvania | 6280 | 0.8868 | 0.8853 | 38300
39340 | Forest County, Pennsylvania | 39 | 0.8331 | 0.8302 | 99939
39350 | Franklin County, Pennsylvania | 39 | 0.8331 | 0.8302 | 99939
39360 | Fulton County, Pennsylvania | 39 | 0.8331 | 0.8302 | 99939
39370 | Greene County, Pennsylvania | 39 | 0.8331 | 0.8302 | 99939
39380 | Huntingdon County, Pennsylvania | 39 | 0.8331 | 0.8302 | 99939
39390 | Indiana County, Pennsylvania | 39 | 0.8331 | 0.8302 | 99939
39400 | Jefferson County, Pennsylvania | 39 | 0.8331 | 0.302 | 99939
39410 | Juniata County, Pennsylvania | 39 | 0.8331 | 0.8302 | 99939
39420 | Lackawanna County, Pennsylvania | 7560 | 0.8533 | 0.8548 | 42540
39440 | Lancaster County, Pennsylvania | 4000 | 0.9704 | 0.9704 | 29540
39450 | Lawrence County, Pennsylvania | 39 | 0.8331 | 0.8302 | 99939
39460 | Lebanon County, Pennsylvania | 3240 | 0.9242 | 0.8468 | 30140
39470 | Lehigh County, Pennsylvania | 0240 | 0.9855 | 0.9828 | 10900
39480 | Luzerne County, Pennsylvania | 7560 | 0.8533 | 0.8548 | 42540
39510 | Lycoming County, Pennsylvania | 9140 | 0.8377 | 0.8377 | 48700
39520 | Mc Kean County, Pennsylvania | 39 | 0.8331 | 0.8302 | 99939
39530 | Mercer County, Pennsylvania | 7610 | 0.7801 | 0.8611 | 49660
39540 | Mifflin County, Pennsylvania | 39 | 0.8331 | 0.8302 | 99939
39550 | Monroe County, Pennsylvania | 39 | 0.8331 | 0.8302 | 99939
39560 | Montgomery County, Pennsylvania | 6160 | 1.0926 | 1.1040 | 37964
39580 | Montour County, Pennsylvania | 39 | 0.8331 | 0.8302 | 99939
39590 | Northampton County, Pennsylvania | 0240 | 0.9855 | 0.9828 | 10900
39600 | Northumberland County, Pennsylvania | 39 | 0.8331 | 0.8302 | 99939
39610 | Perry County, Pennsylvania | 3240 | 0.9242 | 0.9322 | 25420
39620 | Philadelphia County, Pennsylvania | 6160 | 1.0926 | 1.1040 | 37964
39630 | Pike County, Pennsylvania | 5660 | 1.1218 | 1.2195 | 35084
39640 | Potter County, Pennsylvania | 39 | 0.8331 | 0.8302 | 99939
39650 | Schuylkill County, Pennsylvania | 39 | 0.8331 | 0.8302 | 99939
39670 | Snyder County, Pennsylvania | 39 | 0.8331 | 0.8302 | 99939
39680 | Somerset County, Pennsylvania | 3680 | 0.8094 | 0.8302 | 99939
39690 | Sullivan County, Pennsylvania | 39 | 0.8331 | 0.8302 | 99939
39700 | Susquehanna County, Pennsylvania | 39 | 0.8331 | 0.8302 | 99939
39710 | Tioga County, Pennsylvania | 39 | 0.8331 | 0.8302 | 99939
39720 | Union County, Pennsylvania | 39 | 0.8331 | 0.8302 | 99939
39730 | Venango County, Pennsylvania | 39 | 0.8331 | 0.8302 | 99939
39740 | Warren County, Pennsylvania | 39 | 0.8331 | 0.8302 | 99939
39750 | Washington County, Pennsylvania | 6280 | 0.8868 | 0.8853 | 38300
39760 | Wayne County, Pennsylvania | 39 | 0.8331 | 0.8302 | 99939
39770 | Westmoreland County, Pennsylvania | 6280 | 0.8868 | 0.8853 | 38300
39790 | Wyoming County, Pennsylvania | 7560 | 0.8533 | 0.8548 | 42540
39800 | York County, Pennsylvania | 9280 | 0.9420 | 0.9420 | 49620
40010 | Adjuntas County, Puerto Rico | 40 | 0.3608 | 0.4047 | 99940
40020 | Aguada County, Puerto Rico | 0060 | 0.4881 | 0.4743 | 10380
40030 | Aguadilla County, Puerto Rico | 0060 | 0.4881 | 0.4743 | 10380
40040 | Aguas Buenas County, Puerto Rico | 7440 | 0.4855 | 0.4686 | 41980
40050 | Aibonito County, Puerto Rico | 40 | 0.3608 | 0.4686 | 41980
40060 | Anasco County, Puerto Rico | 4840 | 0.4246 | 0.4743 | 10380
40070 | Arecibo County, Puerto Rico | 0470 | 0.4116 | 0.4686 | 41980
40080 | Arroyo County, Puerto Rico | 40 | 0.3608 | 0.3184 | 25020
40090 | Barceloneta County, Puerto Rico | 7440 | 0.4855 | 0.4686 | 41980
40100 | Barranquitas County, Puerto Rico | 40 | 0.3608 | 0.4686 | 41980
40110 | Bayamon County, Puerto Rico | 7440 | 0.4855 | 0.4686 | 41980
40120 | Cabo Rojo County, Puerto Rico | 4840 | 0.4246 | 0.4655 | 41900
40130 | Caguas County, Puerto Rico | 1310 | 0.4020 | 0.4686 | 41980
40140 | Camuy County, Puerto Rico | 0470 | 0.4116 | 0.4686 | 41980
40145 | Canovanas County, Puerto Rico | 7440 | 0.4855 | 0.4686 | 41980
40150 | Carolina County, Puerto Rico | 7440 | 0.4855 | 0.4686 | 41980
40160 | Catano County, Puerto Rico | 7440 | 0.4855 | 0.4686 | 41980
40170 | Cayey County, Puerto Rico | 1310 | 0.4020 | 0.4686 | 41980
40180 | Ceiba County, Puerto Rico | 7440 | 0.4855 | 0.4157 | 21940
40190 | Ciales County, Puerto Rico | 40 | 0.3608 | 0.4686 | 41980
40200 | Cidra County, Puerto Rico | 1310 | 0.4020 | 0.4686 | 41980
40210 | Coamo County, Puerto Rico | 40 | 0.3608 | 0.4047 | 99940
40220 | Comerio County, Puerto Rico | 7440 | 0.4855 | 0.4686 | 41980
40230 | Corozal County, Puerto Rico | 7440 | 0.4855 | 0.4686 | 41980
40240 | Culebra County, Puerto Rico | 40 | 0.3608 | 0.4047 | 99940
40250 | Dorado County, Puerto Rico | 7440 | 0.4855 | 0.4686 | 41980
40260 | Fajardo County, Puerto Rico | 7440 | 0.4855 | 0.4157 | 21940
40265 | Florida County, Puerto Rico | 7440 | 0.4855 | 0.4686 | 41980
40270 | Guanica County, Puerto Rico | 40 | 0.3608 | 0.4413 | 49500
40280 | Guayama County, Puerto Rico | 40 | 0.3608 | 0.3184 | 25020
40290 | Guayanilla County, Puerto Rico | 6360 | 0.5091 | 0.4413 | 49500
40300 | Guaynabo County, Puerto Rico | 7440 | 0.4855 | 0.4686 | 41980
40310 | Gurabo County, Puerto Rico | 1310 | 0.4020 | 0.4686 | 41980
40320 | Hatillo County, Puerto Rico | 0470 | 0.4116 | 0.4686 | 41980
40330 | Hormigueros County, Puerto Rico | 4840 | 0.4246 | 0.4017 | 32420
40340 | Humacao County, Puerto Rico | 7440 | 0.4855 | 0.4686 | 41980
40350 | Isabela County, Puerto Rico | 40 | 0.3608 | 0.4743 | 10380
40360 | Jayuya County, Puerto Rico | 40 | 0.3608 | 0.4047 | 99940
40370 | Juana Diaz County, Puerto Rico | 6360 | 0.5091 | 0.5177 | 38660
40380 | Juncos County, Puerto Rico | 7440 | 0.4855 | 0.4686 | 41980
40390 | Lajas County, Puerto Rico | 40 | 0.3608 | 0.4655 | 41900
40400 | Lares County, Puerto Rico | 40 | 0.3608 | 0.4743 | 10380
40410 | Las Marias County, Puerto Rico | 40 | 0.3608 | 0.4047 | 99940
40420 | Las Piedras County, Puerto Rico | 7440 | 0.4855 | 0.4686 | 41980
40430 | Loiza County, Puerto Rico | 7440 | 0.4855 | 0.4686 | 41980
40440 | Luquillo County, Puerto Rico | 7440 | 0.4855 | 0.4157 | 21940
40450 | Manati County, Puerto Rico | 7440 | 0.4855 | 0.4686 | 41980
40460 | Maricao County, Puerto Rico | 40 | 0.3608 | 0.4047 | 99940
40470 | Maunabo County, Puerto Rico | 40 | 0.3608 | 0.4686 | 41980
40480 | Mayaguez County, Puerto Rico | 4840 | 0.4246 | 0.4017 | 32420
40490 | Moca County, Puerto Rico | 0060 | 0.4881 | 0.4743 | 10380
40500 | Morovis County, Puerto Rico | 7440 | 0.4855 | 0.4686 | 41980
40510 | Naguabo County, Puerto Rico | 7440 | 0.4855 | 0.4686 | 41980
40520 | Naranjito County, Puerto Rico | 7440 | 0.4855 | 0.4686 | 41980
40530 | Orocovis County, Puerto Rico | 40 | 0.3608 | 0.4686 | 41980
40540 | Patillas County, Puerto Rico | 40 | 0.3608 | 0.3184 | 25020
40550 | Penuelas County, Puerto Rico | 6360 | 0.5091 | 0.4413 | 49500
40560 | Ponce County, Puerto Rico | 6360 | 0.5091 | 0.5177 | 38660
40570 | Quebradillas County, Puerto Rico | 40 | 0.3608 | 0.4686 | 41980
40580 | Rincon County, Puerto Rico | 40 | 0.3608 | 0.4743 | 10380
40590 | Rio Grande County, Puerto Rico | 7440 | 0.4855 | 0.4686 | 41980
40610 | Sabana Grande County, Puerto Rico | 4840 | 0.4246 | 0.4655 | 41900
40620 | Salinas County, Puerto Rico | 40 | 0.3608 | 0.4047 | 99940
40630 | San German County, Puerto Rico | 4840 | 0.4246 | 0.4655 | 41900
40640 | San Juan County, Puerto Rico | 7440 | 0.4855 | 0.4686 | 41980
40650 | San Lorenzo County, Puerto Rico | 1310 | 0.4020 | 0.4686 | 41980
40660 | San Sebastian County, Puerto Rico | 40 | 0.3608 | 0.4743 | 10380
40670 | Santa Isabel County, Puerto Rico | 40 | 0.3608 | 0.4047 | 99940
40680 | Toa Alta County, Puerto Rico | 7440 | 0.4855 | 0.4686 | 41980
40690 | Toa Baja County, Puerto Rico | 7440 | 0.4855 | 0.4686 | 41980
40700 | Trujillo Alto County, Puerto Rico | 7440 | 0.4855 | 0.4686 | 41980
40710 | Utuado County, Puerto Rico | 40 | 0.3608 | 0.4047 | 99940
40720 | Vega Alta County, Puerto Rico | 7440 | 0.4855 | 0.4686 | 41980
40730 | Vega Baja County, Puerto Rico | 7440 | 0.4855 | 0.4686 | 41980
40740 | Vieques County, Puerto Rico | 40 | 0.3608 | 0.4047 | 99940
40750 | Villalba County, Puerto Rico | 6360 | 0.5091 | 0.5177 | 38660
40760 | Yabucoa County, Puerto Rico | 7440 | 0.4855 | 0.4686 | 41980
40770 | Yauco County, Puerto Rico | 6360 | 0.5091 | 0.4413 | 49500
41000 | Bristol County, Rhode Island | 6483 | 1.1060 | 1.0966 | 39300
41010 | Kent County, Rhode Island | 6483 | 1.1060 | 1.0966 | 39300
41020 | Newport County, Rhode Island | 6483 | 1.1060 | 1.0966 | 39300
41030 | Providence County, Rhode Island | 6483 | 1.1060 | 1.0966 | 39300
41050 | Washington County, Rhode Island | 6483 | 1.1060 | 1.0966 | 39300
42000 | Abbeville County, S Carolina | 42 | 0.8634 | 0.8641 | 99942
42010 | Aiken County, S Carolina | 0600 | 0.9619 | 0.9565 | 12260
42020 | Allendale County, S Carolina | 42 | 0.8634 | 0.8641 | 99942
42030 | Anderson County, S Carolina | 3160 | 0.9677 | 0.8897 | 11340
42040 | Bamberg County, S Carolina | 42 | 0.8634 | 0.8641 | 99942
42050 | Barnwell County, S Carolina | 42 | 0.8634 | 0.8641 | 99942
42060 | Beaufort County, S Carolina | 42 | 0.8634 | 0.8641 | 99942
42070 | Berkeley County, S Carolina | 1440 | 0.9438 | 0.9438 | 16700
42080 | Calhoun County, S Carolina | 42 | 0.8634 | 0.9047 | 17900
42090 | Charleston County, S Carolina | 1440 | 0.9438 | 0.9438 | 16700
42100 | Cherokee County, S Carolina | 3160 | 0.9677 | 0.8641 | 99942
42110 | Chester County, S Carolina | 42 | 0.8634 | 0.8641 | 99942
42120 | Chesterfield County, S Carolina | 42 | 0.8634 | 0.8641 | 99942
42130 | Clarendon County, S Carolina | 42 | 0.8634 | 0.8641 | 99942
42140 | Colleton County, S Carolina | 42 | 0.8634 | 0.8641 | 99942
42150 | Darlington County, S Carolina | 42 | 0.8634 | 0.8964 | 22500
42160 | Dillon County, S Carolina | 42 | 0.8634 | 0.8641 | 99942
42170 | Dorchester County, S Carolina | 1440 | 0.9438 | 0.9438 | 16700
42180 | Edgefield County, S Carolina | 0600 | 0.9619 | 0.9565 | 12260
42190 | Fairfield County, S Carolina | 42 | 0.8634 | 0.9047 | 17900
42200 | Florence County, S Carolina | 2655 | 0.9060 | 0.8964 | 22500
42210 | Georgetown County, S Carolina | 42 | 0.8634 | 0.8641 | 99942
42220 | Greenville County, S Carolina | 3160 | 0.9677 | 1.0165 | 24860
42230 | Greenwood County, S Carolina | 42 | 0.8634 | 0.8641 | 99942
42240 | Hampton County, S Carolina | 42 | 0.8634 | 0.8641 | 99942
42250 | Horry County, S Carolina | 5330 | 0.8873 | 0.8873 | 34820
42260 | Jasper County, S Carolina | 42 | 0.8634 | 0.8641 | 99942
42270 | Kershaw County, S Carolina | 42 | 0.8634 | 0.9047 | 17900
42280 | Lancaster County, S Carolina | 42 | 0.8634 | 0.8641 | 99942
42290 | Laurens County, S Carolina | 42 | 0.8634 | 1.0165 | 24860
42300 | Lee County, S Carolina | 42 | 0.8634 | 0.8641 | 99942
42310 | Lexington County, S Carolina | 1760 | 0.9071 | 0.9047 | 17900
42320 | Mc Cormick County, S Carolina | 42 | 0.8634 | 0.8641 | 99942
42330 | Marion County, S Carolina | 42 | 0.8634 | 0.8641 | 99942
42340 | Marlboro County, S Carolina | 42 | 0.8634 | 0.8641 | 99942
42350 | Newberry County, S Carolina | 42 | 0.8634 | 0.8641 | 99942
42360 | Oconee County, S Carolina | 42 | 0.8634 | 0.8641 | 99942
42370 | Orangeburg County, S Carolina | 42 | 0.8634 | 0.8641 | 99942
42380 | Pickens County, S Carolina | 3160 | 0.9677 | 1.0165 | 24860
42390 | Richland County, S Carolina | 1760 | 0.9071 | 0.9047 | 17900
42400 | Saluda County, S Carolina | 42 | 0.8634 | 0.9047 | 17900
42410 | Spartanburg County, S Carolina | 3160 | 0.9677 | 0.9181 | 43900
42420 | Sumter County, S Carolina | 8140 | 0.8386 | 0.8386 | 44940
42430 | Union County, S Carolina | 42 | 0.8634 | 0.8641 | 99942
42440 | Williamsburg County, S Carolina | 42 | 0.8634 | 0.8641 | 99942
42450 | York County, S Carolina | 1520 | 0.9725 | 0.9760 | 16740
43010 | Aurora County, S Dakota | 43 | 0.8476 | 0.8484 | 99943
43020 | Beadle County, S Dakota | 43 | 0.8476 | 0.8484 | 99943
43030 | Bennett County, S Dakota | 43 | 0.8476 | 0.8484 | 99943
43040 | Bon Homme County, S Dakota | 43 | 0.8476 | 0.8484 | 99943
43050 | Brookings County, S Dakota | 43 | 0.8476 | 0.8484 | 99943
43060 | Brown County, S Dakota | 43 | 0.8476 | 0.8484 | 99943
43070 | Brule County, S Dakota | 43 | 0.8476 | 0.8484 | 99943
43080 | Buffalo County, S Dakota | 43 | 0.8476 | 0.8484 | 99943
43090 | Butte County, S Dakota | 43 | 0.8476 | 0.8484 | 99943
43100 | Campbell County, S Dakota | 43 | 0.8476 | 0.8484 | 99943
43110 | Charles Mix County, S Dakota | 43 | 0.8476 | 0.8484 | 99943
43120 | Clark County, S Dakota | 43 | 0.8476 | 0.8484 | 99943
43130 | Clay County, S Dakota | 43 | 0.8476 | 0.8484 | 99943
43140 | Codington County, S Dakota | 43 | 0.8476 | 0.8484 | 99943
43150 | Corson County, S Dakota | 43 | 0.8476 | 0.8484 | 99943
43160 | Custer County, S Dakota | 43 | 0.8476 | 0.8484 | 99943
43170 | Davison County, S Dakota | 43 | 0.8476 | 0.8484 | 99943
43180 | Day County, S Dakota | 43 | 0.8476 | 0.8484 | 99943
43190 | Deuel County, S Dakota | 43 | 0.8476 | 0.8484 | 99943
43200 | Dewey County, S Dakota | 43 | 0.8476 | 0.8484 | 99943
43210 | Douglas County, S Dakota | 43 | 0.8476 | 0.8484 | 99943
43220 | Edmunds County, S Dakota | 43 | 0.8476 | 0.8484 | 99943
43230 | Fall River County, S Dakota | 43 | 0.8476 | 0.8484 | 99943
43240 | Faulk County, S Dakota | 43 | 0.8476 | 0.8484 | 99943
43250 | Grant County, S Dakota | 43 | 0.8476 | 0.8484 | 99943
43260 | Gregory County, S Dakota | 43 | 0.8476 | 0.8484 | 99943
43270 | Haakon County, S Dakota | 43 | 0.8476 | 0.8484 | 99943
43280 | Hamlin County, S Dakota | 43 | 0.8476 | 0.8484 | 99943
43290 | Hand County, S Dakota | 43 | 0.8476 | 0.8484 | 99943
43300 | Hanson County, S Dakota | 43 | 0.8476 | 0.8484 | 99943
43310 | Harding County, S Dakota | 43 | 0.8476 | 0.8484 | 99943
43320 | Hughes County, S Dakota | 43 | 0.8476 | 0.8484 | 99943
43330 | Hutchinson County, S Dakota | 43 | 0.8476 | 0.8484 | 99943
43340 | Hyde County, S Dakota | 43 | 0.8476 | 0.8484 | 99943
43350 | Jackson County, S Dakota | 43 | 0.8476 | 0.8484 | 99943
43360 | Jerauld County, S Dakota | 43 | 0.8476 | 0.8484 | 99943
43370 | Jones County, S Dakota | 43 | 0.8476 | 0.8484 | 99943
43380 | Kingsbury County, S Dakota | 43 | 0.8476 | 0.8484 | 99943
43390 | Lake County, S Dakota | 43 | 0.8476 | 0.8484 | 99943
43400 | Lawrence County, S Dakota | 43 | 0.8476 | 0.8484 | 99943
43410 | Lincoln County, S Dakota | 7760 | 0.9645 | 0.9645 | 43620
43420 | Lyman County, S Dakota | 43 | 0.8476 | 0.8484 | 99943
43430 | Mc Cook County, S Dakota | 43 | 0.8476 | 0.9645 | 43620
43440 | McPherson County, S Dakota | 43 | 0.8476 | 0.8484 | 99943
43450 | Marshall County, S Dakota | 43 | 0.8476 | 0.8484 | 99943
43460 | Meade County, S Dakota | 43 | 0.8476 | 0.9021 | 39660
43470 | Mellette County, S Dakota | 43 | 0.8476 | 0.8484 | 99943
43480 | Miner County, S Dakota | 43 | 0.8476 | 0.8484 | 99943
43490 | Minnehaha County, S Dakota | 7760 | 0.9645 | 0.9645 | 43620
43500 | Moody County, S Dakota | 43 | 0.8476 | 0.8484 | 99943
43510 | Pennington County, S Dakota | 6660 | 0.9021 | 0.9021 | 39660
43520 | Perkins County, S Dakota | 43 | 0.8476 | 0.8484 | 99943
43530 | Potter County, S Dakota | 43 | 0.8476 | 0.8484 | 99943
43540 | Roberts County, S Dakota | 43 | 0.8476 | 0.8484 | 99943
43550 | Sanborn County, S Dakota | 43 | 0.8476 | 0.8484 | 99943
43560 | Shannon County, S Dakota | 43 | 0.8476 | 0.8484 | 99943
43570 | Spink County, S Dakota | 43 | 0.8476 | 0.8484 | 99943
43580 | Stanley County, S Dakota | 43 | 0.8476 | 0.8484 | 99943
43590 | Sully County, S Dakota | 43 | 0.8476 | 0.8484 | 99943
43600 | Todd County, S Dakota | 43 | 0.8476 | 0.8484 | 99943
43610 | Tripp County, S Dakota | 43 | 0.8476 | 0.8484 | 99943
43620 | Turner County, S Dakota | 43 | 0.8476 | 0.9645 | 43620
43630 | Union County, S Dakota | 43 | 0.8476 | 0.9376 | 43580
43640 | Walworth County, S Dakota | 43 | 0.8476 | 0.8484 | 99943
43650 | Washabaugh County, S Dakota | 43 | 0.8476 | 0.8484 | 99943
43670 | Yankton County, S Dakota | 43 | 0.8476 | 0.8484 | 99943
43680 | Ziebach County, S Dakota | 43 | 0.8476 | 0.8484 | 99943
44000 | Anderson County, Tennessee | 3840 | 0.8411 | 0.8454 | 28940
44010 | Bedford County, Tennessee | 44 | 0.7988 | 0.7888 | 99944
44020 | Benton County, Tennessee | 44 | 0.7988 | 0.7888 | 99944
44030 | Bledsoe County, Tennessee | 44 | 0.7988 | 0.7888 | 99944
44040 | Blount County, Tennessee | 3840 | 0.8411 | 0.8454 | 28940
44050 | Bradley County, Tennessee | 44 | 0.7988 | 0.8141 | 17420
44060 | Campbell County, Tennessee | 44 | 0.7988 | 0.7888 | 99944
44070 | Cannon County, Tennessee | 44 | 0.7988 | 0.9769 | 34980
44080 | Carroll County, Tennessee | 44 | 0.7988 | 0.7888 | 99944
44090 | Carter County, Tennessee | 3660 | 0.8015 | 0.7945 | 27740
44100 | Cheatham County, Tennessee | 5360 | 0.9787 | 0.9769 | 34980
44110 | Chester County, Tennessee | 3580 | 0.8973 | 0.8973 | 27180
44120 | Claiborne County, Tennessee | 44 | 0.7988 | 0.7888 | 99944
44130 | Clay County, Tennessee | 44 | 0.7988 | 0.7888 | 99944
44140 | Cocke County, Tennessee | 44 | 0.7988 | 0.7888 | 99944
44150 | Coffee County, Tennessee | 44 | 0.7988 | 0.7888 | 99944
44160 | Crockett County, Tennessee | 44 | 0.7988 | 0.7888 | 99944
44170 | Cumberland County, Tennessee | 44 | 0.7988 | 0.7888 | 99944
44180 | Davidson County, Tennessee | 5360 | 0.9787 | 0.9769 | 34980
44190 | Decatur County, Tennessee | 44 | 0.7988 | 0.7888 | 99944
44200 | De Kalb County, Tennessee | 44 | 0.7988 | 0.7888 | 99944
44210 | Dickson County, Tennessee | 5360 | 0.9787 | 0.9769 | 34980
44220 | Dyer County, Tennessee | 44 | 0.7988 | 0.7888 | 99944
44230 | Fayette County, Tennessee | 4920 | 0.9360 | 0.9341 | 32820
44240 | Fentress County, Tennessee | 44 | 0.7988 | 0.7888 | 99944
44250 | Franklin County, Tennessee | 44 | 0.7988 | 0.7888 | 99944
44260 | Gibson County, Tennessee | 44 | 0.7988 | 0.7888 | 99944
44270 | Giles County, Tennessee | 44 | 0.7988 | 0.7888 | 99944
44280 | Grainger County, Tennessee | 44 | 0.7988 | 0.8753 | 34100
44290 | Greene County, Tennessee | 44 | 0.7988 | 0.7888 | 99944
44300 | Grundy County, Tennessee | 44 | 0.7988 | 0.7888 | 99944
44310 | Hamblen County, Tennessee | 44 | 0.7988 | 0.8753 | 34100
44320 | Hamilton County, Tennessee | 1560 | 0.9098 | 0.9098 | 16860
44330 | Hancock County, Tennessee | 44 | 0.7988 | 0.7888 | 99944
44340 | Hardeman County, Tennessee | 44 | 0.7988 | 0.7888 | 99944
44350 | Hardin County, Tennessee | 44 | 0.7988 | 0.7888 | 99944
44360 | Hawkins County, Tennessee | 3660 | 0.8015 | 0.8062 | 28700
44370 | Haywood County, Tennessee | 44 | 0.7988 | 0.7888 | 99944
44380 | Henderson County, Tennessee | 44 | 0.7988 | 0.7888 | 99944
44390 | Henry County, Tennessee | 44 | 0.7988 | 0.7888 | 99944
44400 | Hickman County, Tennessee | 44 | 0.7988 | 0.9769 | 34980
44410 | Houston County, Tennessee | 44 | 0.7988 | 0.7888 | 99944
44420 | Humphreys County, Tennessee | 44 | 0.7988 | 0.7888 | 99944
44430 | Jackson County, Tennessee | 44 | 0.7988 | 0.7888 | 99944
44440 | Jefferson County, Tennessee | 44 | 0.7988 | 0.8753 | 34100
44450 | Johnson County, Tennessee | 44 | 0.7988 | 0.7888 | 99944
44460 | Knox County, Tennessee | 3840 | 0.8411 | 0.8454 | 28940
44470 | Lake County, Tennessee | 44 | 0.7988 | 0.7888 | 99944
44480 | Lauderdale County, Tennessee | 44 | 0.7988 | 0.7888 | 99944
44490 | Lawrence County, Tennessee | 44 | 0.7988 | 0.7888 | 99944
44500 | Lewis County, Tennessee | 44 | 0.7988 | 0.7888 | 99944
44510 | Lincoln County, Tennessee | 44 | 0.7988 | 0.7888 | 99944
44520 | Loudon County, Tennessee | 3840 | 0.8411 | 0.8454 | 28940
44530 | McMinn County, Tennessee | 44 | 0.7988 | 0.7888 | 99944
44540 | McNairy County, Tennessee | 44 | 0.7988 | 0.7888 | 99944
44550 | Macon County, Tennessee | 44 | 0.7988 | 0.9769 | 34980
44560 | Madison County, Tennessee | 3580 | 0.8973 | 0.8973 | 27180
44570 | Marion County, Tennessee | 1560 | 0.9098 | 0.9098 | 16860
44580 | Marshall County, Tennessee | 44 | 0.7988 | 0.7888 | 99944
44590 | Maury County, Tennessee | 44 | 0.7988 | 0.7888 | 99944
44600 | Meigs County, Tennessee | 44 | 0.7988 | 0.7888 | 99944
44610 | Monroe County, Tennessee | 44 | 0.7988 | 0.7888 | 99944
44620 | Montgomery County, Tennessee | 1660 | 0.8292 | 0.8292 | 17300
44630 | Moore County, Tennessee | 44 | 0.7988 | 0.7888 | 99944
44640 | Morgan County, Tennessee | 44 | 0.7988 | 0.7888 | 99944
44650 | Obion County, Tennessee | 44 | 0.7988 | 0.7888 | 99944
44660 | Overton County, Tennessee | 44 | 0.7988 | 0.7888 | 99944
44670 | Perry County, Tennessee | 44 | 0.7988 | 0.7888 | 99944
44680 | Pickett County, Tennessee | 44 | 0.7988 | 0.7888 | 99944
44690 | Polk County, Tennessee | 44 | 0.7988 | 0.8141 | 17420
44700 | Putnam County, Tennessee | 44 | 0.7988 | 0.7888 | 99944
44710 | Rhea County, Tennessee | 44 | 0.7988 | 0.7888 | 99944
44720 | Roane County, Tennessee | 44 | 0.7988 | 0.7888 | 99944
44730 | Robertson County, Tennessee | 5360 | 0.9787 | 0.9769 | 34980
44740 | Rutherford County, Tennessee | 5360 | 0.9787 | 0.9769 | 34980
44750 | Scott County, Tennessee | 44 | 0.7988 | 0.7888 | 99944
44760 | Sequatchie County, Tennessee | 44 | 0.7988 | 0.9098 | 16860
44770 | Sevier County, Tennessee | 3840 | 0.8411 | 0.7888 | 99944
44780 | Shelby County, Tennessee | 4920 | 0.9360 | 0.9341 | 32820
44790 | Smith County, Tennessee | 44 | 0.7988 | 0.9769 | 34980
44800 | Stewart County, Tennessee | 44 | 0.7988 | 0.8292 | 17300
44810 | Sullivan County, Tennessee | 3660 | 0.8015 | 0.8062 | 28700
44820 | Sumner County, Tennessee | 5360 | 0.9787 | 0.9769 | 34980
44830 | Tipton County, Tennessee | 4920 | 0.9360 | 0.9341 | 32820
44840 | Trousdale County, Tennessee | 44 | 0.7988 | 0.9769 | 34980
44850 | Unicoi County, Tennessee | 3660 | 0.8015 | 0.7945 | 27740
44860 | Union County, Tennessee | 3840 | 0.8411 | 0.8454 | 28940
44870 | Van Buren County, Tennessee | 44 | 0.7988 | 0.7888 | 99944
44880 | Warren County, Tennessee | 44 | 0.7988 | 0.7888 | 99944
44890 | Washington County, Tennessee | 3660 | 0.8015 | 0.7945 | 27740
44900 | Wayne County, Tennessee | 44 | 0.7988 | 0.7888 | 99944
44910 | Weakley County, Tennessee | 44 | 0.7988 | 0.7888 | 99944
44920 | White County, Tennessee | 44 | 0.7988 | 0.7888 | 99944
44930 | Williamson County, Tennessee | 5360 | 0.9787 | 0.9769 | 34980
44940 | Wilson County, Tennessee | 5360 | 0.9787 | 0.9769 | 34980
45000 | Anderson County, Texas | 45 | 0.7936 | 0.8007 | 99945
45010 | Andrews County, Texas | 45 | 0.7936 | 0.8007 | 99945
45020 | Angelina County, Texas | 45 | 0.7936 | 0.8007 | 99945
45030 | Aransas County, Texas | 45 | 0.7936 | 0.8559 | 18580
45040 | Archer County, Texas | 9080 | 0.8373 | 0.8294 | 48660
45050 | Armstrong County, Texas | 45 | 0.7936 | 0.9166 | 11100
45060 | Atascosa County, Texas | 45 | 0.7936 | 0.8989 | 41700
45070 | Austin County, Texas | 45 | 0.7936 | 1.0005 | 26420
45080 | Bailey County, Texas | 45 | 0.7936 | 0.8007 | 99945
45090 | Bandera County, Texas | 45 | 0.7936 | 0.8989 | 41700
45100 | Bastrop County, Texas | 0640 | 0.9450 | 0.9450 | 12420
45110 | Baylor County, Texas | 45 | 0.7936 | 0.8007 | 99945
45113 | Bee County, Texas | 45 | 0.7936 | 0.8007 | 99945
45120 | Bell County, Texas | 3810 | 0.8535 | 0.8535 | 28660
45130 | Bexar County, Texas | 7240 | 0.8993 | 0.8989 | 41700
45140 | Blanco County, Texas | 45 | 0.7936 | 0.8007 | 99945
45150 | Borden County, Texas | 45 | 0.7936 | 0.8007 | 99945
45160 | Bosque County, Texas | 45 | 0.7936 | 0.8007 | 99945
45170 | Bowie County, Texas | 8360 | 0.8291 | 0.8291 | 45500
45180 | Brazoria County, Texas | 1145 | 0.8572 | 1.0005 | 26420
45190 | Brazos County, Texas | 1260 | 0.8909 | 0.8909 | 17780
45200 | Brewster County, Texas | 45 | 0.7936 | 0.8007 | 99945
45201 | Briscoe County, Texas | 45 | 0.7936 | 0.8007 | 99945
45210 | Brooks County, Texas | 45 | 0.7936 | 0.8007 | 99945
45220 | Brown County, Texas | 45 | 0.7936 | 0.8007 | 99945
45221 | Burleson County, Texas | 45 | 0.7936 | 0.8909 | 17780
45222 | Burnet County, Texas | 45 | 0.7936 | 0.8007 | 99945
45223 | Caldwell County, Texas | 0640 | 0.9450 | 0.9450 | 12420
45224 | Calhoun County, Texas | 45 | 0.7936 | 0.8168 | 47020
45230 | Callahan County, Texas | 45 | 0.7936 | 0.7904 | 10180
45240 | Cameron County, Texas | 1240 | 0.9822 | 0.9822 | 15180
45250 | Camp County, Texas | 45 | 0.7936 | 0.8007 | 99945
45251 | Carson County, Texas | 45 | 0.7936 | 0.9166 | 11100
45260 | Cass County, Texas | 45 | 0.7936 | 0.8007 | 99945
45270 | Castro County, Texas | 45 | 0.7936 | 0.8007 | 99945
45280 | Chambers County, Texas | 3360 | 1.0101 | 1.0005 | 26420
45281 | Cherokee County, Texas | 45 | 0.7936 | 0.8007 | 99945
45290 | Childress County, Texas | 45 | 0.7936 | 0.8007 | 99945
45291 | Clay County, Texas | 45 | 0.7936 | 0.8294 | 48660
45292 | Cochran County, Texas | 45 | 0.7936 | 0.8007 | 99945
45300 | Coke County, Texas | 45 | 0.7936 | 0.8007 | 99945
45301 | Coleman County, Texas | 45 | 0.7936 | 0.8007 | 99945
45310 | Collin County, Texas | 1920 | 1.0211 | 1.0233 | 19124
45311 | Collingsworth County, Texas | 45 | 0.7936 | 0.8007 | 99945
45312 | Colorado County, Texas | 45 | 0.7936 | 0.8007 | 99945
45320 | Comal County, Texas | 7240 | 0.8993 | 0.8989 | 41700
45321 | Comanche County, Texas | 45 | 0.7936 | 0.8007 | 99945
45330 | Concho County, Texas | 45 | 0.7936 | 0.8007 | 99945
45340 | Cooke County, Texas | 45 | 0.7936 | 0.8007 | 99945
45341 | Coryell County, Texas | 3810 | 0.8535 | 0.8535 | 28660
45350 | Cottle County, Texas | 45 | 0.7936 | 0.8007 | 99945
45360 | Crane County, Texas | 45 | 0.7936 | 0.8007 | 99945
45361 | Crockett County, Texas | 45 | 0.7936 | 0.8007 | 99945
45362 | Crosby County, Texas | 45 | 0.7936 | 0.8792 | 31180
45370 | Culberson County, Texas | 45 | 0.7936 | 0.8007 | 99945
45380 | Dallam County, Texas | 45 | 0.7936 | 0.8007 | 99945
45390 | Dallas County, Texas | 1920 | 1.0211 | 1.0233 | 19124
45391 | Dawson County, Texas | 45 | 0.7936 | 0.8007 | 99945
45392 | Deaf Smith County, Texas | 45 | 0.7936 | 0.8007 | 99945
45400 | Delta County, Texas | 45 | 0.7936 | 1.0233 | 19124
45410 | Denton County, Texas | 1920 | 1.0211 | 1.0233 | 19124
45420 | De Witt County, Texas | 45 | 0.7936 | 0.8007 | 99945
45421 | Dickens County, Texas | 45 | 0.7936 | 0.8007 | 99945
45430 | Dimmit County, Texas | 45 | 0.7936 | 0.8007 | 99945
45431 | Donley County, Texas | 45 | 0.7936 | 0.8007 | 99945
45440 | uval County, Texas | 45 | 0.7936 | 0.8007 | 99945
45450 | Eastland County, Texas | 45 | 0.7936 | 0.8007 | 99945
45451 | Ector County, Texas | 5800 | 0.9751 | 0.9894 | 36220
45460 | Edwards County, Texas | 45 | 0.7936 | 0.8007 | 99945
45470 | Ellis County, Texas | 1920 | 1.0211 | 1.0233 | 19124
45480 | El Paso County, Texas | 2320 | 0.8924 | 0.8924 | 21340
45490 | Erath County, Texas | 45 | 0.7936 | 0.8007 | 99945
45500 | Falls County, Texas | 45 | 0.7936 | 0.8007 | 99945
45510 | Fannin County, Texas | 45 | 0.7936 | 0.8007 | 99945
45511 | Fayette County, Texas | 45 | 0.7936 | 0.8007 | 99945
45520 | Fisher County, Texas | 45 | 0.7936 | 0.8007 | 99945
45521 | Floyd County, Texas | 45 | 0.7936 | 0.8007 | 99945
45522 | Foard County, Texas | 45 | 0.7936 | 0.8007 | 99945
45530 | Fort Bend County, Texas | 3360 | 1.0101 | 1.0005 | 26420
45531 | Franklin County, Texas | 45 | 0.7936 | 0.8007 | 99945
45540 | Freestone County, Texas | 45 | 0.7936 | 0.8007 | 99945
45541 | Frio County, Texas | 45 | 0.7936 | 0.8007 | 99945
45542 | Gaines County, Texas | 45 | 0.7936 | 0.8007 | 99945
45550 | Galveston County, Texas | 2920 | 0.9645 | 1.0005 | 26420
45551 | Garza County, Texas | 45 | 0.7936 | 0.8007 | 99945
45552 | Gillespie County, Texas | 45 | 0.7936 | 0.8007 | 99945
45560 | Glasscock County, Texas | 45 | 0.7936 | 0.8007 | 99945
45561 | Goliad County, Texas | 45 | 0.7936 | 0.8168 | 47020
45562 | Gonzales County, Texas | 45 | 0.7936 | 0.8007 | 99945
45563 | Gray County, Texas | 45 | 0.7936 | 0.8007 | 99945
45564 | Grayson County, Texas | 7640 | 0.9516 | 0.9516 | 43300
45570 | Gregg County, Texas | 4420 | 0.8897 | 0.8739 | 30980
45580 | Grimes County, Texas | 45 | 0.7936 | 0.8007 | 99945
45581 | Guadaloupe County, Texas | 7240 | 0.8993 | 0.8989 | 41700
45582 | Hale County, Texas | 45 | 0.7936 | 0.8007 | 99945
45583 | Hall County, Texas | 45 | 0.7936 | 0.8007 | 99945
45590 | Hamilton County, Texas | 45 | 0.7936 | 0.8007 | 99945
45591 | Hansford County, Texas | 45 | 0.7936 | 0.8007 | 99945
45592 | Hardeman County, Texas | 45 | 0.7936 | 0.8007 | 99945
45600 | Hardin County, Texas | 0840 | 0.8421 | 0.8421 | 13140
45610 | Harris County, Texas | 3360 | 1.0101 | 1.0005 | 26420
45620 | Harrison County, Texas | 4420 | 0.8897 | 0.8007 | 99945
45621 | Hartley County, Texas | 45 | 0.7936 | 0.8007 | 99945
45630 | Haskell County, Texas | 45 | 0.7936 | 0.8007 | 99945
45631 | Hays County, Texas | 0640 | 0.9450 | 0.9450 | 12420
45632 | Hemphill County, Texas | 45 | 0.7936 | 0.8007 | 99945
45640 | Henderson County, Texas | 1920 | 1.0211 | 0.8007 | 99945
45650 | Hidalgo County, Texas | 4880 | 0.8943 | 0.8943 | 32580
45651 | Hill County, Texas | 45 | 0.7936 | 0.8007 | 99945
45652 | Hockley County, Texas | 45 | 0.7936 | 0.8007 | 99945
45653 | Hood County, Texas | 2800 | 0.9545 | 0.8007 | 99945
45654 | Hopkins County, Texas | 45 | 0.7936 | 0.8007 | 99945
45660 | Houston County, Texas | 45 | 0.7936 | 0.8007 | 99945
45661 | Howard County, Texas | 45 | 0.7936 | 0.8007 | 99945
45662 | Hudspeth County, Texas | 45 | 0.7936 | 0.8007 | 99945
45670 | Hunt County, Texas | 1920 | 1.0211 | 1.0233 | 19124
45671 | Hutchinson County, Texas | 45 | 0.7936 | 0.8007 | 99945
45672 | Irion County, Texas | 45 | 0.7936 | 0.8280 | 41660
45680 | Jack County, Texas | 45 | 0.7936 | 0.8007 | 99945
45681 | Jackson County, Texas | 45 | 0.7936 | 0.8007 | 99945
45690 | Jasper County, Texas | 45 | 0.7936 | 0.8007 | 99945
45691 | Jeff Davis County, Texas | 45 | 0.7936 | 0.8007 | 99945
45700 | Jefferson County, Texas | 0840 | 0.8421 | 0.8421 | 13140
45710 | Jim Hogg County, Texas | 45 | 0.7936 | 0.8007 | 99945
45711 | Jim Wells County, Texas | 45 | 0.7936 | 0.8007 | 99945
45720 | Johnson County, Texas | 2800 | 0.9545 | 0.9510 | 23104
45721 | Jones County, Texas | 45 | 0.7936 | 0.7904 | 10180
45722 | Karnes County, Texas | 45 | 0.7936 | 0.8007 | 99945
45730 | Kaufman County, Texas | 1920 | 1.0211 | 1.0233 | 19124
45731 | Kendall County, Texas | 45 | 0.7936 | 0.8989 | 41700
45732 | Kenedy County, Texas | 45 | 0.7936 | 0.8007 | 99945
45733 | Kent County, Texas | 45 | 0.7936 | 0.8007 | 99945
45734 | Kerr County, Texas | 45 | 0.7936 | 0.8007 | 99945
45740 | Kimble County, Texas | 45 | 0.7936 | 0.8007 | 99945
45741 | King County, Texas | 45 | 0.7936 | 0.8007 | 99945
45742 | Kinney County, Texas | 45 | 0.7936 | 0.8007 | 99945
45743 | Kleberg County, Texas | 45 | 0.7936 | 0.8007 | 99945
45744 | Knox County, Texas | 45 | 0.7936 | 0.8007 | 99945
45750 | Lamar County, Texas | 45 | 0.7936 | 0.8007 | 99945
45751 | Lamb County, Texas | 45 | 0.7936 | 0.8007 | 99945
45752 | Lampasas County, Texas | 45 | 0.7936 | 0.8535 | 28660
45753 | La Salle County, Texas | 45 | 0.7936 | 0.8007 | 99945
45754 | Lavaca County, Texas | 45 | 0.7936 | 0.8007 | 99945
45755 | Lee County, Texas | 45 | 0.7936 | 0.8007 | 99945
45756 | Leon County, Texas | 45 | 0.7936 | 0.8007 | 99945
45757 | Liberty County, Texas | 3360 | 1.0101 | 1.0005 | 26420
45758 | Limestone County, Texas | 45 | 0.7936 | 0.8007 | 99945
45759 | Lipscomb County, Texas | 45 | 0.7936 | 0.8007 | 99945
45760 | Live Oak County, Texas | 45 | 0.7936 | 0.8007 | 99945
45761 | Llano County, Texas | 45 | 0.7936 | 0.8007 | 99945
45762 | Loving County, Texas | 45 | 0.7936 | 0.8007 | 99945
45770 | Lubbock County, Texas | 4600 | 0.8792 | 0.8792 | 31180
45771 | Lynn County, Texas | 45 | 0.7936 | 0.8007 | 99945
45772 | Mc Culloch County, Texas | 45 | 0.7936 | 0.8007 | 99945
45780 | Mc Lennan County, Texas | 8800 | 0.8527 | 0.8527 | 47380
45781 | Mc Mullen County, Texas | 45 | 0.7936 | 0.8007 | 99945
45782 | Madison County, Texas | 45 | 0.7936 | 0.8007 | 99945
45783 | Marion County, Texas | 45 | 0.7936 | 0.8007 | 99945
45784 | Martin County, Texas | 45 | 0.7936 | 0.8007 | 99945
45785 | Mason County, Texas | 45 | 0.7936 | 0.8007 | 99945
45790 | Matagorda County, Texas | 45 | 0.7936 | 0.8007 | 99945
45791 | Maverick County, Texas | 45 | 0.7936 | 0.8007 | 99945
45792 | Medina County, Texas | 45 | 0.7936 | 0.8989 | 41700
45793 | Menard County, Texas | 45 | 0.7936 | 0.8007 | 99945
45794 | Midland County, Texas | 5800 | 0.9751 | 0.9523 | 33260
45795 | Milam County, Texas | 45 | 0.7936 | 0.8007 | 99945
45796 | Mills County, Texas | 45 | 0.7936 | 0.8007 | 99945
45797 | Mitchell County, Texas | 45 | 0.7936 | 0.8007 | 99945
45800 | Montague County, Texas | 45 | 0.7936 | 0.8007 | 99945
45801 | Montgomery County, Texas | 3360 | 1.0101 | 1.0005 | 26420
45802 | Moore County, Texas | 45 | 0.7936 | 0.8007 | 99945
45803 | Morris County, Texas | 45 | 0.7936 | 0.8007 | 99945
45804 | Motley County, Texas | 45 | 0.7936 | 0.8007 | 99945
45810 | Nacogdoches County, Texas | 45 | 0.7936 | 0.8007 | 99945
45820 | Navarro County, Texas | 45 | 0.7936 | 0.8007 | 99945
45821 | Newton County, Texas | 45 | 0.7936 | 0.8007 | 99945
45822 | Nolan County, Texas | 45 | 0.7936 | 0.8007 | 99945
45830 | Nueces County, Texas | 1880 | 0.8559 | 0.8559 | 18580
45831 | Ochiltree County, Texas | 45 | 0.7936 | 0.8007 | 99945
45832 | Oldham County, Texas | 45 | 0.7936 | 0.8007 | 99945
45840 | Orange County, Texas | 0840 | 0.8421 | 0.8421 | 13140
45841 | Palo Pinto County, Texas | 45 | 0.7936 | 0.8007 | 99945
45842 | Panola County, Texas | 45 | 0.7936 | 0.8007 | 99945
45843 | Parker County, Texas | 2800 | 0.9545 | 0.9510 | 23104
45844 | Parmer County, Texas | 45 | 0.7936 | 0.8007 | 99945
45845 | Pecos County, Texas | 45 | 0.7936 | 0.8007 | 99945
45850 | Polk County, Texas | 45 | 0.7936 | 0.8007 | 99945
45860 | Potter County, Texas | 0320 | 0.9166 | 0.9166 | 11100
45861 | Presidio County, Texas | 45 | 0.7936 | 0.8007 | 99945
45870 | Rains County, Texas | 45 | 0.7936 | 0.8007 | 99945
45871 | Randall County, Texas | 0320 | 0.9166 | 0.9166 | 11100
45872 | Reagan County, Texas | 45 | 0.7936 | 0.8007 | 99945
45873 | Real County, Texas | 45 | 0.7936 | 0.8007 | 99945
45874 | Red River County, Texas | 45 | 0.7936 | 0.8007 | 99945
45875 | Reeves County, Texas | 45 | 0.7936 | 0.8007 | 99945
45876 | Refugio County, Texas | 45 | 0.7936 | 0.8007 | 99945
45877 | Roberts County, Texas | 45 | 0.7936 | 0.8007 | 99945
45878 | Robertson County, Texas | 45 | 0.7936 | 0.8909 | 17780
45879 | Rockwall County, Texas | 1920 | 1.0211 | 1.0233 | 19124
45880 | Runnels County, Texas | 45 | 0.7936 | 0.8007 | 99945
45881 | Rusk County, Texas | 45 | 0.7936 | 0.8739 | 30980
45882 | Sabine County, Texas | 45 | 0.7936 | 0.8007 | 99945
45883 | San Augustine County, Texas | 45 | 0.7936 | 0.8007 | 99945
45884 | San Jacinto County, Texas | 45 | 0.7936 | 1.0005 | 26420
45885 | San Patricio County, Texas | 1880 | 0.8559 | 0.8559 | 18580
45886 | San Saba County, Texas | 45 | 0.7936 | 0.8007 | 99945
45887 | Schleicher County, Texas | 45 | 0.7936 | 0.8007 | 99945
45888 | Scurry County, Texas | 45 | 0.7936 | 0.8007 | 99945
45889 | Shackelford County, Texas | 45 | 0.7936 | 0.8007 | 99945
45890 | Shelby County, Texas | 45 | 0.7936 | 0.8007 | 99945
45891 | Sherman County, Texas | 45 | 0.7936 | 0.8007 | 99945
45892 | Smith County, Texas | 8640 | 0.9307 | 0.9307 | 46340
45893 | Somervell County, Texas | 45 | 0.7936 | 0.8007 | 99945
45900 | Starr County, Texas | 45 | 0.7936 | 0.8007 | 99945
45901 | Stephens County, Texas | 45 | 0.7936 | 0.8007 | 99945
45902 | Sterling County, Texas | 45 | 0.7936 | 0.8007 | 99945
45903 | Stonewall County, Texas | 45 | 0.7936 | 0.8007 | 99945
45904 | Sutton County, Texas | 45 | 0.7936 | 0.8007 | 99945
45905 | Swisher County, Texas | 45 | 0.7936 | 0.8007 | 99945
45910 | Tarrant County, Texas | 2800 | 0.9545 | 0.9510 | 23104
45911 | Taylor County, Texas | 0040 | 0.8062 | 0.7904 | 10180
45912 | Terrell County, Texas | 45 | 0.7936 | 0.8007 | 99945
45913 | Terry County, Texas | 45 | 0.7936 | 0.8007 | 99945
45920 | Throckmorton County, Texas | 45 | 0.7936 | 0.8007 | 99945
45921 | Titus County, Texas | 45 | 0.7936 | 0.8007 | 99945
45930 | Tom Green County, Texas | 7200 | 0.8280 | 0.8280 | 41660
45940 | Travis County, Texas | 0640 | 0.9450 | 0.9450 | 12420
45941 | Trinity County, Texas | 45 | 0.7936 | 0.8007 | 99945
45942 | Tyler County, Texas | 45 | 0.7936 | 0.8007 | 99945
45943 | Upshur County, Texas | 4420 | 0.8897 | 0.8739 | 30980
45944 | Upton County, Texas | 45 | 0.7936 | 0.8007 | 99945
45945 | Uvalde County, Texas | 45 | 0.7936 | 0.8007 | 99945
45946 | Val Verde County, Texas | 45 | 0.7936 | 0.8007 | 99945
45947 | Van Zandt County, Texas | 45 | 0.7936 | 0.8007 | 99945
45948 | Victoria County, Texas | 8750 | 0.8168 | 0.8168 | 47020
45949 | Walker County, Texas | 45 | 0.7936 | 0.8007 | 99945
45950 | Waller County, Texas | 3360 | 1.0101 | 1.0005 | 26420
45951 | Ward County, Texas | 45 | 0.7936 | 0.8007 | 99945
45952 | Washington County, Texas | 45 | 0.7936 | 0.8007 | 99945
45953 | Webb County, Texas | 4080 | 0.8076 | 0.8076 | 29700
45954 | Wharton County, Texas | 45 | 0.7936 | 0.8007 | 99945
45955 | Wheeler County, Texas | 45 | 0.7936 | 0.8007 | 99945
45960 | Wichita County, Texas | 9080 | 0.8373 | 0.8294 | 48660
45961 | Wilbarger County, Texas | 45 | 0.7936 | 0.8007 | 99945
45962 | Willacy County, Texas | 45 | 0.7936 | 0.8007 | 99945
45970 | Williamson County, Texas | 0640 | 0.9450 | 0.9450 | 12420
45971 | Wilson County, Texas | 7240 | 0.8993 | 0.8989 | 41700
45972 | Winkler County, Texas | 45 | 0.7936 | 0.8007 | 99945
45973 | Wise County, Texas | 45 | 0.7936 | 0.9510 | 23104
45974 | Wood County, Texas | 45 | 0.7936 | 0.8007 | 99945
45980 | Yoakum County, Texas | 45 | 0.7936 | 0.8007 | 99945
45981 | Young County, Texas | 45 | 0.7936 | 0.8007 | 99945
45982 | Zapata County, Texas | 45 | 0.7936 | 0.8007 | 99945
45983 | Zavala County, Texas | 45 | 0.7936 | 0.8007 | 99945
46000 | Beaver County, Utah | 46 | 0.8779 | 0.8126 | 99946
46010 | Box Elder County, Utah | 46 | 0.8779 | 0.8126 | 99946
46020 | Cache County, Utah | 46 | 0.8779 | 0.9173 | 30860
46030 | Carbon County, Utah | 46 | 0.8779 | 0.8126 | 99946
46040 | Daggett County, Utah | 46 | 0.8779 | 0.8126 | 99946
46050 | Davis County, Utah | 7160 | 0.9350 | 0.9038 | 36260
46060 | Duchesne County, Utah | 46 | 0.8779 | 0.8126 | 99946
46070 | Emery County, Utah | 46 | 0.8779 | 0.8126 | 99946
46080 | Garfield County, Utah | 46 | 0.8779 | 0.8126 | 99946
46090 | Grand County, Utah | 46 | 0.8779 | 0.8126 | 99946
46100 | Iron County, Utah | 46 | 0.8779 | 0.8126 | 99946
46110 | Juab County, Utah | 46 | 0.8779 | 0.9510 | 39340
46120 | Kane County, Utah | 2620 | 1.1857 | 0.8126 | 99946
46130 | Millard County, Utah | 46 | 0.8779 | 0.8126 | 99946
46140 | Morgan County, Utah | 46 | 0.8779 | 0.9038 | 36260
46150 | Piute County, Utah | 46 | 0.8779 | 0.8126 | 99946
46160 | Rich County, Utah | 46 | 0.8779 | 0.8126 | 99946
46170 | Salt Lake County, Utah | 7160 | 0.9350 | 0.9433 | 41620
46180 | San Juan County, Utah | 46 | 0.8779 | 0.8126 | 99946
46190 | Sanpete County, Utah | 46 | 0.8779 | 0.8126 | 99946
46200 | Sevier County, Utah | 46 | 0.8779 | 0.8126 | 99946
46210 | Summit County, Utah | 46 | 0.8779 | 0.9433 | 41620
46220 | Tooele County, Utah | 46 | 0.8779 | 0.9433 | 41620
46230 | Uintah County, Utah | 46 | 0.8779 | 0.8126 | 99946
46240 | Utah County, Utah | 6520 | 0.9510 | 0.9510 | 39340
46250 | Wasatch County, Utah | 46 | 0.8779 | 0.8126 | 99946
46260 | Washington County, Utah | 46 | 0.8779 | 0.9402 | 41100
46270 | Wayne County, Utah | 46 | 0.8779 | 0.8126 | 99946
46280 | Weber County, Utah | 7160 | 0.9350 | 0.9038 | 36260
47000 | Addison County, Vermont | 47 | 0.9840 | 0.9840 | 99947
47010 | Bennington County, Vermont | 47 | 0.9840 | 0.9840 | 99947
47020 | Caledonia County, Vermont | 47 | 0.9840 | 0.9840 | 99947
47030 | Chittenden County, Vermont | 1303 | 0.9446 | 0.9446 | 15540
47040 | Essex County, Vermont | 47 | 0.9840 | 0.9840 | 99947
47050 | Franklin County, Vermont | 1303 | 0.9446 | 0.9446 | 15540
47060 | Grand Isle County, Vermont | 1303 | 0.9446 | 0.9446 | 15540
47070 | Lamoille County, Vermont | 47 | 0.9840 | 0.9840 | 99947
47080 | Orange County, Vermont | 47 | 0.9840 | 0.9840 | 99947
47090 | Orleans County, Vermont | 47 | 0.9840 | 0.9840 | 99947
47100 | Rutland County, Vermont | 47 | 0.9840 | 0.9840 | 99947
47110 | Washington County, Vermont | 47 | 0.9840 | 0.9840 | 99947
47120 | Windham County, Vermont | 47 | 0.9840 | 0.9840 | 99947
47130 | Windsor County, Vermont | 47 | 0.9840 | 0.9840 | 99947
49000 | Accomack County, Virginia | 49 | 0.8420 | 0.8012 | 99949
49010 | Albemarle County, Virginia | 1540 | 1.0234 | 1.0234 | 16820
49011 | Alexandria City County, Virginia | 8840 | 1.0983 | 1.0932 | 47894
49020 | Alleghany County, Virginia | 49 | 0.8420 | 0.8012 | 99949
49030 | Amelia County, Virginia | 49 | 0.8420 | 0.9338 | 40060
49040 | Amherst County, Virginia | 4640 | 0.8700 | 0.8700 | 31340
49050 | Appomattox County, Virginia | 49 | 0.8420 | 0.8700 | 31340
49060 | Arlington County, Virginia | 8840 | 1.0983 | 1.0932 | 47894
49070 | Augusta County, Virginia | 49 | 0.8420 | 0.8012 | 99949
49080 | Bath County, Virginia | 49 | 0.8420 | 0.8012 | 99949
49088 | Bedford City County, Virginia | 4640 | 0.8700 | 0.8700 | 31340
49090 | Bedford County, Virginia | 4640 | 0.8700 | 0.8700 | 31340
49100 | Bland County, Virginia | 49 | 0.8420 | 0.8012 | 99949
49110 | Botetourt County, Virginia | 6800 | 0.8395 | 0.8383 | 40220
49111 | Bristol City County, Virginia | 3660 | 0.8015 | 0.8062 | 28700
49120 | Brunswick County, Virginia | 49 | 0.8420 | 0.8012 | 99949
49130 | Buchanan County, Virginia | 49 | 0.8420 | 0.8012 | 99949
49140 | Buckingham County, Virginia | 49 | 0.8420 | 0.8012 | 99949
49141 | Buena Vista City County, Virginia | 49 | 0.8420 | 0.8012 | 99949
49150 | Campbell County, Virginia | 4640 | 0.8700 | 0.8700 | 31340
49160 | Caroline County, Virginia | 49 | 0.8420 | 0.9338 | 40060
49170 | Carroll County, Virginia | 49 | 0.8420 | 0.8012 | 99949
49180 | Charles City County, Virginia | 6760 | 0.9338 | 0.9338 | 40060
49190 | Charlotte County, Virginia | 49 | 0.8420 | 0.8012 | 99949
49191 | Charlottesville City County, Virginia | 1540 | 1.0234 | 1.0234 | 16820
49194 | Chesapeake County, Virginia | 5720 | 0.8808 | 0.8808 | 47260
49200 | Chesterfield County, Virginia | 6760 | 0.9338 | 0.9338 | 40060
49210 | Clarke County, Virginia | 8840 | 1.0983 | 1.0932 | 47894
49211 | Clifton Forge City County, Virginia | 9 | 0.8420 | 0.8012 | 99949
49212 | Colonial Heights County, Virginia | 6760 | 0.9338 | 0.9338 | 40060
49213 | Covington City County, Virginia | 49 | 0.8420 | 0.8012 | 99949
49220 | Craig County, Virginia | 49 | 0.8420 | 0.8383 | 40220
49230 | Culpeper County, Virginia | 8840 | 1.0983 | 0.8012 | 99949
49240 | Cumberland County, Virginia | 49 | 0.8420 | 0.9338 | 40060
49241 | Danville City County, Virginia | 1950 | 0.8497 | 0.8497 | 19260
49250 | Dickenson County, Virginia | 49 | 0.8420 | 0.8012 | 99949
49260 | Dinniddie County, Virginia | 6760 | 0.9338 | 0.9338 | 40060
49270 | Emporia County, Virginia | 49 | 0.8420 | 0.8012 | 99949
49280 | Essex County, Virginia | 49 | 0.8420 | 0.8012 | 99949
49288 | Fairfax City County, Virginia | 8840 | 1.0983 | 1.0932 | 47894
49290 | Fairfax County, Virginia | 8840 | 1.0983 | 1.0932 | 47894
49291 | Falls Church City County, Virginia | 8840 | 1.0983 | 1.0932 | 47894
49300 | Fauquier County, Virginia | 8840 | 1.0983 | 1.0932 | 47894
49310 | Floyd County, Virginia | 49 | 0.8420 | 0.8012 | 99949
49320 | Fluvanna County, Virginia | 1540 | 1.0234 | 1.0234 | 16820
49328 | Franklin City County, Virginia | 49 | 0.8420 | 0.8012 | 99949
49330 | Franklin County, Virginia | 49 | 0.8420 | 0.8383 | 40220
49340 | Frederick County, Virginia | 49 | 0.8420 | 1.0224 | 49020
49342 | Fredericksburg City County, Virginia | 8840 | 1.0983 | 1.0932 | 47894
49343 | Galax City County, Virginia | 49 | 0.8420 | 0.8012 | 99949
49350 | Giles County, Virginia | 49 | 0.8420 | 0.7962 | 13980
49360 | Gloucester County, Virginia | 5720 | 0.8808 | 0.8808 | 47260
49370 | Goochland County, Virginia 6760 | 0.9338 | 0.9338 | 40060
49380 | Grayson County, Virginia | 49 | 0.8420 | 0.8012 | 99949
49390 | Greene County, Virginia | 1540 | 1.0234 | 1.0234 | 16820
49400 | Greensville County, Virginia | 49 | 0.8420 | 0.8012 | 99949
49410 | Halifax County, Virginia | 49 | 0.8420 | 0.8012 | 99949
49411 | Hampton City County, Virginia | 5720 | 0.8808 | 0.8808 | 47260
49420 | Hanover County, Virginia | 6760 | 0.9338 | 0.9338 | 40060
49421 | Harrisonburg City County, Virginia | 49 | 0.8420 | 0.9098 | 25500
49430 | Henrico County, Virginia | 6760 | 0.9338 | 0.9338 | 40060
49440 | Henry County, Virginia | 49 | 0.8420 | 0.8012 | 99949
49450 | Highland County, Virginia | 49 | 0.8420 | 0.8012 | 99949
49451 | Hopewell City County, Virginia | 6760 | 0.9338 | 0.9338 | 40060
49460 | Isle Of Wight County, Virginia | 5720 | 0.8808 | 0.8808 | 47260
49470 | James City Co County, Virginia | 5720 | 0.8808 | 0.8808 | 47260
49480 | King And Queen County, Virginia | 49 | 0.8420 | 0.9338 | 40060
49490 | King George County, Virginia | 8840 | 1.0983 | 0.8012 | 99949
49500 | King William County, Virginia | 49 | 0.8420 | 0.9338 | 40060
49510 | Lancaster County, Virginia | 49 | 0.8420 | 0.8012 | 99949
49520 | Lee County, Virginia | 49 | 0.8420 | 0.8012 | 99949
49522 | Lexington County, Virginia | 49 | 0.8420 | 0.8012 | 99949
49530 | Loudoun County, Virginia | 8840 | 1.0983 | 1.0932 | 47894
49540 | Louisa County, Virginia | 49 | 0.8420 | 0.9338 | 40060
49550 | Lunenburg County, Virginia | 49 | 0.8420 | 0.8012 | 99949
49551 | Lynchburg City County, Virginia | 4640 | 0.8700 | 0.8700 | 31340
49560 | Madison County, Virginia | 49 | 0.8420 | 0.8012 | 99949
49561 | Martinsville City County, Virginia | 49 | 0.8420 | 0.8012 | 99949
49563 | Manassas City County, Virginia | 8840 | 1.0983 | 1.0932 | 47894
49565 | Manassas Park City County, Virginia | 8840 | 1.0983 | 1.0932 | 47894
49570 | Mathews County, Virginia | 5720 | 0.8808 | 0.8808 | 47260
49580 | Mecklenburg County, Virginia | 49 | 0.8420 | 0.8012 | 99949
49590 | Middlesex County, Virginia | 49 | 0.8420 | 0.8012 | 99949
49600 | Montgomery County, Virginia | 49 | 0.8420 | 0.7962 | 13980
49610 | Nansemond County, Virginia | 49 | 0.8420 | 0.8012 | 99949
49620 | Nelson County, Virginia | 49 | 0.8420 | 1.0234 | 16820
49621 | New Kent County, Virginia | 6760 | 0.9338 | 0.9338 | 40060
49622 | Newport News City County, Virginia | 5720 | 0.8808 | 0.8808 | 47260
49641 | Norfolk City County, Virginia | 5720 | 0.8808 | 0.8808 | 47260
49650 | Northampton County, Virginia | 49 | 0.8420 | 0.8012 | 99949
49660 | Northumberland County, Virginia | 49 | 0.8420 | 0.8012 | 99949
49661 | Norton City County, Virginia | 49 | 0.8420 | 0.8012 | 99949
49670 | Nottoway County, Virginia | 49 | 0.8420 | 0.8012 | 99949
49680 | Orange County, Virginia | 49 | 0.8420 | 0.8012 | 99949
49690 | Page County, Virginia | 49 | 0.8420 | 0.8012 | 99949
49700 | Patrick County, Virginia | 49 | 0.8420 | 0.8012 | 99949
49701 | Petersburg City County, Virginia | 6760 | 0.9338 | 0.9338 | 40060
49710 | Pittsylvania County, Virginia | 1950 | 0.8497 | 0.8497 | 19260
49711 | Portsmouth City County, Virginia | 5720 | 0.8808 | 0.8808 | 47260
49712 | Poquoson City County, Virginia | 5720 | 0.8808 | 0.8808 | 47260
49720 | Powhatan County, Virginia | 6760 | 0.9338 | 0.9338 | 40060
49730 | Prince Edward County, Virginia | 49 | 0.8420 | 0.8012 | 99949
49740 | Prince George County, Virginia | 6760 | 0.9338 | 0.9338 | 40060
49750 | Prince William County, Virginia | 8840 | 1.0983 | 1.0932 | 47894
49770 | Pulaski County, Virginia | 49 | 0.8420 | 0.7962 | 13980
49771 | Radford City County, Virginia | 49 | 0.8420 | 0.7962 | 13980
49780 | Rappahannock County, Virginia | 49 | 0.8420 | 0.8012 | 99949
49790 | Richmond County, Virginia | 49 | 0.8420 | 0.8012 | 99949
49791 | Richmond City County, Virginia | 6760 | 0.9338 | 0.9338 | 40060
49800 | Roanoke County, Virginia | 6800 | 0.8395 | 0.8383 | 40220
49801 | Roanoke City County, Virginia | 6800 | 0.8395 | 0.8383 | 40220
49810 | Rockbridge County, Virginia | 49 | 0.8420 | 0.8012 | 99949
49820 | Rockingham County, Virginia | 49 | 0.8420 | 0.9098 | 25500
49830 | Russell County, Virginia | 49 | 0.8420 | 0.8012 | 99949
49838 | Salem County, Virginia | 6800 | 0.8395 | 0.8383 | 40220
49840 | Scott County, Virginia | 3660 | 0.8015 | 0.8062 | 28700
49850 | Shenandoah County, Virginia | 49 | 0.8420 | 0.8012 | 99949
49860 | Smyth County, Virginia | 49 | 0.8420 | 0.8012 | 99949
49867 | South Boston City County, Virginia | 49 | 0.8420 | 0.8012 | 99949
49870 | Southampton County, Virginia | 49 | 0.8420 | 0.8012 | 99949
49880 | Spotsylvania County, Virginia | 8840 | 1.0983 | 1.0932 | 47894
49890 | Stafford County, Virginia | 8840 | 1.0983 | 1.0932 | 47894
49891 | Staunton City County, Virginia | 49 | 0.8420 | 0.8012 | 99949
49892 | Suffolk City County, Virginia | 5720 | 0.8808 | 0.8808 | 47260
49900 | Surry County, Virginia | 49 | 0.8420 | 0.8808 | 47260
49910 | Sussex County, Virginia | 49 | 0.8420 | 0.9338 | 40060
49920 | Tazewell County, Virginia | 49 | 0.8420 | 0.8012 | 99949
49921 | Virginia Beach City County, Virginia | 5720 | 0.8808 | 0.8808 | 47260
49930 | Warren County, Virginia | 8840 | 1.0983 | 1.0932 | 47894
49950 | Washington County, Virginia | 3660 | 0.8015 | 0.8062 | 28700
49951 | Waynesboro City County, Virginia | 49 | 0.8420 | 0.8012 | 99949
49960 | Westmoreland County, Virginia | 49 | 0.8420 | 0.8012 | 99949
49961 | Williamsburg City County, Virginia | 5720 | 0.8808 | 0.8808 | 47260
49962 | Winchester City County, Virginia | 49 | 0.8420 | 1.0224 | 49020
49970 | Wise County, Virginia | 49 | 0.8420 | 0.8012 | 99949
49980 | Wythe County, Virginia | 49 | 0.8420 | 0.8012 | 99949
49981 | York County, Virginia | 5720 | 0.8808 | 0.8808 | 47260
50000 | Adams County, Washington | 50 | 1.0194 | 1.0458 | 99950
50010 | Asotin County, Washington | 50 | 1.0194 | 0.9896 | 30300
50020 | Benton County, Washington | 6740 | 1.0630 | 1.0630 | 28420
50030 | Chelan County, Washington | 50 | 1.0194 | 1.0080 | 48300
50040 | Clallam County, Washington | 50 | 1.0194 | 1.0458 | 99950
50050 | Clark County, Washington | 6440 | 1.1260 | 1.1260 | 38900
50060 | Columbia County, Washington | 50 | 1.0194 | 1.0458 | 99950
50070 | Cowlitz County, Washington | 50 | 1.0194 | 0.9523 | 31020
50080 | Douglas County, Washington | 50 | 1.0194 | 1.0080 | 48300
50090 | Ferry County, Washington | 50 | 1.0194 | 1.0458 | 99950
50100 | Franklin County, Washington | 6740 | 1.0630 | 1.0630 | 28420
50110 | Garfield County, Washington | 50 | 1.0194 | 1.0458 | 99950
50120 | Grant County, Washington | 50 | 1.0194 | 1.0458 | 99950
50130 | Grays Harbor County, Washington | 50 | 1.0194 | 1.0458 | 99950
50140 | Island County, Washington | 7600 | 1.1579 | 1.0458 | 99950
50150 | Jefferson County, | 50 | 1.0194 | 1.0458 | 99950
50160 | King County, Washington | 7600 | 1.1579 | 1.1589 | 42644
50170 | Kitsap County, Washington | 1150 | 1.0686 | 1.0686 | 14740
50180 | Kittitas County, Washington | 50 | 1.0194 | 1.0458 | 99950
50190 | Klickitat County, | 50 | 1.0194 | 1.0458 | 99950
50200 | Lewis County, Washington | 50 | 1.0194 | 1.0458 | 99950
50210 | Lincoln County, Washington | 50 | 1.0194 | 1.0458 | 99950
50220 | Mason County, Washington | 50 | 1.0194 | 1.0458 | 99950
50230 | Okanogan County, Washington | 50 | 1.0194 | 1.0458 | 99950
50240 | Pacific County, Washington | 50 | 1.0194 | 1.0458 | 99950
50250 | Pend Oreille County, | 50 | 1.0194 | 1.0458 | 99950
50260 | Pierce County, Washington | 8200 | 1.0753 | 1.0753 | 45104
50270 | San Juan County, Washington | 50 | 1.0194 | 1.0458 | 99950
50280 | Skagit County, Washington | 50 | 1.0194 | 1.0465 | 34580
50290 | Skamania County, Washington | 50 | 1.0194 | 1.1260 | 38900
50300 | Snohomish County, Washington | 7600 | 1.1579 | 1.1589 | 42644
50310 | Spokane County, Washington | 7840 | 1.0916 | 1.0916 | 44060
50320 | Stevens County, Washington | 50 | 1.0194 | 1.0458 | 99950
50330 | Thurston County, Washington | 5910 | 1.0938 | 1.0938 | 36500
50340 | Wahkiakum County, Washington | 50 | 1.0194 | 1.0458 | 99950
50350 | Walla Walla County, Washington | 50 | 1.0194 | 1.0458 | 99950
50360 | Whatcom County, Washington | 0860 | 1.1743 | 1.1743 | 13380
50370 | Whitman County, Washington | 50 | 1.0194 | 1.0458 | 99950
50380 | Yakima County, Washington | 9260 | 1.0165 | 1.0165 | 49420
51000 | Barbour County, W Virginia | 51 | 0.7908 | 0.7725 | 99951
51010 | Berkeley County, W Virginia | 8840 | 1.0983 | 0.9499 | 25180
51020 | Boone County, W Virginia | 51 | 0.7908 | 0.8428 | 16620
51030 | Braxton County, W Virginia | 51 | 0.7908 | 0.7725 | 99951
51040 | Brooke County, W Virginia | 8080 | 0.7827 | 0.7827 | 48260
51050 | Cabell County, W Virginia | 3400 | 0.9486 | 0.9486 | 26580
51060 | Calhoun County, W Virginia | 51 | 0.7908 | 0.7725 | 99951
51070 | Clay County, W Virginia | 51 | 0.7908 | 0.8428 | 16620
51080 | Doddridge County, W Virginia | 51 | 0.7908 | 0.7725 | 99951
51090 | Fayette County, W Virginia | 51 | 0.7908 | 0.7725 | 99951
51100 | Gilmer County, W Virginia | 51 | 0.7908 | 0.7725 | 99951
51110 | Grant County, W Virginia | 51 | 0.7908 | 0.7725 | 99951
51120 | Greenbrier County, W Virginia | 51 | 0.7908 | 0.7725 | 99951
51130 | Hampshire County, W Virginia | 51 | 0.7908 | 1.0224 | 49020
51140 | Hancock County, W Virginia | 8080 | 0.7827 | 0.7827 | 48260
51150 | Hardy County, W Virginia | 51 | 0.7908 | 0.7725 | 99951
51160 | Harrison County, W Virginia | 51 | 0.7908 | 0.7725 | 99951
51170 | Jackson County, W Virginia | 51 | 0.7908 | 0.7725 | 99951
51180 | Jefferson County, W Virginia | 8840 | 1.0983 | 1.0932 | 47894
51190 | Kanawha County, W Virginia | 1480 | 0.8428 | 0.8428 | 16620
51200 | Lewis County, W Virginia | 51 | 0.7908 | 0.7725 | 99951
51210 | Lincoln County, W Virginia | 51 | 0.7908 | 0.8428 | 16620
51220 | Logan County, W Virginia | 51 | 0.7908 | 0.7725 | 99951
51230 | Mc Dowell County, W | 51 | 0.7908 | 0.7725 | 99951
51240 | Marion County, W Virginia | 51 | 0.7908 | 0.7725 | 99951
51250 | Marshall County, W Virginia | 9000 | 0.7168 | 0.7168 | 48540
51260 | Mason County, W Virginia | 51 | 0.7908 | 0.7725 | 99951
51270 | Mercer County, W Virginia | 51 | 0.7908 | 0.7725 | 99951
51280 | Mineral County, W Virginia | 1900 | 0.9326 | 0.9326 | 19060
51290 | Mingo County, W Virginia | 51 | 0.7908 | 0.7725 | 99951
51300 | Monongalia County, W | 51 | 0.7908 | 0.8428 | 34060
51310 | Monroe County, W Virginia | 51 | 0.7908 | 0.7725 | 99951
51320 | Morgan County, W Virginia | 51 | 0.7908 | 0.9499 | 25180
51330 | Nicholas County, W Virginia | 51 | 0.7908 | 0.7725 | 99951
51340 | Ohio County, W Virginia | 9000 | 0.7168 | 0.7168 | 48540
51350 | Pendleton County, W | 51 | 0.7908 | 0.7725 | 99951
51360 | Pleasants County, W Virginia | 51 | 0.7908 | 0.8278 | 37620
51370 | Pocahontas County, W | 51 | 0.7908 | 0.7725 | 99951
51380 | Preston County, W Virginia | 51 | 0.7908 | 0.8428 | 34060
51390 | Putnam County, W Virginia | 1480 | 0.8428 | 0.8428 | 16620
51400 | Raleigh County, W Virginia | 51 | 0.7908 | 0.7725 | 99951
51410 | Randolph County, W Virginia | 51 | 0.7908 | 0.7725 | 99951
51420 | Ritchie County, W Virginia | 51 | 0.7908 | 0.7725 | 99951
51430 | Roane County, W Virginia | 51 | 0.7908 | 0.7725 | 99951
51440 | Summers County, W Virginia | 51 | 0.7908 | 0.7725 | 99951
51450 | Taylor County, W Virginia | 51 | 0.7908 | 0.7725 | 99951
51460 | Tucker County, W Virginia | 51 | 0.7908 | 0.7725 | 99951
51470 | Tyler County, W Virginia | 51 | 0.7908 | 0.7725 | 99951
51480 | Upshur County, W Virginia | 51 | 0.7908 | 0.7725 | 99951
51490 | Wayne County, W Virginia | 3400 | 0.9486 | 0.9486 | 26580
51500 | Webster County, W Virginia | 51 | 0.7908 | 0.7725 | 99951
51510 | Wetzel County, W Virginia | 51 | 0.7908 | 0.7725 | 99951
51520 | Wirt County, W Virginia | 51 | 0.7908 | 0.8278 | 37620
51530 | Wood County, W Virginia | 6020 | 0.8278 | 0.8278 | 37620
51540 | Wyoming County, W Virginia | 51 | 0.7908 | 0.7725 | 99951
52000 | Adams County, Wisconsin | 52 | 0.9446 | 0.9480 | 99952
52010 | Ashland County, Wisconsin | 52 | 0.9446 | 0.9480 | 99952
52020 | Barron County, Wisconsin | 52 | 0.9446 | 0.9480 | 99952
52030 | Bayfield County, Wisconsin | 52 | 0.9446 | 0.9480 | 99952
52040 | Brown County, Wisconsin | 3080 | 0.9452 | 0.9452 | 24580
52050 | Buffalo County, Wisconsin | 52 | 0.9446 | 0.9480 | 99952
52060 | Burnett County, Wisconsin | 52 | 0.9446 | 0.9480 | 99952
52070 | Calumet County, Wisconsin | 0460 | 0.9248 | 0.9298 | 11540
52080 | Chippewa County, Wisconsin | 2290 | 0.9210 | 0.9210 | 20740
52090 | Clark County, Wisconsin | 52 | 0.9446 | 0.9480 | 99952
52100 | Columbia County, Wisconsin | 52 | 0.9446 | 1.0635 | 31540
52110 | Crawford County, Wisconsin | 52 | 0.9446 | 0.9480 | 99952
52120 | Dane County, Wisconsin | 4720 | 1.0764 | 1.0635 | 31540
52130 | Dodge County, Wisconsin | 52 | 0.9446 | 0.9480 | 99952
52140 | Door County, Wisconsin | 52 | 0.9446 | 0.9480 | 99952
52150 | Douglas County, Wisconsin | 2240 | 1.0223 | 1.0209 | 20260
52160 | Dunn County, Wisconsin | 52 | 0.9446 | 0.9480 | 99952
52170 | Eau Claire County, Wisconsin | 2290 | 0.9210 | 0.9210 | 20740
52180 | Florence County, Wisconsin | 52 | 0.9446 | 0.9480 | 99952
52190 | Fond Du Lac County, Wisconsin | 52 | 0.9446 | 0.9650 | 22540
52200 | Forest County, Wisconsin | 52 | 0.9446 | 0.9480 | 99952
52210 | Grant County, Wisconsin | 52 | 0.9446 | 0.9480 | 99952
52220 | Green County, Wisconsin | 52 | 0.9446 | 0.9480 | 99952
52230 | Green Lake County, Wisconsin | 52 | 0.9446 | 0.9480 | 99952
52240 | Iowa County, Wisconsin | 52 | 0.9446 | 1.0635 | 31540
52250 | Iron County, Wisconsin | 52 | 0.9446 | 0.9480 | 99952
52260 | Jackson County, Wisconsin | 52 | 0.9446 | 0.9480 | 99952
52270 | Jefferson County, Wisconsin | 52 | 0.9446 | 0.9480 | 99952
52280 | Juneau County, Wisconsin | 52 | 0.9446 | 0.9480 | 99952
52290 | Kenosha County, Wisconsin | 3800 | 0.9770 | 1.0440 | 29404
52300 | Kewaunee County, Wisconsin | 52 | 0.9446 | 0.9452 | 24580
52310 | La Crosse County, Wisconsin | 3870 | 0.9573 | 0.9573 | 29100
52320 | Lafayette County, Wisconsin | 52 | 0.9446 | 0.9480 | 99952
52330 | Langlade County, Wisconsin | 52 | 0.9446 | 0.9480 | 99952
52340 | Lincoln County, Wisconsin | 52 | 0.9446 | 0.9480 | 99952
52350 | Manitowoc County, Wisconsin | 52 | 0.9446 | 0.9480 | 99952
52360 | Marathon County, Wisconsin | 8940 | 0.9600 | 0.9600 | 48140
52370 | Marinette County, Wisconsin | 52 | 0.9446 | 0.9480 | 99952
52380 | Marquette County, Wisconsin | 52 | 0.9446 | 0.9480 | 99952
52381 | Menominee County, Wisconsin | 52 | 0.9446 | 0.9480 | 99952
52390 | Milwaukee County, Wisconsin | 5080 | 1.0106 | 1.0106 | 33340
52400 | Monroe County, Wisconsin | 52 | 0.9446 | 0.9480 | 99952
52410 | Oconto County, Wisconsin | 52 | 0.9446 | 0.9452 | 24580
52420 | Oneida County, Wisconsin | 52 | 0.9446 | 0.9480 | 99952
52430 | Outagamie County, Wisconsin | 0460 | 0.9248 | 0.9298 | 11540
52440 | Ozaukee County, Wisconsin | 5080 | 1.0106 | 1.0106 | 33340
52450 | Pepin County, Wisconsin | 52 | 0.9446 | 0.9480 | 99952
52460 | Pierce County, Wisconsin | 5120 | 1.1078 | 1.1078 | 33460
52470 | Polk County, Wisconsin | 52 | 0.9446 | 0.9480 | 99952
52480 | Portage County, Wisconsin | 52 | 0.9446 | 0.9480 | 99952
52490 | Price County, Wisconsin | 52 | 0.9446 | 0.9480 | 99952
52500 | Racine County, Wisconsin | 6600 | 0.9006 | 0.9006 | 39540
52510 | Richland County, Wisconsin | 52 | 0.9446 | 0.9480 | 99952
52520 | Rock County, Wisconsin | 3620 | 0.9547 | 0.9547 | 27500
52530 | Rusk County, Wisconsin | 52 | 0.9446 | 0.9480 | 99952
52540 | St Croix County, Wisconsin | 5120 | 1.1078 | 1.1078 | 33460
52550 | Sauk County, Wisconsin | 52 | 0.9446 | 0.9480 | 99952
52560 | Sawyer County, Wisconsin | 52 | 0.9446 | 0.9480 | 99952
52570 | Shawano County, Wisconsin | 52 | 0.9446 | 0.9480 | 99952
52580 | Sheboygan County, Wisconsin | 7620 | 0.8920 | 0.8920 | 43100
52590 | Taylor County, Wisconsin | 52 | 0.9446 | 0.9480 | 99952
52600 | Trempealeau County, Wisconsin | 52 | 0.9446 | 0.9480 | 99952
52610 | Vernon County, Wisconsin | 52 | 0.9446 | 0.9480 | 99952
52620 | Vilas County, Wisconsin | 52 | 0.9446 | 0.9480 | 99952
52630 | Walworth County, Wisconsin | 52 | 0.9446 | 0.9480 | 99952
52640 | Washburn County, Wisconsin | 52 | 0.9446 | 0.9480 | 99952
52650 | Washington County, Wisconsin | 5080 | 1.0106 | 1.0106 | 33340
52660 | Waukesha County, Wisconsin | 5080 | 1.0106 | 1.0106 | 33340
52670 | Waupaca County, Wisconsin | 52 | 0.9446 | 0.9480 | 99952
52680 | Waushara County, Wisconsin | 52 | 0.9446 | 0.9480 | 99952
52690 | Winnebago County, Wisconsin | 0460 | 0.9248 | 0.9192 | 36780
52700 | Wood County, Wisconsin | 52 | 0.9446 | 0.9480 | 99952
53000 | Albany County, Wyoming | 53 | 0.9214 | 0.9214 | 99953
53010 | Big Horn County, Wyoming | 53 | 0.9214 | 0.9214 | 99953
53020 | Campbell County, Wyoming | 53 | 0.9214 | 0.9214 | 99953
53030 | Carbon County, Wyoming | 53 | 0.9214 | 0.9214 | 99953
53040 | Converse County, Wyoming | 53 | 0.9214 | 0.9214 | 99953
53050 | Crook County, Wyoming | 53 | 0.9214 | 0.9214 | 99953
53060 | Fremont County, Wyoming | 53 | 0.9214 | 0.9214 | 99953
53070 | Goshen County, Wyoming | 53 | 0.9214 | 0.9214 | 99953
53080 | Hot Springs County, Wyoming | 53 | 0.9214 | 0.9214 | 99953
53090 | Johnson County, Wyoming | 53 | 0.9214 | 0.9214 | 99953
53100 | Laramie County, Wyoming | 1580 | 0.8784 | 0.8784 | 16940
53110 | Lincoln County, Wyoming | 53 | 0.9214 | 0.9214 | 99953
53120 | Natrona County, Wyoming | 1350 | 0.9035 | 0.9035 | 16220
53130 | Niobrara County, Wyoming | 53 | 0.9214 | 0.9214 | 99953
53140 | Park County, Wyoming | 53 | 0.9214 | 0.9214 | 99953
53150 | Platte County, Wyoming | 53 | 0.9214 | 0.9214 | 99953
53160 | Sheridan County, Wyoming | 53 | 0.9214 | 0.9214 | 99953
53170 | Sublette County, Wyoming | 53 | 0.9214 | 0.9214 | 99953
53180 | Sweetwater County, Wyoming | 53 | 0.9214 | 0.9214 | 99953
53190 | Teton County, Wyoming | 53 | 0.9214 | 0.9214 | 99953
53200 | Uinta County, Wyoming | 53 | 0.9214 | 0.9214 | 99953
53210 | Washakie County, Wyoming | 53 | 0.9214 | 0.9214 | 99953
53220 | Weston County, Wyoming | 53 | 0.9214 | 0.9214 | 99953

[FR Doc. 05-13674 Filed 7-8-05; 4:01 pm]

BILLING CODE 4120-01-P